DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for date(s) sanctions become effective.

FOR FURTHER INFORMATION CONTACT:

OFAC: Associate Director for Global Targeting, tel.: 202-622-2420; Assistant Director for Sanctions Compliance & Evaluation, tel.: 202-622-2490; or Assistant Director for Licensing, tel.: 202-622-2480.

SUPPLEMENTARY INFORMATION:

Electronic Availability

The Specially Designated Nationals and Blocked Persons List and additional information concerning OFAC sanctions programs are available on OFAC's website (www.treas.gov/ofac).

Notice of OFAC Actions

On November 5, 2018, OFAC determined that the property and interests in property subject to U.S. jurisdiction of the following persons are blocked under the relevant sanctions authorities listed below.

Individuals

1. BEHZAD, Morteza Ahmadali (a.k.a. BEHZAD, Morteza; a.k.a. BEHZADI, Morteza); DOB 1959; alt. DOB 1960; POB Yazd, Iran; nationality Iran; Additional Sanctions Information—Subject to Secondary Sanctions; Gender Male; National ID No. 4432151609 (Iran) (individual) [NPWMD] [IFSR] (Linked To: PISHRO SYSTEMS RESEARCH COMPANY).

Designated pursuant to section 1(a)(iv) of Executive Order 13382 of June 28, 2005, “Blocking Property of Weapons of Mass Destruction Proliferators and Their Supporters,” 70 FR 38565, 3 CFR 13382 (E.O. 13382) for acting or purporting to act for or on behalf of, directly or indirectly, PISHRO SYSTEMS RESEARCH COMPANY, a person whose property and interests in property are blocked pursuant to E.O. 13382.

2. CHAGHAZARDY, Mohammad Kazem (a.k.a. CHAGHAZARDI, Mahammadkazem; a.k.a. CHAGHAZARDY, MohammadKazem); DOB 21 Jan 1962; nationality Iran; Additional Sanctions Information—Subject to Secondary Sanctions; Gender Male (individual) [NPWMD] [IFSR] (Linked To: BANK SEPAH).

Designated pursuant to section 1(a)(iv) of E.O. 13382 for acting or purporting to act for or on behalf of, directly or indirectly, BANK SEPAH, a person whose property and interests in property are blocked pursuant to E.O. 13382.

3. KHALILI, Jamshid; DOB 23 Sep 1957; Additional Sanctions Information—Subject to Secondary Sanctions; Gender Male; Passport Y28308325 (Iran) (individual) [IRAN].

Identified as meeting the definition of the term Government of Iran as set forth in section 7(d) of Executive Order 13599 of February 5, 2012, “Blocking Property of the Government of Iran and Iranian Financial Institutions” 77 FR 6659, 3 CFR 13599 (E.O. 13599) and section 560.304 of the Iranian Transactions and Sanctions Regulations (ITSR), 31 CFR part 560.

4. DAJMAR, Mohammad Hossein; DOB 19 Feb 1956; Additional Sanctions Information—Subject to Secondary Sanctions; Gender Male (individual) [IRAN].

Identified as meeting the definition of the term Government of Iran as set forth in section 7(d) of E.O. 13599 and section 560.304 of the ITSR, 31 CFR part 560.

5. ESLAMI, Mansour; DOB 21 Jan 1965; Additional Sanctions Information—Subject to Secondary Sanctions; Gender Male; Passport H37045909 (Iran) (individual) [IRAN].

Identified as meeting the definition of the term Government of Iran as set forth in section 7(d) of E.O. 13599 and section 560.304 of the ITSR, 31 CFR part 560.

6. BATENI, Naser; DOB 16 Dec 1962; Additional Sanctions Information—Subject to Secondary Sanctions; Gender Male (individual) [IRAN].

Identified as meeting the definition of the term Government of Iran as set forth in section 7(d) of E.O. 13599 and section 560.304 of the ITSR, 31 CFR part 560.

7. YOUSEFPOUR, Ali; DOB 01 Jan 1955 to 31 Dec 1955; Additional Sanctions Information—Subject to Secondary Sanctions; Gender Male (individual) [IRAN].

Identified as meeting the definition of the term Government of Iran as set forth in section 7(d) of E.O. 13599 and section 560.304 of the ITSR, 31 CFR part 560.

8. YAZDAN JOO, Mohammad Ali; DOB 03 Jun 1962; Additional Sanctions Information—Subject to Secondary Sanctions; Gender Male (individual) [IRAN].

Identified as meeting the definition of the term Government of Iran as set forth in section 7(d) of E.O. 13599 and section 560.304 of the ITSR, 31 CFR part 560.

9. SURI, Muhammad; DOB 01 Jan 1946 to 31 Dec 1946; Additional Sanctions Information—Subject to Secondary Sanctions; Gender Male (individual) [IRAN].

Identified as meeting the definition of the term Government of Iran as set forth in section 7(d) of E.O. 13599 and section 560.304 of the ITSR, 31 CFR part 560.

10. KHOSROWTAJ, Mojtaba; DOB 09 Nov 1952; Additional Sanctions Information—Subject to Secondary Sanctions; Gender Male; Passport D9016371 (Iran) (individual) [IRAN].

Identified as meeting the definition of the term Government of Iran as set forth in section 7(d) of E.O. 13599 and section 560.304 of the ITSR, 31 CFR part 560.

11. SAEEDI, Mohammed; DOB 22 Nov 1962; Additional Sanctions Information—Subject to Secondary Sanctions; Gender Male; Passport W40899252 (Iran) (individual) [IRAN].

Identified as meeting the definition of the term Government of Iran as set forth in section 7(d) of E.O. 13599 and section 560.304 of the ITSR, 31 CFR part 560.

12. REZVANIANZADEH, Mohammed Reza (a.k.a. REZVANIANZADE, Mohammad Reza; a.k.a. REZVANIANZADEH, Mohammad Reza; a.k.a. REZVANYANZADEH, Mohammadreza); DOB 11 Dec 1969; POB Ardestan, Iran; Additional Sanctions Information—Subject to Secondary Sanctions; Gender Male; Passport G10506469 (Iran) expires 12 Dec 2022 (individual) [IRAN] (Linked To: ATOMIC ENERGY ORGANIZATION OF IRAN).

Identified pursuant to section 1(c) of E.O. 13599 for having acted or purported to act for or on behalf of, directly or indirectly, the ATOMIC ENERGY ORGANIZATION OF IRAN, a person whose property and interests in property are blocked pursuant to E.O. 13599.

13. SAFDARI, Seyed Jaber (a.k.a. SAFDARI, Sayyed Jaber; a.k.a. SAFDARI, Seyyed Jaber); DOB 1968 to 1969; Additional Sanctions Information—Subject to Secondary Sanctions; Gender Male (individual) [IRAN] (Linked To: ADVANCED TECHNOLOGIES COMPANY OF IRAN).

Identified pursuant to section 1(c) of E.O. 13599 for having acted or purported to act for or on behalf of, directly or indirectly, ADVANCED TECHNOLOGIES COMPANY OF IRAN, a person whose property and interests in property are blocked pursuant to E.O. 13599.

Entities

1. ATOMIC ENERGY ORGANIZATION OF IRAN (a.k.a. AEOI), North kargar street, P.O. Box 14155-1339, Tehran, Iran; website http://www.aeoi.org.ir; Additional Sanctions Information—Subject to Secondary Sanctions [IRAN].

Identified as meeting the definition of the term Government of Iran as set forth in section 7(d) of E.O. 13599 and section 560.304 of the ITSR, 31 CFR part 560.

2. PARS ISOTOPE COMPANY, No. 88, West 23rd St. Azadegan Blvd. South Sheykh Bahaie Ave., Tehran, Iran; website http://www.parsisotope.com; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

3. RADIATION APPLICATIONS DEVELOPMENT COMPANY (a.k.a. RADIATION APPLICATIONS DEVELOPMENT HOLDING COMPANY; a.k.a. “RAD”; a.k.a. “RADIATION APPLICATIONS”), Tehran, Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

4. URANIUM PROCESSING AND NUCLEAR FUEL COMPANY (a.k.a. FATSA COMPANY; a.k.a. URANIUM PROCESSING AND NUCLEAR FUEL COMPANY OF IRAN; a.k.a. URANIUM PROCESSING AND NUCLEAR FUEL PRODUCTION COMPANY; a.k.a. “FATSA”), Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

5. POWER PLANT EQUIPMENT MANUFACTURING COMPANY (a.k.a. SATNA COMPANY; a.k.a. “POWERPLANT EQUIPMENT MANUFACTURING COMPANY”; a.k.a. “SATNA”), Tehran, Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

6. AEOI BASIJ RESISTANCE CENTER (a.k.a. BASIJ RESISTANCE CENTER OF THE AEOI), Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

7. ADVANCED TECHNOLOGIES COMPANY OF IRAN (f.k.a. GHANI SAZI ENRICHMENT; f.k.a. IRANIAN ENRICHMENT COMPANY; a.k.a. “ADVANCED TECHNOLOGIES”; a.k.a. “ADVANCED TECHNOLOGIES COMPANY”; a.k.a. “ADVANCED TECHNOLOGIES HOLDING COMPANY”; a.k.a. “IATC”), Tehran, Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

8. NOVIN ENERGY COMPANY (a.k.a. ENERGY NOVIN COMPANY; a.k.a. ENERGY NOVIN CORPORATION; a.k.a. NOVIN ENERGY; a.k.a. NOVIN ENERGY CORPORATION), Tehran, Iran; 1st Shaghayegh Bld., North Kargar St., Tehran, Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

9. ATOMIC FUEL DEVELOPMENT ENGINEERING COMPANY (a.k.a. ENERGY NOVIN INDUSTRIAL DEVELOPMENT; a.k.a. MATSA COMPANY; a.k.a. “ENID”; a.k.a. “MATSA”), Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

10. MESBAH ENERGY COMPANY (a.k.a. MESBAH ENERGY), Science & Technology Park, Shahid Ghoddousi Blvd., Arak, Iran; Tehran, Iran; website www.isotope.ir; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

11. IRAN'S NUCLEAR POWER PLANT CONSTRUCTION MANAGEMENT COMPANY (a.k.a. “MASNA”); Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

12. NUCLEAR POWER PRODUCTION AND DEVELOPMENT COMPANY OF IRAN (a.k.a. NUCLEAR POWER PRODUCTION AND DEVELOPMENT HOLDING COMPANY; a.k.a. “NPPD”), No. 8, Tandis St., Africa Ave., Tehran, Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

13. RASTIN KHADAMAT PARSIAN COMPANY (a.k.a. PARSIAN TECHNOLOGY SUPPORT COMPANY), Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

14. TAMAS COMPANY (a.k.a. NUCLEAR FUEL AND RAW MATERIALS PRODUCTION COMPANY; a.k.a. RAW MATERIALS AND NUCLEAR FUEL PRODUCTION COMPANY; a.k.a. “TAMAS”), Shahid Chamran Building, North Kargar Street, Tehran, Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

15. NUCLEAR INDUSTRY EXPLORATION AND RAW MATERIALS PRODUCTION COMPANY (a.k.a. EXPLORATION AND NUCLEAR RAW MATERIAL PRODUCTION COMPANY; a.k.a. EXPLORATION AND NUCLEAR RAW MATERIALS PRODUCTION COMPANY; a.k.a. “EMKA”), Iran; Additional Sanctions Information—Subject to Secondary Sanctions [IRAN] (Linked To: TAMAS COMPANY).

Identified pursuant to section 1(c) of E.O. 13599 for being owned or controlled by, or for having acted or purported to act for or on behalf of, directly or indirectly, TAMAS COMPANY, a person whose property and interests in property are blocked pursuant to E.O. 13599.

16. NOVIN PARS MINERAL EXPLORATION AND MINING ENGINEERING COMPANY (a.k.a. NOVIN KHARA; a.k.a. NOVIN KHARA MINERAL MINING EXTRACTION COMPANY; a.k.a. NOVIN PARS MINERAL EXPLORATION AND MINING COMPANY; a.k.a. NOVIN PARS MINERAL MINING COMPANY; a.k.a. “ASKAM”; a.k.a. “ESKAM”; a.k.a. “MINERAL MINING EXTRACTION COMPANY”; a.k.a. “SKAM”), Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

17. THE NUCLEAR REACTORS FUEL COMPANY (a.k.a. “SOOREH”; a.k.a. “SUREH”), End of North Kargar Street, Shahid Abtahi Street, (20th), #61, Tehran, Iran; Esfahan Complex Khalije Fars Blvd., 20 km southeast of Esfahan, P.O. Box: 81465-1957, Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

18. NUCLEAR SCIENCE AND TECHNOLOGY RESEARCH INSTITUTE (a.k.a. NUCLEAR SCIENCES AND TECHNOLOGIES RESEARCH INSTITUTE; a.k.a. “NSTRI”), North Kargar Street, Tehran, Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

19. AGRICULTURAL, MEDICAL, AND INDUSTRIAL RESEARCH CENTER (a.k.a. KARAJ NUCLEAR RESEARCH CENTER FOR AGRICULTURE AND MEDICINE; f.k.a. NUCLEAR RESEARCH CENTER FOR AGRICULTURE AND MEDICINE; a.k.a. “AMIRC”; f.k.a. “NRCAM”), Karaj, Iran; Additional Sanctions Information—Subject to Secondary Sanctions [IRAN] (Linked To: NUCLEAR SCIENCE AND TECHNOLOGY RESEARCH INSTITUTE).

Identified pursuant to section 1(c) of E.O. 13599 for being owned or controlled by, or for having acted or purported to act for or on behalf of, directly or indirectly, Iran's NUCLEAR SCIENCE AND TECHNOLOGY RESEARCH INSTITUTE, a person whose property and interests in property are blocked pursuant to E.O. 13599.

20. JABBER IBN HAYAN (a.k.a. JABER IBN HAYAN; a.k.a. JABER IBN HAYAN LABORATORY; a.k.a. JABER IBN HAYAN RESEARCH LABORATORY; a.k.a. JABR IBN HAYAN MULTIPURPOSE LABORATORY; a.k.a. “JHL”), Tehran, Iran; Additional Sanctions Information—Subject to Secondary Sanctions [IRAN] (Linked To: ATOMIC ENERGY ORGANIZATION OF IRAN).

Identified pursuant to E.O. 13599 as property in which the ATOMIC ENERGY ORGANIZATION OF IRAN, a person whose property and interests in property are blocked pursuant to E.O. 13599, has an interest.

21. IRAN NUCLEAR REGULATORY AUTHORITY (a.k.a. “INRA”), Tehran, Iran; Additional Sanctions Information—Subject to Secondary Sanctions [IRAN] (Linked To: ATOMIC ENERGY ORGANIZATION OF IRAN).

Identified pursuant to section 1(c) of E.O. 13599 for being owned or controlled by, or for having acted or purported to act for or on behalf of, directly or indirectly, the ATOMIC ENERGY ORGANIZATION OF IRAN, a person whose property and interests in property are blocked pursuant to E.O. 13599.

22. BANK SEPAH, Negin Sepah Building, Head Office of Bank Sepah, Nowrouz Street, Africa Hwy, Argentina Square, Tehran, Iran; 6th Floor, Negin Sepah Building, Nowrouz St., Africa Hwy., Argentina Sq., Tehran 1519662840, Iran; Imam Khomeini Square—PO Box 11364, Tehran, Iran; Hafenstrasse 54, D-60327, Frankfurt am Main, Germany; PO Box 110261, Franfurt am Main, Hessen 60037, Germany; 20 Rue Auguste Vacquerie, Paris 75016, France; Via Barberini 50, Rome 00187, Italy; SWIFT/BIC SEPBIRTH; website www.banksepah.ir; alt. Website www.banksepah.de; Additional Sanctions Information—Subject to Secondary Sanctions; Registration Number 4293; All Offices Worldwide [IRAN] [NPWMD] [IFSR] (Linked To: MINISTRY OF DEFENSE FOR ARMED FORCES LOGISTICS).

Designated pursuant to section 1(a)(iii) of E.O. 13382 for having provided, or attempted to provide, financial, material, technological or other support for, or goods or services in support of, the MINISTRY OF DEFENSE AND ARMED FORCES LOGISTICS, a person whose property and interests in property are blocked pursuant to E.O. 13382.

23. BANK SEPAH INTERNATIONAL PLC, 5/7 Eastcheap, EC3M 1JT, London, United Kingdom; SWIFT/BIC SEPBGB2L; website www.banksepah.co.uk; alt. Website www.banksepah.com; Additional Sanctions Information—Subject to Secondary Sanctions [NPWMD] [IFSR] (Linked To: BANK SEPAH).

Designated pursuant to section 1(a)(iv) of E.O. 13382 for being owned or controlled by, BANK SEPAH, a person whose property and interests in property are blocked pursuant to E.O. 13382.

24. POST BANK OF IRAN (a.k.a. POSTBANK), 237 Motahari Avenue, Tehran 1587618118, Iran; Kouh-e Nour Street, Shahid Motahari Avenue, Tehran 1587618111, Iran; SWIFT/BIC PBIRIRTH; website www.postbank.ir; Additional Sanctions Information—Subject to Secondary Sanctions; All Offices Worldwide [IRAN] [NPWMD] [IFSR] (Linked To: BANK SEPAH).

Designated pursuant to section 1(a)(iii) of E.O. 13382 for having provided, or attempted to provide, financial, material, technological or other support for, or goods or services in support of, BANK SEPAH, a person whose property and interests in property are blocked pursuant to E.O. 13382.

25. BANK OF INDUSTRY AND MINE (a.k.a. BANK OF INDUSTRY & MINE; a.k.a. BANK SANAD VA MADAN; a.k.a. “BIM”), 1655 Vali-E-Asr After Chamran Crossroad, Tehran, Iran; PO Box 15875-4456, Firouzeh Tower, No 2917 Vali-Asr Ave (after Chamran Crossroads), Tehran 1965643511, Iran; SWIFT/BIC BOIMIRTH; website www.bim.ir; Additional Sanctions Information—Subject to Secondary Sanctions; Registration Number 38705 (Iran); All Offices Worldwide [IRAN] [NPWMD] [IFSR] (Linked To: BANK SEPAH).

Designated pursuant to section 1(a)(iii) of E.O. 13382 for having provided, or attempted to provide, financial, material, technological or other support for, or goods or services in support of, BANK SEPAH, a person whose property and interests in property are blocked pursuant to E.O. 13382.

26. EUROPAISCH-IRANISCHE HANDELSBANK AG (a.k.a. EUROPAEISCH-IRANISCHE HANDELSBANK AKTIENGESELLSCHAFT; a.k.a. EUROPAISCH-IRANISCHE HANDELSBANK AKTIENGESELLSCHAFT), Depenau 2, Hamburg 20095, Germany; Postfach 101304, Hamburg 20008, Germany; PO Box 97415-1836, Sanaee Avenue, Kish, Iran; 28 Tandis St, Nelson Mandela Blvd. (Ex North Africa Blvd.), Tehran 19156-33383, Iran; SWIFT/BIC EIHBDEHH; alt. SWIFT/BIC EIHBIRTH; website www.eihbank.de; Additional Sanctions Information—Subject to Secondary Sanctions; Registration Number HRB 14604 (Germany); All Offices Worldwide [IRAN] [NPWMD] [IFSR] (Linked To: BANK OF INDUSTRY AND MINE).

Designated pursuant to section 1(a)(iii) of E.O. 13382 for having provided, or attempted to provide, financial, material, technological or other support for, or goods or services in support of, BANK SEPAH, a person whose property and interests in property are blocked pursuant to E.O. 13382.

Designated pursuant to section 1(a)(iv) of E.O. 13382 for being owned or controlled by, BANK OF INDUSTRY AND MINE, a person whose property and interests in property are blocked pursuant to E.O. 13382.

27. FIRST ISLAMIC INVESTMENT BANK LIMITED (a.k.a. “FIIB”), 19A-3A-3A, Level 31, Business Suite, UOA Centre, No. 19 Jalan, Pinang, Kuala Lumpur 50450, Malaysia; Financial Park Labuan Complex Unit 13 (C), Main Office Tower Jalan Merdeka, Labuan 87000, Malaysia; website www.fiib.com.my; Additional Sanctions Information—Subject to Secondary Sanctions [NPWMD] [IFSR].

Designated pursuant to section 1(a)(iii) of E.O. 13382 for having provided, or attempted to provide, financial, material, technological or other support for, or goods or services in support of, the proliferation of weapons of mass destruction or their means of delivery by Iran, an activity described in section 1(a)(ii) of E.O. 13382.

28. GHAVAMIN BANK (a.k.a. BANK QAVAMIN; f.k.a. GHAVAMIN FINANCIAL & CREDIT INS.; a.k.a. QAVAMIN BANK; a.k.a. QAVVAMIN BANK), Ghavamin Tower, Argentina Sq., Tehran, Iran; website www.ghbi.ir; Additional Sanctions Information—Subject to Secondary Sanctions; Registration Number 397957 (Iran) [IRAN] [IRAN-HR] (Linked To: LAW ENFORCEMENT FORCES OF THE ISLAMIC REPUBLIC OF IRAN).

Designated pursuant to section 1(a)(ii)(B) of Executive Order 13553 of September 28, 2010, “Blocking Property of Certain Persons With Respect to Serious Human Rights Abuses by the Government of Iran and Taking Certain Other Actions,” 75 FR 60567, 3 CFR 13553 (E.O. 13553) for having materially assisted, sponsored, or provided financial, material, or technological support for, or goods or services to or in support of, the LAW ENFORCEMENT FORCES OF THE ISLAMIC REPUBLIC OF IRAN, a person whose property and interests in property are blocked pursuant to E.O. 13553.

29. AYANDEH BANK, Ayandeh Bank Bldg. Floor 1, 15 Shahid Ahmadian St. (15th St.) Ahmad Ghasir (Bucharest) Ave, Tehran, Iran; SWIFT/BIC AYBKIRTH; Additional Sanctions Information—Subject to Secondary Sanctions; All Offices Worldwide [IRAN-TRA] (Linked To: ISLAMIC REPUBLIC OF IRAN BROADCASTING).

Designated pursuant to section 7(a)(vi) of Executive Order 13846 of August 6, 2018, “Reimposing Certain Sanctions With Respect to Iran” 83 FR 38939, 3 CFR 13846 (E.O. 13846) for having materially assisted, sponsored, or provided financial, material, or technological support for, or goods or services to or in support of, ISLAMIC REPUBLIC OF IRAN BROADCASTING, a person whose property and interests in property are blocked pursuant to E.O. 13846.

30. BANK MELLI IRAN (a.k.a. BANK MELLI; a.k.a. MELLI BANK; a.k.a. NATIONAL BANK OF IRAN; a.k.a. “BMI”), Ferdowsi Avenue—PO Box 11365-171, Tehran, Iran; 43 Avenue Montaigne, Paris 75008, France; Room 704-6, Wheelock Hse, 20 Pedder St, Hong Kong; Bank Melli Iran Bldg, 111 St 24, 929 Arasat, Baghdad, Iraq; PO Box 2643, Ruwi, 112, Muscat, Oman; PO Box 2656, Liva Street, Abu Dhabi, United Arab Emirates; PO Box 248, Hamad Bin Abdulla St, Fujairah, United Arab Emirates; PO Box 1888, Clock Tower, Industrial Rd, Al Ain Club Bldg, Al Ain, Abu Dhabi, United Arab Emirates; PO Box 1894, Baniyas St, Deira, Dubai, United Arab Emirates; PO Box 5270, Oman Street Al Nakheel, Ras Al-Khaimah, United Arab Emirates; PO Box 459, Al Borj St, Sharjah, United Arab Emirates; PO Box 3093, Ahmed Seddiqui Bldg, Khalid Bin El-Walid St, Bur-Dubai, Dubai, United Arab Emirates; PO Box 1894, Al Wasl Rd, Jumeirah, Dubai, United Arab Emirates; Postfach 112 129, Holzbruecke 2, 20421, Hamburg, Germany; 23 Nobel Avenue, Baku, Azerbaijan; Bank Melli Iran Building, Ferdowsi Avenue, Tehran 11365-144, Iran; No. 136 Mirdamad Boulevard, Opposite Al-ghadir Mosque, Tehran, Iran; Al Ashar Estiqlal Street—Hal Al Zohor, Basra, Iraq; 98a Kensington High Street, London W8 4SG, United Kingdom; 767 5th Ave, 44th Fl, New York, NY 10153, United States; PO Box 1420, New York, NY 10153, United States; website www.bmi.ir; Additional Sanctions Information—Subject to Secondary Sanctions; All Offices Worldwide [IRAN] [SDGT] [IFSR] (Linked To: ISLAMIC REVOLUTIONARY GUARD CORPS (IRGC)-QODS FORCE).

Designated pursuant to section 1(d)(i) of Executive Order 13224 of September 25, 2001 “Blocking Property and Prohibiting Transactions With Persons Who Commit, Threaten To Commit, or Support Terrorism,” 66 FR 49079, 3 CFR 13224 (E.O. 13224) for assisting in, sponsoring, or providing financial, material, or technological support for, or financial or other services to or in support of, the ISLAMIC REVOLUTIONARY GUARD CORPS-QODS FORCE, a person determined to be subject to E.O. 13224.

31. ARIAN BANK, House 103, Shir Ali Khan Street, Charahi Torabaz Khan, District 10, Kabul, Afghanistan; Sherpoor, Hajj and religious affairs directorate Square, Etisalat Street, Kabul, Afghanistan; Opposite of Attorney General, Hanzala Mosque Road, Shahre now, Kabul, Afghanistan; PO Box 5810, Afghanistan; Ferdawsi Street (old telecommunication street), Between Alley 12 & 14, Herat, Afghanistan; SWIFT/BIC AFABAFKA; website www.arian-bank.com.af; Additional Sanctions Information—Subject to Secondary Sanctions; All Offices Worldwide [SDGT] [IFSR] (Linked To: BANK MELLI IRAN).

Designated pursuant to section 1(c) of E.O. 13224 for being owned or controlled by BANK MELLI IRAN, a person determined to be subject to E.O. 13224.

32. BANK KARGOSHAEE, 587 Mohammadiye Square, Mowlavi Street, Tehran, Iran; Mohamadiyeh Square, Tehran 11986, Iran; Additional Sanctions Information—Subject to Secondary Sanctions; All Offices Worldwide [SDGT] [IFSR] (Linked To: BANK MELLI IRAN).

Designated pursuant to section 1(c) of E.O. 13224 for being owned or controlled by BANK MELLI IRAN, a person determined to be subject to E.O. 13224.

33. MB BANK (f.k.a. BANK MELLI IRAN ZAO; a.k.a. JOINT STOCK COMPANY `MIR BUSINESS BANK'; a.k.a. JSC `MB BANK'; a.k.a. MB BANK, AO; a.k.a. MIR BIZNES BANK; a.k.a. MIR BIZNES BANK, AO; a.k.a. MIR BUSINESS BANK; a.k.a. MIR BUSINESS BANK ZAO), 9/1 ul Mashkova, Moscow 105062, Russia; SWIFT/BIC MRBBRUMM; website www.mbbru.com; Additional Sanctions Information—Subject to Secondary Sanctions; All Offices Worldwide [SDGT] [IFSR] (Linked To: BANK MELLI IRAN).

Designated pursuant to section 1(c) of E.O. 13224 for being owned or controlled by BANK MELLI IRAN, a person determined to be subject to E.O. 13224.

34. MELLI BANK PLC, 98a Kensington High Street, London W8 4SG, United Kingdom; 4 Moorgate, EC2R 6AL, London, United Kingdom; 18F Kam Sang Building, 257 Des Voeux Road Central, Hong Kong; 4th Floor, 20 West Nahid Street, Africa Blvd., Tehran, Iran; SWIFT/BIC MELIGB2L; alt. SWIFT/BIC MELIHKHH; website www.mellibank.com; Additional Sanctions Information—Subject to Secondary Sanctions; All Offices Worldwide [SDGT] [IFSR] (Linked To: BANK MELLI IRAN).

Designated pursuant to section 1(c) of E.O. 13224 for being owned or controlled by BANK MELLI IRAN, a person determined to be subject to E.O. 13224.

35. TOSE-E MELLI GROUP INVESTMENT COMPANY (f.k.a. BANK MELLI IRAN INVESTMENT COMPANY; a.k.a. IRAN MELLI BANK INVESTMENT COMPANY; a.k.a. NATIONAL DEVELOPMENT AND INVESTMENT GROUP; a.k.a. TOSEE MELLI GROUP INVESTMENT COMPANY; a.k.a. TOSE-E MELLI GROUP INVESTMENT COMPANY PUBLIC SHAREHOLDING COMPANY; a.k.a. “TMGIC”), 2 Nader Alley, After Dr Vali e Asr Avenue, Tehran 15116, Iran; PO Box 15875-3898, Iran; Building 89, Khoddami Street, Vanak, Tehran 53158753898, Iran; Number 89, Shahid Khodami Street, After Kurdistan Bridge, Vanak Square, Iran; Vank Square, Shahid Khademi Street, after Kurdistan Bridge, No. 89, Tehran 1958698856, Iran; website www.bmiic.ir; alt. Website www.en.tmgic.ir; Additional Sanctions Information—Subject to Secondary Sanctions; National ID No. 10101339590 (Iran); Registration Number 89584 (Iran) [SDGT] [IFSR] (Linked To: BANK MELLI IRAN).

Designated pursuant to section 1(c) of E.O. 13224 for being owned or controlled by BANK MELLI IRAN, a person determined to be subject to E.O. 13224.

36. BEHSHAHR INDUSTRIAL DEVELOPMENT CORP., Number 8, 24 Alley, Past Motahari Street, Ghaem Magham Farahani Street, Tehran, Iran; website www.bidc.ir; Additional Sanctions Information—Subject to Secondary Sanctions; Registration Number 14393 (Iran) [SDGT] [IFSR] (Linked To: TOSE-E MELLI GROUP INVESTMENT COMPANY).

Designated pursuant to section 1(c) of E.O. 13224 for being owned or controlled by TOSE-E MELLI GROUP INVESTMENT COMPANY, a person determined to be subject to E.O. 13224.

37. CEMENT INDUSTRY INVESTMENT AND DEVELOPMENT COMPANY, Number 20, W. Nahid Street, Africa Blvd., Tehran, Iran; website www.cidco.ir; Additional Sanctions Information—Subject to Secondary Sanctions; Registration Number 218006 (Iran) [SDGT] [IFSR] (Linked To: TOSE-E MELLI GROUP INVESTMENT COMPANY).

Designated pursuant to section 1(c) of E.O. 13224 for being owned or controlled by TOSE-E MELLI GROUP INVESTMENT COMPANY, a person determined to be subject to E.O. 13224.

38. MELLI INTERNATIONAL BUILDING & INDUSTRY COMPANY, Number 89, Shahid Khodami Street, After Kurdistan Bridge, Vanak Square, Iran; website www.mibic.ir; Additional Sanctions Information—Subject to Secondary Sanctions; Registration Number 85579000 (Iran) [SDGT] [IFSR] (Linked To: TOSE-E MELLI GROUP INVESTMENT COMPANY).

Designated pursuant to section 1(c) of E.O. 13224 for being owned or controlled by TOSE-E MELLI GROUP INVESTMENT COMPANY, a person determined to be subject to E.O. 13224.

39. TOSE-E MELLI INVESTMENT COMPANY (a.k.a. NATIONAL DEVELOPMENT INVESTMENT COMPANY; a.k.a. TOSEE MELLI INVESTMENT COMPANY), No. 1 St.North Didar.Blv Haghani, Tehran, Iran; Number 89, Shahid Khodami Street, After Kurdistan Bridge, Vanak Square, Tehran, Iran; website www.tmico.ir; Additional Sanctions Information—Subject to Secondary Sanctions; Registration Number 208669 (Iran) [SDGT] [IFSR] (Linked To: TOSE-E MELLI GROUP INVESTMENT COMPANY).

Designated pursuant to section 1(c) of E.O. 13224 for being owned or controlled by TOSE-E MELLI GROUP INVESTMENT COMPANY, a person determined to be subject to E.O. 13224.

40. NATIONAL INDUSTRIES AND MINING DEVELOPMENT COMPANY, Number 55, Pardis Street, N. Shirazi Street, Molla-Sadra Street, Vanak Square, Tehran, Iran; website www.nimidco.com; Additional Sanctions Information—Subject to Secondary Sanctions; Registration Number 323908 (Iran) [SDGT] [IFSR] (Linked To: TOSE-E MELLI GROUP INVESTMENT COMPANY).

Designated pursuant to section 1(c) of E.O. 13224 for being owned or controlled by TOSE-E MELLI GROUP INVESTMENT COMPANY, a person determined to be subject to E.O. 13224.

41. DAY BANK (a.k.a. DEY BANK), 45 Vali Asr Ave, Parvin St, Tehran 1966835611, Iran; SWIFT/BIC DAYBIRTH; Additional Sanctions Information—Subject to Secondary Sanctions; All Offices Worldwide [IRAN] [SDGT] [IFSR] (Linked To: MARTYRS FOUNDATION).

Designated pursuant to section 1(d)(i) of E.O. 13224 for assisting in, sponsoring, or providing financial, material, or technological support for, or financial or other services to or in support of, the MARTYRS FOUNDATION, a person determined to be subject to E.O. 13224.

Designated pursuant to section 1(c) of E.O. 13224 for being owned or controlled by the MARTYRS FOUNDATION, a person determined to be subject to E.O. 13224.

42. ATIEH SAZAN DAY, No. 12, Taheri Street, Africa Blvd., Tehran, Iran; Additional Sanctions Information—Subject to Secondary Sanctions [SDGT] [IFSR] (Linked To: DAY BANK).

Designated pursuant to section 1(c) of E.O. 13224 for being owned or controlled by DAY BANK, a person determined to be subject to E.O. 13224.

43. BUALI INVESTMENT COMPANY, No. 13, 11th (Shahab) Street, Gandy Blvd., Tehran, Iran; Additional Sanctions Information—Subject to Secondary Sanctions [SDGT] [IFSR] (Linked To: DAY BANK).

Designated pursuant to section 1(c) of E.O. 13224 for being owned or controlled by DAY BANK, a person determined to be subject to E.O. 13224.

44. DAMAVAND POWER GENERATION COMPANY, No. 6, Boostan Alley, Attar Street, N. Kurdistan Highway, Tehran, Iran; website www.damavandpg.co.ir; Additional Sanctions Information—Subject to Secondary Sanctions [SDGT] [IFSR] (Linked To: DAY BANK).

Designated pursuant to section 1(c) of E.O. 13224 for being owned or controlled by DAY BANK, a person determined to be subject to E.O. 13224.

45. DAY EXCHANGE COMPANY, No. 239, First Floor of Day Insurance Building, Mirdamad Blvd., Tehran, Iran; website www.dayexchange.ir; Additional Sanctions Information—Subject to Secondary Sanctions [SDGT] [IFSR] (Linked To: DAY BANK).

Designated pursuant to section 1(c) of E.O. 13224 for being owned or controlled by DAY BANK, a person determined to be subject to E.O. 13224.

46. DAY E-COMMERCE, No. 66, Mansour Alley, Next to Tehran Grand Hotel, Motahari Street, Tehran, Iran; website www.dec.ir; Additional Sanctions Information—Subject to Secondary Sanctions [SDGT] [IFSR] (Linked To: DAY BANK).

Designated pursuant to section 1(c) of E.O. 13224 for being owned or controlled by DAY BANK, a person determined to be subject to E.O. 13224.

47. DAY BANK BROKERAGE COMPANY, No. 58, 2nd, 3rd, and 4th floors, 14th street, Khaled Istanbuli Street, Tehran, Iran; website www.daybankbroker.com; Additional Sanctions Information—Subject to Secondary Sanctions [SDGT] [IFSR] (Linked To: DAY BANK).

Designated pursuant to section 1(c) of E.O. 13224 for being owned or controlled by DAY BANK, a person determined to be subject to E.O. 13224.

48. DAY IRANIAN FINANCIAL AND ACCOUNTING SERVICES COMPANY, No. 4, 4th Floor, Farid Afshar Street, Shahid Dastgerdi Street, Tehran, Iran; website http://fsday.ir; Additional Sanctions Information—Subject to Secondary Sanctions [SDGT] [IFSR] (Linked To: DAY BANK).

Designated pursuant to section 1(c) of E.O. 13224 for being owned or controlled by DAY BANK, a person determined to be subject to E.O. 13224.

49. DAY LEASING COMPANY, No. 5, Shahid Dademan Street, N. Gol Afshan, W. Ivanak, Shahrak Qarb, Tehran, Iran; website https://leasingday.ir; Additional Sanctions Information—Subject to Secondary Sanctions [SDGT] [IFSR] (Linked To: DAY BANK).

Designated pursuant to section 1(c) of E.O. 13224 for being owned or controlled by DAY BANK, a person determined to be subject to E.O. 13224.

50. OMID BONYAN DAY INSURANCE SERVICES, Vozara Street, Tehran, Iran; website http://omiddayins.ir; Additional Sanctions Information—Subject to Secondary Sanctions [SDGT] [IFSR] (Linked To: DAY BANK).

Designated pursuant to section 1(c) of E.O. 13224 for being owned or controlled by DAY BANK, a person determined to be subject to E.O. 13224.

51. OMRAN VA MASKAN ABAD DAY COMPANY, No. 52, Shariati Street, Shahid Mousavi Street, Tehran, Iran; website www.omaday.ir; Additional Sanctions Information—Subject to Secondary Sanctions [SDGT] [IFSR] (Linked To: DAY BANK).

Designated pursuant to section 1(c) of E.O. 13224 for being owned or controlled by DAY BANK, a person determined to be subject to E.O. 13224.

52. ROYAY-E ROZ KISH INVESTMENT COMPANY, No. 132, First Floor, Unit 1, South Dibagi Street, Ekhtiyariyeh, Tehran, Iran; website www.daybankinvest.com; Additional Sanctions Information—Subject to Secondary Sanctions [SDGT] [IFSR] (Linked To: DAY BANK).

Designated pursuant to section 1(c) of E.O. 13224 for being owned or controlled by DAY BANK, a person determined to be subject to E.O. 13224.

53. TEJARAT GOSTAR FARDAD, No. 13, First Floor, Unit 1, Shahab (11th) Street, Gandy Street, Tehran, Iran; No. 1/2, 2nd Floor, Yavari Alley, Across from Niyavaran Commercial Complex, Niyaravan, Tehran, Iran; Additional Sanctions Information—Subject to Secondary Sanctions [SDGT] [IFSR] (Linked To: DAY BANK).

Designated pursuant to section 1(c) of E.O. 13224 for being owned or controlled by DAY BANK, a person determined to be subject to E.O. 13224.

54. TOSE-E DIDAR IRANIAN HOLDING COMPANY, No. 1, Moqaddas Alley, Shahid Ahmad Qasir (Bukharest) Street, Tehran, Iran; website https://tdday.ir; Additional Sanctions Information—Subject to Secondary Sanctions [SDGT] [IFSR] (Linked To: DAY BANK).

Designated pursuant to section 1(c) of E.O. 13224 for being owned or controlled by DAY BANK, a person determined to be subject to E.O. 13224.

55. TOSE-E DONYA SHAHR KOHAN COMPANY, No. 52, 4th Floor, Mousavivand Street, Shariati Street, Tehran, Iran; Additional Sanctions Information—Subject to Secondary Sanctions [SDGT] [IFSR] (Linked To: DAY BANK).

Designated pursuant to section 1(c) of E.O. 13224 for being owned or controlled by DAY BANK, a person determined to be subject to E.O. 13224.

56. FUTURE BANK B.S.C. (a.k.a. FUTURE BANK; a.k.a. FUTUREBANK), Building 2577, Road 2833, Block Al-Seef 428, PO Box 785, Manama, Bahrain; website www.futurebank.com.bh; Additional Sanctions Information—Subject to Secondary Sanctions; All Offices Worldwide [IRAN] [SDGT] [IFSR] (Linked To: BANK MELLI IRAN).

Identified as an entity in which BANK MELLI IRAN and BANK SADERAT IRAN, persons whose property and interests in property are blocked pursuant to an Executive Order or regulations administered by OFAC, directly or indirectly own, whether individually or in the aggregate, a 50 percent or greater interest, as set forth in 31 CFR 594.412.

57. EXPORT DEVELOPMENT BANK OF IRAN (a.k.a. BANK TOSEE SADERAT IRAN; a.k.a. BANK TOSEH SADERAT IRAN; a.k.a. BANK TOSEYEH SADERAT IRAN; a.k.a. BANK TOWSEEH SADERAT IRAN; a.k.a. IRANIAN EXPORT DEVELOPMENT BANK; a.k.a. “EDBI”), No. 26, Tosee Tower (Export Development Building), Corner of 15th Street, Ahmad Qasir Avenue, Argentina Square, Tehran 1513815111, Iran; website www.edbi.ir; Additional Sanctions Information—Subject to Secondary Sanctions; Registration Number 86936 (Iran) [IRAN] [SDGT] [IFSR] (Linked To: MB BANK).

Designated pursuant to section 1(d)(i) of E.O. 13224 for assisting in, sponsoring, or providing financial, material, or technological support for, or financial or other services to or in support of MB BANK, a person determined to be subject to E.O. 13224.

58. EDBI STOCK BROKERAGE, Tehran, Iran; Additional Sanctions Information—Subject to Secondary Sanctions [SDGT] [IFSR] (Linked To: EXPORT DEVELOPMENT BANK OF IRAN).

Designated pursuant to section 1(c) of E.O. 13224 for being owned or controlled by, or acting for or on behalf of, EXPORT DEVELOPMENT BANK OF IRAN, a person determined to be subject to E.O. 13224.

59. EDBI EXCHANGE BROKERAGE (a.k.a. EDBI EXCHANGE COMPANY), Tehran, Iran; Additional Sanctions Information—Subject to Secondary Sanctions [SDGT] [IFSR] (Linked To: EXPORT DEVELOPMENT BANK OF IRAN).

Designated pursuant to section 1(c) of E.O. 13224 for being owned or controlled by, or acting for or on behalf of, EXPORT DEVELOPMENT BANK OF IRAN, a person determined to be subject to E.O. 13224.

60. BANCO INTERNACIONAL DE DESARROLLO, C.A. (a.k.a. “BID”), Urb. El Rosal, Av. Francisco de Miranda Edificio Dozsa—Piso 8, C.P. 1060, Caracas, Venezuela; SWIFT/BIC IDUNVECA; website www.bid.com.ve; Additional Sanctions Information—Subject to Secondary Sanctions [SDGT] [IFSR] (Linked To: EXPORT DEVELOPMENT BANK OF IRAN).

Designated pursuant to section 1(c) of E.O. 13224 for being owned or controlled by, or acting for or on behalf of, EXPORT DEVELOPMENT BANK OF IRAN, a person determined to be subject to E.O. 13224.

61. IRAN-VENEZUELA BI-NATIONAL BANK (a.k.a. “IVBB”), IVBB Headquarters, 30th Alley, No. 96, Khaled Eslamboli Street, (Vozara), PO Box 15175-598, Tehran 15119-57111, Iran; website http://en.ivbb.ir/; Additional Sanctions Information—Subject to Secondary Sanctions [IRAN] [SDGT] [IFSR] (Linked To: EXPORT DEVELOPMENT BANK OF IRAN).

Designated pursuant to section 1(d)(i) of E.O. 13224 for assisting in, sponsoring, or providing financial, material, or technological support for, or financial or other services to or in support of, EXPORT DEVELOPMENT BANK OF IRAN, a person determined to be subject to E.O. 13224.

62. PERSIA INTERNATIONAL BANK PLC, 6 Lothbury, EC2R 7HH, London, United Kingdom; PO Box 119871, No 209, 2nd Floor, Tower II, Al Fattan Currency House, Dubai International Financial Centre, Dubai, United Arab Emirates; SWIFT/BIC PIBPGB2L; website www.persiabank.co.uk; Additional Sanctions Information—Subject to Secondary Sanctions; Registration Number 4218020 (United Kingdom); All Offices Worldwide [SDGT] [IFSR] (Linked To: BANK MELLAT).

Designated pursuant to section 1(c) of E.O. 13224 for being owned or controlled by BANK MELLAT, a person determined to be subject to E.O. 13224.

63. FIRST EAST EXPORT BANK PLC (a.k.a. FEE BANK MALAYSIA), Unit Level 10(B1), Main Office Tower, Financial Park, Jalan Merdeka, 87000 Labuan F.T., Wilayah Persekutuan, Malaysia; SWIFT/BIC FEEBMYKA; Additional Sanctions Information—Subject to Secondary Sanctions; All Offices Worldwide [SDGT] [IFSR] (Linked To: BANK MELLAT).

Designated pursuant to section 1(c) of E.O. 13224 for being owned or controlled by BANK MELLAT, a person determined to be subject to E.O. 13224.

64. MELLAT BANK CLOSED JOINT-STOCK COMPANY (f.k.a. BANK MELLAT YEREVAN; a.k.a. MELLAT BANK ARMENIA; f.k.a. MELLAT BANK SB CJSC), PO Box 24, Amiryan Street 6, 0010, Yerevan, Armenia; 5 Tumanyan St, 0001, Yerevan, Armenia; SWIFT/BIC BKMTAM22; website www.mellatbank.am; Additional Sanctions Information—Subject to Secondary Sanctions; All Offices Worldwide [SDGT] [IFSR] (Linked To: BANK MELLAT).

Designated pursuant to section 1(c) of E.O. 13224 for being owned or controlled by BANK MELLAT, a person determined to be subject to E.O. 13224.

65. BANK TEJARAT (a.k.a. TEJARAT BANK), 152 Taleghani Avenue, Tehran, Iran; No. 247, Taleghani Avenue, Tehran, Iran; PO Box 11365-3139, 130 Taleghani Avenue, Tehran, Iran; PO Box 1598617818, Tehran, Iran; PO Box 71345, Karim Khan Zand Blv, Nouri Ave, Opposite Eram Hotel, Shiraz, Iran; 124-126 Rue de Provence, (Angle 76 bd Haussmann), Paris 75008, France; PO Box 734001, Rudaki Ave 88, Dushanbe 734001, Tajikistan; Office C208, Beijing Lufthansa Center No 50, Liangmaqiao Rd, Chaoyang District, Beijing 100016, China; PO Box 119871, 4th Floor, c/o Persia International Bank PLC, The Gate Bldg, Dubai, United Arab Emirates; Esfahan Region Management Bldg, Sheikh Bahayee Ave & Abuzar St Junction, Esfahan, Iran; SWIFT/BIC BTEJIRTH; website www.tejaratbank.ir; Additional Sanctions Information—Subject to Secondary Sanctions; Registration Number 38027; alt. Registration Number 8828215; All Offices Worldwide [IRAN] [SDGT] [NPWMD] [IFSR] (Linked To: MAHAN AIR; Linked To: BANK SEPAH).

Designated pursuant to section 1(d)(i) of E.O. 13224 for assisting in, sponsoring, or providing financial, material, or technological support for, or financial or other services to or in support of MAHAN AIR, a person determined to be subject to E.O. 13224.

Designated pursuant to section 1(a)(iii) of E.O. 13382 for having provided, or attempted to provide, financial, material, technological or other support for, or goods or services in support of BANK SEPAH, a person whose property and interests in property are blocked pursuant to E.O. 13382.

66. BANK TORGOVOY KAPITAL ZAO (a.k.a. BANK TORGOVOY KAPITAL; a.k.a. BANK TORGOVY KAPITAL; a.k.a. TRADE CAPITAL BANK; a.k.a. “TC BANK”; a.k.a. “TK BANK”), 65A Timiriazeva, Minsk 220035, Belarus; SWIFT/BIC BBTKBY2X; website www.tcbank.by; Additional Sanctions Information—Subject to Secondary Sanctions; Registration Number 807000163 (Belarus) [IRAN] [SDGT] [NPWMD] [IFSR] (Linked To: BANK TEJARAT).

Designated pursuant to section 1(c) of E.O. 13224 for being owned or controlled by BANK TEJARAT, a person determined to be subject to E.O. 13224.

Designated pursuant to section 1(a)(iv) of E.O. 13382 for being owned or controlled by BANK TEJARAT, a person whose property and interests in property are blocked pursuant to E.O. 13382.

67. BELIZE SHIP AND LOGISTIC LIMITED (a.k.a. BELIZE SHIP & LOGISTIC LTD; a.k.a. BELIZE SHIP AND LOGISTIC LTD), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

68. BELIZE SHIPPING LINE SERVICE LIMITED (a.k.a. BELIZE SHIPPING LINE SERV LTD), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

69. FUTURE AGE SHIPPING LIMITED (a.k.a. FUTURE AGE SHIPPING LTD.), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

70. GOLDEN ENTERPRISE SHIPPING LIMITED (a.k.a. GOLDEN ENTERPRISE SHIPPING LTD), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

71. INTERNATIONAL EXPERTISE GROUP LIMITED (a.k.a. INTERNATIONAL EXPERTISE GROUP; a.k.a. INTERNATIONAL EXPERTISE GROUP LTD.), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

72. INTERNATIONAL TANKER LIMITED (a.k.a. “INTERNATIONAL TANKER LTD”), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

73. INTERSEAS SHIPYARD LTD, East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

74. MIRACLE TRANSPORTATION LIMITED (a.k.a. MIRACLE TRANSPORTATION LTD), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

75. MOMENT INVESTMENT LIMITED (a.k.a. MOMENT INVESTMENT LTD), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

76. NATIONWIDE SHIPPING LTD, East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

77. NEW AGE SHIPPING LIMITED (a.k.a. NEW AGE SHIPPING LTD-BZE), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

78. PACIFIC SHIPPING AND TRANSPORTATION LIMITED (a.k.a. PACIFIC SHIPPING & TRANS; a.k.a. PACIFIC SHIPPING AND TRANS), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

79. PALM SERVICE LIMITED (a.k.a. “PALM SERVICE LTD”), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

80. STAR SHIP MANAGEMENT LIMITED (a.k.a. STAR SHIP MANAGEMENT LTD-BZE), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

81. WORLDFAST INTERNATIONAL LIMITED (a.k.a. WORLDFAST INTERNATIONAL LTD), East Shahid Atefi Street 35, Africa Boulevard, PO Box 19395-4833, Tehran, Iran; Additional Sanctions Information—Subject to Secondary Sanctions [IRAN] (Linked To: NATIONAL IRANIAN TANKER COMPANY).

Identified pursuant to section 1(c) of E.O. 13599 for being owned or controlled by, or for having acted or purported to act for or on behalf of, directly or indirectly, NATIONAL IRANIAN TANKER COMPANY, a person whose property and interests in property are blocked pursuant to E.O. 13599.

82. ATLANTIC SHIPPING & TRANS (a.k.a. ATLANTIC SHIPPING AND TRANS; a.k.a. ATLANTIC SHIPPING AND TRANSPORTATION LIMITED), East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

83. DIAMOND TRANSPORTATION LIMITED, East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

84. DIMOND TRANSPORTATION LIMITED, East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

85. EMPIRE MARITIME SERVICES LIMITED, East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

86. EUROPE TRANSPORTATION LIMITED, East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

87. GLOBAL AGE LIMITED, East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

88. GLOBAL UNITED SHIPPING LIMITED (a.k.a. GLOBAL UNITED SHIPPING LTD-BZE), East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

89. PACIFIC OCEAN SHIPPING LIMITED, East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

90. SPEED TRANSPORTATION LIMITED, East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

91. SPRING SHIPPING LIMITED, East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

92. TARGET TRANSPORTATION LIMITED, East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

93. UNIVERSAL SHIPPING AND TRANSPORTATION LIMITED (a.k.a. UNIVERSAL SHIPPING & TRANS; a.k.a. UNIVERSAL SHIPPING AND TRANS), East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

94. UNIVERSE SHIPPING LIMITED, East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

95. WORLDWIDE SHIPPING & TRANSPORTATION LIMITED (a.k.a. WORLDWIDE SHIPPING & TRANS; a.k.a. WORLDWIDE SHIPPING AND TRANS; a.k.a. WORLDWIDE SHIPPING AND TRANSPORTATION LIMITED), East Shahid Atefi Street 35, Africa Boulevard, PO Box 19395-4833, Tehran, Iran; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

96. AZAR PAD QESHM (a.k.a. AZARPAD QESHM; a.k.a. AZARPAD QESHM CO; a.k.a. “APCO”), East Shahid Atefi Street 35, Africa Boulevard, PO Box 19395-4833, Tehran, Iran; No. 303, Mahtab Building, Pardis Cross Road, Golden City, Qeshm, Iran; No. 44, East Atefi St., Africa Blvd., Tehran, Iran; website http://nitcshipping.com; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

97. ATLAS KIAN QESHM (a.k.a. ATLAS SHIPPING; a.k.a. ATLAS SHIPPING COMPANY), No. 44, East Atefi Ave., Nelsonmandella Blvd., Tehran, Iran; website http://nitcshipping.com; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

98. POUYA TAMIN KISH (a.k.a. POUYA TAMIN KISH CO.; a.k.a. POUYA TAMIN KISH OIL & GAS CO; a.k.a. POUYA TAMIN KISH OIL AND GAS CO; a.k.a. “PTK”), Block EX6, In front of IRAN Blvd., Kish Island, Iran; website http://nitcshipping.com; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

99. DARYANAVARD KISH (a.k.a. DARYANAVARD KISH SHIPPING COMPANY; a.k.a. DARYANAVARD KISH SHIPPING COMPANY LTD.), Unit7, No. 3, Noor Alley, Nelsonmandella Blvd., Tehran, Iran; Kish Islands, Iran; website http://nitcshipping.com; Additional Sanctions Information—Subject to Secondary Sanctions [IRAN] (Linked To: NATIONAL IRANIAN TANKER COMPANY).

Identified as meeting the definition of the term Government of Iran as set forth in section 7(d) of E.O. 13599 and section 560.304 of the ITSR, 31 CFR part 560 for being owned or controlled by, or acting or purporting to act for or on behalf of, directly or indirectly, NATIONAL IRANIAN TANKER COMPANY, a person identified as meeting the definition of the term Government of Iran.

100. SEPAHAN CEMENT (a.k.a. SIMAN SEPAHAN), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

101. PAYVAR ANDISH, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

102. DAY INVESTMENT (a.k.a. SARMAYE GOZARI DAY), Iran [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

103. KISH ASIA NAVAK, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

104. SEPAHAN CEMENT INVESTMENT (a.k.a. SARMAYE GOZARI SIMAN SEPAHAN), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

105. SEPAHAN CEMENT CONCRETE PRODUCTS (a.k.a. FARAVARDEHAYE BOTONI SIMAN SEPAHAN), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

106. IRAN MERINE SERVICES, Iran; Additional Sanctions Information—Subject to Secondary Sanctions [IRAN] (Linked To: GHADIR INVESTMENT COMPANY).

Identified as meeting the definition of the Government of Iran as set forth in section 7(d) of E.O. 13599 and section 560.304 of the ITSR, 31 CFR part 560 for being owned or controlled by GHADIR INVESTMENT COMPANY, a person identified as meeting the definition of the term Government of Iran.

107. SEPAHAN CEMENT RAHNAVARD PRODUCTS TRANSPORTATION (a.k.a. HAML VA NAGHL KALAHAYE RAHNAVARD SIMAN SEPAHAN), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

108. MAPNA KHUZESTAN ELECTRICITY GENERATION, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

109. DAMAVAND ELECTRICITY AND POWER ENGINEERING, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

110. SEPEHR IRANIAN INSURANCE SERVICES, Iran [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

111. KARAMAAD SYSTEMS MANAGEMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

112. VASEPARI SEPEHR PARS, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

113. POUYAN TABAAN ENERGY, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

114. GHADIR REAL-TIME SYSTEMS DEVELOPMENT (a.k.a. GHADIR TOSE-E SAAMANEHAYE BEHENGAAM; a.k.a. “ISEEMA”), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

115. RAAHBAR COMPUTER RESOURCES MANAGEMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

116. PARSIAN RAIL TRANSPORT DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

117. GHADIR OXIN ELECTRICITY GENERATION DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

118. SEPAHAN CEMENT PAKAT-SAZI SHAFAGH (a.k.a. PAKAT SAZI SHAFAGH SIMAN SEPAHAN), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

119. QOM ENERGY GENERATION GOSTAR, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

120. GILAN ELECTRICITY TRANSMISSION DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

121. SHARQ CEMENT (a.k.a. SIMAN-E SHARGH), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

122. GILAN ELECTRICITY GENERATION MANAGEMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

123. HORMOGAN ELECTRICITY AND POWER GENERATION, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

124. SHARQ CEMENT MANUFACTURERS (a.k.a. FARAVARDEHAYE SIMAN SHARGH), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

125. PAYANDEH JAAM ELECTRICITY ENERGY, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

126. TARABAR-GOROUS TRUST TRANSPORTATION (a.k.a. HAML VA NAGHL ETEMAAD TARABARGROUS), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

127. GHADIR TEHRAN ELECTRICITY AND ENERGY GENERATION DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

128. RAAHBAR SARIR INTEGRATED TRACKING SYSTEMS INC, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

129. GHADIR QOM SOLAR ENERGY GENERATION DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

130. MOMTAZ ELECTRIC, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

131. MOTOJEN AUTO INDUSTRY COMPANY (a.k.a. KHODRO SANAT MOROJEN), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

132. AZAR INVESTMENT, Iran [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

133. HAMOON SEPAHAN COMMERCIAL TRADING, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

134. SOUTH IRAN DARYABAN KISH, Kish, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

135. GHADIR SOLAR ELECTRICITY AND ENERGY, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

136. SEPEHR MASHAHD CEMENT TRANSPORTATION (a.k.a. HAML VA NAGHL SEPEHR SIMAN MASHHAD), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

137. ARJAN ELECTRICITY AND ENERGY GENERATION MANAGEMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

138. DANA INTEGRATED SYSTEM FOR ELECTRONIC INTERACTIONS CO. (a.k.a. SAMANEHAYE YEKPARCHEH TAMOLAT ELECTRONIC DANA), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

139. GHADIR MAZANDARAN ELECTRICITY AND ENERGY GENERATION, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

140. GHADIR MEHRIZ SOLAR ENERGY, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

141. RAILCOM RAAHBAR CO., Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

142. FANAVARAN ETEMAAD RAAHBAR CO., Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

143. SHARQ COALMINES (a.k.a. MA'ADEN-E ZOGHAL SANG SHARGH), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

144. GHADIR PISHRO ELECTRICITY GENERATION, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

145. PARS GHA'EM GOSTAR, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

146. KURDISTAN CEMENT (a.k.a. SIMAN-E KURDISTAN), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

147. SHARQ CEMENT INDUSTRIAL LIMESTONE (a.k.a. AHAK-E SANATI SIMAN SHARGH), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

148. GHADIR LAMORD ENERGY, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

149. SHARQ WHITE CEMENT (a.k.a. SIMAN'E SEFID SHARGH), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

150. GHADIR CASPIAN GILAN ENERGY, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

151. GHADIR KANI ARIYA, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

152. NEYRIZ STEEL, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

153. PARS NICKEL KARAN KABIR, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

154. GHADIR ETEZAD INVESTMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

155. GHADIR INDUSTRIAL TRADING, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

156. GHADIR PETRO ARMAN KISH, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

157. GHADIR CASPIAN STEEL TRADING, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

158. ZARIN PERSIA INVESTMENT, Iran [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

159. ARMAN RESOURCES EQUIP AND SUPPORT MANAGEMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

160. TEJARAT PAYDAR PAYMAN DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

161. GHADIR INTERNATIONAL TRADING AND DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

162. PARSIAN OIL AND GAS DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

163. MOTOJEN, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

164. GHADIR INVESTMENT AND INDUSTRY DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the Government of Iran.

165. GHADIR ELECTRICITY AND ENERGY INVESTMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

166. IRANIAN NOVIN INDUSTRY DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

167. NEGIN KISH INTERNATIONAL SAHEL AND FARASAHEL DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

168. SOUTH ALUMINUM, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

169. GHADIR MANAGEMENT AND COMMERCIAL SERVICES, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

170. RAAHBAR INFORMATICS SERVICES (a.k.a. RAAHBAR KHADAMAT INFORMATIC), Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

171. SAKHTEMAN INTERNATIONAL DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

172. A.S.P. BUILDERS, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

173. BAGHMISHEH RESIDENTIAL DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

174. BEHSAZAN PARS EQUIPMENT DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

175. AZERBAIJAN CONSTRUCTION, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

176. GHADIR KHUZESTAN CONSTRUCTION INDUSTRY DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

177. FARS SARPANAH, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

178. PARS SAZEH ENGINEERING AND CONSTRUCTION, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

179. GHADIR PAYMAN COUNSELING ENGINEERS, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

180. KISH ROOYA-E ZENDEGI, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

181. OFOQ SAZEH PAYAH, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

182. TISA KISH, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

183. NARENJESTAN HOTEL AND BUILDING DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

184. HAMOON SEPAHAN INVESTMENT, Iran [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

185. HAMOON SEPAHAN MANAGEMENT SERVICES, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

186. PARS PAIDAR SANAT NOVIN, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

187. SHIRAZ PARS FARAYAND OIL REFINERY, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

188. GHADIR ABU MUSA HAMOON, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

189. PARS INTERNATIONAL INDUSTRY DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

190. TAKHTEH SHAHID BA HONAR, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

191. IRANIAN TITANIUM DEVELOPMENT, Iran; Additional Sanctions Information—Subject to Secondary Sanctions [IRAN] (Linked To: GHADIR INVESTMENT COMPANY).

Identified as meeting the definition of the term Government of Iran as set forth in section 7(d) of E.O. 13599 and section 560.304 of the ITSR, 31 CFR part 560 for being owned or controlled by GHADIR INVESTMENT COMPANY, a person identified as meeting the definition of the term Government of Iran.

192. IRAN AIR (a.k.a. HAVAPEYMAYI MELLI IRAN; a.k.a. IRAN AIR PJSC; a.k.a. IRANAIR; a.k.a. IRANAIR CARGO;w a.k.a. THE AIRLINE OF THE ISLAMIC REPUBLIC OF IRAN; a.k.a. “HOMA”), Iran Air Building, Mehrabad Airport, Tehran, Iran; Postal Box 13185-775, Tehran, Iran; Central Airlines Department of the Islamic Republic of Iran, Tehran Karaj Special Road, Beginning of Mehrabad International Airport, Tehran, Iran; website www.iranair.com; alt. Website www.iranair.co.ir; Additional Sanctions Information—Subject to Secondary Sanctions; National ID No. 10100354259 (Iran); Registration Number 8132 [IRAN].

Identified as meeting the definition of the term Government of Iran as set forth in section 7(d) of E.O. 13599 and section 560.304 of the ITSR, 31 CFR part 560.

193. ISLAMIC REPUBLIC OF IRAN SHIPPING LINES (a.k.a. IRISL), Asseman Tower, Pasdaran Street, Tehran, Iran; P.O. Box 19395-177, Tehran, Iran; P.O. Box 1957614114, Tehran, Iran; No 523, Al Seman Tower Building, No 8: Narenjestan, Laveltani Street, Sayya Shirazi Square, Pasdaran Street, Tehran 1957617114, Iran; website www.irisl.net; IFCA Determination—Involved in the Shipping Sector; Additional Sanctions Information—Subject to Secondary Sanctions; Trade License No. 11670 (Iran); All Offices Worldwide [IRAN] [IFCA].

Identified as meeting the definition of the term Government of Iran as set forth in section 7(d) of E.O. 13599 and section 560.304 of the ITSR, 31 CFR part 560.

194. ISLAMIC REPUBLIC OF IRAN SHIPPING LINES INVESTMENT (a.k.a. ISLAMIC REPUBLIC OF IRAN SHIPPING LINES INVESTMENT COMPANY), Sky Tower, No. 523, Pasdaran Ave, Farmanieh Ave, Farmanieh, District 1, Tehran 1939513111, Iran; Additional Sanctions Information—Subject to Secondary Sanctions [IRAN].

Identified as meeting the definition of the term Government of Iran as set forth in section 7(d) of E.O. 13599 and section 560.304 of the ITSR, 31 CFR part 560.

195. VALFAJR SHIPPING COMPANY PJS (a.k.a. VALFAJR 8 SHIPPING CO.; a.k.a. VALFAJR SHIPPING CO.; a.k.a. VALFAJR SHIPPING LINES), Corner of Shabnam Alley 119, Tehran, Iran; No 101, Ghaem Magham Farhani Street, Tehran, Iran; No. 11, Abshar Alley, Corner of Azodi Street, PO Box 15875-4155, Tehran 1581674347, Iran; Valfajr Blvd., Bushehr, Iran; website www.valfajr.ir; Additional Sanctions Information—Subject to Secondary Sanctions [IRAN].

Identified as meeting the definition of the term Government of Iran as set forth in section 7(d) of E.O. 13599 and section 560.304 of the ITSR, 31 CFR part 560.

196. ISIM TAJ MAHAL LIMITED, 147/1, St. Lucia Street, Valletta, Malta; Additional Sanctions Information—Subject to Secondary Sanctions; Trade License No. C 41660 (Malta) [IRAN].

Identified as meeting the definition of the term Government of Iran as set forth in section 7(d) of E.O. 13599 and section 560.304 of the ITSR, 31 CFR part 560.

197. ISIM SININ LIMITED, 147/1, St. Lucia Street, Valletta, Malta; Additional Sanctions Information—Subject to Secondary Sanctions; Trade License No. C37437 (Malta) [IRAN].

Identified as meeting the definition of the term Government of Iran as set forth in section 7(d) of E.O. 13599 and section 560.304 of the ITSR, 31 CFR part 560.

198. NARI SHIPPING AND CHARTERING GMBH & CO. KG (a.k.a. NARI SHIPPING AND CHARTERING GMBH AND CO. KG), Schottweg 5, Hamburg 22087, Germany; Additional Sanctions Information—Subject to Secondary Sanctions; Trade License No. HRA102485 [IRAN].

Identified as meeting the definition of the term Government of Iran as set forth in section 7(d) of E.O. 13599 and section 560.304 of the ITSR, 31 CFR part 560.

199. FIRST OCEAN ADMINISTRATION GMBH, Schottweg 5, Hamburg 22087, Germany; Additional Sanctions Information—Subject to Secondary Sanctions; Trade License No. HRB94311 [IRAN].

Identified as meeting the definition of the term Government of Iran as set forth in section 7(d) of E.O. 13599 and section 560.304 of the ITSR, 31 CFR part 560.

200. EIGHTH OCEAN GMBH & CO. KG (a.k.a. EIGHTH OCEAN GMBH AND CO. KG), Schottweg 5, Hamburg 22087, Germany; Additional Sanctions Information—Subject to Secondary Sanctions; Trade License No. HRA 102533 [IRAN].

Identified as meeting the definition of the term Government of Iran as set forth in section 7(d) of E.O. 13599 and section 560.304 of the ITSR, 31 CFR part 560.

201. NINTH OCEAN GMBH & CO. KG (a.k.a. NINTH OCEAN GMBH AND CO. KG), Schottweg 5, Hamburg 22097, Germany; Additional Sanctions Information—Subject to Secondary Sanctions; Trade License No. HRA 102565 [IRAN].

Identified as meeting the definition of the term Government of Iran as set forth in section 7(d) of E.O. 13599 and section 560.304 of the ITSR, 31 CFR part 560.

202. ELEVENTH OCEAN ADMINISTRATION GMBH, Schottweg 5, Hamburg 22087, Germany; Additional Sanctions Information—Subject to Secondary Sanctions; Trade License No. HRB94632 [IRAN].

Identified as meeting the definition of the term Government of Iran as set forth in section 7(d) of E.O. 13599 and section 560.304 of the ITSR, 31 CFR part 560.

203. ELEVENTH OCEAN GMBH & CO. KG (a.k.a. ELEVENTH OCEAN GMBH AND CO. KG), Schottweg 5, Hamburg 22087, Germany; Additional Sanctions Information—Subject to Secondary Sanctions; Trade License No. HRA 102544 [IRAN].

Identified as meeting the definition of the term Government of Iran as set forth in section 7(d) of E.O. 13599 and section 560.304 of the ITSR, 31 CFR part 560.

204. TWELFTH OCEAN ADMINISTRATION GMBH, Schottweg 5, Hamburg 22087, Germany; Additional Sanctions Information—Subject to Secondary Sanctions; Trade License No. HRB94573 [IRAN].

Identified as meeting the definition of the term Government of Iran as set forth in section 7(d) of E.O. 13599 and section 560.304 of the ITSR, 31 CFR part 560.

205. MOALLEM INSURANCE CO., No. 35, Haghani Blvd., Vanak Sq., Tehran 1517973511, Iran; website www.mic-ir.com; Additional Sanctions Information—Subject to Secondary Sanctions [IRAN].

Identified as meeting the definition of the term Government of Iran as set forth in section 7(d) of E.O. 13599 and section 560.304 of the ITSR, 31 CFR part 560.

206. MOSAKHAR DARYA SHIPPING CO (a.k.a. MOSAKHKHAR-E DARYA SHIPPING), Unit 5, 9th Street 2, Ahmad Ghasir Avenue, PO Box 19635-1114, Tehran, Iran; Additional Sanctions Information—Subject to Secondary Sanctions [IRAN].

Identified as meeting the definition of the term Government of Iran as set forth in section 7(d) of E.O. 13599 and section 560.304 of the ITSR, 31 CFR part 560.

207. LONDON IRINVEST SHIP COMPANY (a.k.a. IRINVESTSHIP LIMITED), 10 Greycoat Place, London SW1P 1SB, United Kingdom; Additional Sanctions Information—Subject to Secondary Sanctions; Trade License No. 04110179 (United Kingdom) [IRAN].

Identified as meeting the definition of the term Government of Iran as set forth in section 7(d) of E.O. 13599 and section 560.304 of the ITSR, 31 CFR part 560.

208. BIIS MARITIME LIMITED, 147/1, St. Lucia Street, Valletta VLT1185, Malta; Additional Sanctions Information—Subject to Secondary Sanctions; Trade License No. C31530 (Malta) [IRAN].

Identified as meeting the definition of the term Government of Iran as set forth in section 7(d) of E.O. 13599 and section 560.304 of the ITSR, 31 CFR part 560.

209. ISI MARITIME LIMITED, 147/1, St. Lucia Street, Valletta, Malta; Additional Sanctions Information—Subject to Secondary Sanctions; Trade License No. C 28940 (Malta) [IRAN].

Identified as meeting the definition of the term Government of Iran as set forth in section 7(d) of E.O. 13599 and section 560.304 of the ITSR, 31 CFR part 560.

210. ISIM ATR LIMITED, 147/1, St. Lucia Street, Valletta, Malta; Additional Sanctions Information—Subject to Secondary Sanctions; Trade License No. C34477 (Malta) [IRAN].

Identified as meeting the definition of the term Government of Iran as set forth in section 7(d) of E.O. 13599 and section 560.304 of the ITSR, 31 CFR part 560.

211. FOURTEENTH OCEAN GMBH & CO. KG (a.k.a. FOURTEENTH OCEAN GMBH AND CO. KG), Schottweg 5, Hamburg 22087, Germany; Additional Sanctions Information—Subject to Secondary Sanctions; Trade License No. HRA 104174 [IRAN].

Identified as meeting the definition of the term Government of Iran as set forth in section 7(d) of E.O. 13599 and section 560.304 of the ITSR, 31 CFR part 560.

212. KALAN KISH SHIPPING CO (a.k.a. KALAN KISH SHIPPING LINES), Unit 5, 9th Street 2, Ahmad Ghasir Avenue, PO Box 19635-1114, Tehran, Iran; Additional Sanctions Information—Subject to Secondary Sanctions [IRAN].

Identified as meeting the definition of the term Government of Iran as set forth in section 7(d) of E.O. 13599 and section 560.304 of the ITSR, 31 CFR part 560.

213. KHAYBAR COMPANY (a.k.a. KHAYBARCO; a.k.a. KHEYBAR COMPANY; a.k.a. SHERKAT SAHAMI KHASS KHAYBAR), No 97, Ghaem Magham Farahani Ave, Tehran 1589653313, Iran; PO Box 15815-1966, Tehran, Iran; website www.khaybarco.ir; Additional Sanctions Information—Subject to Secondary Sanctions; Chamber of Commerce Number 11047591 (Iran); Registration Number 63383 (Iran) [IRAN].

Identified as meeting the definition of the term Government of Iran as set forth in section 7(d) of E.O. 13599 and section 560.304 of the ITSR, 31 CFR part 560.

214. MARBLE SHIPPING LTD, 143/1 Tower Road, Sliema, Malta; Additional Sanctions Information—Subject to Secondary Sanctions; Trade License No. C 41949 (Malta) [IRAN].

Identified as meeting the definition of the term Government of Iran as set forth in section 7(d) of E.O. 13599 and section 560.304 of the ITSR, 31 CFR part 560.

215. GHESHM SHIPPING LINES MARINE AND ENGINEERING SERVICES CO (a.k.a. IMSENGCO; a.k.a. IRISL MARINE SERVICES; a.k.a. IRISL MARINE SERVICES AND ENGINEERING COMPANY), Iran shahr Street 221, Karimkhan Zand Avenue, Tehran, Iran; website www.imsengco.com; Additional Sanctions Information—Subject to Secondary Sanctions [IRAN].

Identified as meeting the definition of the term Government of Iran as set forth in section 7(d) of E.O. 13599 and section 560.304 of the ITSR, 31 CFR part 560.

216. IRISL EUROPE GMBH, Schottweg 5, Hamburg 22087, Germany; website www.irisl-europe.de; Additional Sanctions Information—Subject to Secondary Sanctions; Trade License No. HRB 81573 [IRAN].

Identified as meeting the definition of the term Government of Iran as set forth in section 7(d) of E.O. 13599 and section 560.304 of the ITSR, 31 CFR part 560.

217. IRISL MULTIMODAL TRANSPORT CO., No. 25 Sanaei Street, Karim Khan Zand Street, Shahid Arabi Line, Tehran, Iran; website www.irislmtc.com; Additional Sanctions Information—Subject to Secondary Sanctions; Registration Number 230766 [IRAN].

Identified as meeting the definition of the term Government of Iran as set forth in section 7(d) of E.O. 13599 and section 560.304 of the ITSR, 31 CFR part 560.

218. IRISL MARITIME TRAINING INSTITUTE (a.k.a. IRISL MTI), No. 63, East Tajarloo Ave, Tajarloo Square, Shiyan, Tehran, Iran; Reiesali Delvari Ave, Bushehr 7514618787, Iran; Farhang Ave, Khazar's Building, Anzali 4314695613, Iran; website www.irmti.ir; Additional Sanctions Information—Subject to Secondary Sanctions [IRAN].

Identified as meeting the definition of the term Government of Iran as set forth in section 7(d) of E.O. 13599 and section 560.304 of the ITSR, 31 CFR part 560.

219. SHIPPING COMPUTER SERVICES COMPANY (a.k.a. SCSCO), No. 37, Asseman Shahid Sayyad Shirazeesq, Pasdaran Ave, PO Box 1587553-1351, Tehran, Iran; website www.scsco.net; Additional Sanctions Information—Subject to Secondary Sanctions [IRAN].

Identified as meeting the definition of the term Government of Iran as set forth in section 7(d) of E.O. 13599 and section 560.304 of the ITSR, 31 CFR part 560.

220. PERSIAN GULF SHIPPING LINES LTD (a.k.a. KHALIJ-E FARS (PERSIAN GULF) SHIPPING LINES; a.k.a. “PGSL”), Strovolos Center, Flat No. 204, Floor No. 2, Strovolou 77, Nicosia 2018, Cyprus; Additional Sanctions Information—Subject to Secondary Sanctions; Trade License No. C334268 (Cyprus) [IRAN].

Identified as meeting the definition of the term Government of Iran as set forth in section 7(d) of E.O. 13599 and section 560.304 of the ITSR, 31 CFR part 560.

221. SOUTH SHIPPING LINES—IRAN LINE (a.k.a. KASHTIRANI-E JONOUB KHAT-E IRAN), No 119 Shabnam Alley, Ghaem Magham Street, Tehran, Iran; website www.sslil.net; IFCA Determination—Involved in the Shipping Sector; Additional Sanctions Information—Subject to Secondary Sanctions [IRAN] [IFCA].

Identified as meeting the definition of the term Government of Iran as set forth in section 7(d) of E.O. 13599 and section 560.304 of the ITSR, 31 CFR part 560.

222. IRANO HIND SHIPPING COMPANY LTD (a.k.a. IRAN AND INDIA SHIPPING COMPANY; a.k.a. IRAN AND INDIA SHIPPING LINES), 18 Sedaghat St, Opposite Park Millat, Vali-e-Asr Ave, PO Box 15875-4647, Tehran, Iran; website www.iranohind.com; Additional Sanctions Information—Subject to Secondary Sanctions [IRAN].

Identified as meeting the definition of the term Government of Iran as set forth in section 7(d) of E.O. 13599 and section 560.304 of the ITSR, 31 CFR part 560.

223. IRANO MISR SHIPPING COMPANY (a.k.a. IRAN AND EGYPT SHIPPING COMPANY; a.k.a. IRAN AND EGYPT SHIPPING LINES; a.k.a. IRANO—MISR SHIPPING CO; a.k.a. IRANO MISR; f.k.a. NEFERTITI SHIPPING AND MARITIME SERVICES), Building 6, Al Horreya Street, 1st Floor, El Attarin Area, 1016, Alexandria, Egypt; PO Box 1016, Alexandria, Egypt; Additional Sanctions Information—Subject to Secondary Sanctions [IRAN].

Identified as meeting the definition of the term Government of Iran as set forth in section 7(d) of E.O. 13599 and section 560.304 of the ITSR, 31 CFR part 560.

224. SAFIRAN PAYAM DARYA SHIPPING COMPANY (a.k.a. “SAPID”), Asseman Tower, Pasdaran Street, Tehran, Iran; website www.sapidshpg.com; Additional Sanctions Information—Subject to Secondary Sanctions [IRAN].

Identified as meeting the definition of the term Government of Iran as set forth in section 7(d) of E.O. 13599 and section 560.304 of the ITSR, 31 CFR part 560.

225. KHAZAR SEA SHIPPING LINES (a.k.a. DARYA-YE KHAZAR SHIPPING LINES), Shahid Mostafa Khomeini Street, Ghazian Street, PO Box 43145/1711-324, Bandar Azali 4315671145, Iran; Mostafa Khomeini St. Ghazian, PO BOX 4315671145, Anzali Free Zone, Iran; website www.khazarshipping.ir; Additional Sanctions Information—Subject to Secondary Sanctions [IRAN].

Identified as meeting the definition of the term Government of Iran as set forth in section 7(d) of E.O. 13599 and section 560.304 of the ITSR, 31 CFR part 560.

226. HAFEZ DARYA ARYA SHIPPING COMPANY (a.k.a. HAFEZ DARYA ARYA SHIPPING LINE; a.k.a. HAFEZ-E DARYAY-E ARIA SHIPPING LINES; f.k.a. HAFIZ DARYA SHIPPING COMPANY; f.k.a. HAFIZ-E-DARYA SHIPPING LINES; a.k.a. HDAS CO.; f.k.a. HDAS LINES; a.k.a. HDASCO; a.k.a. HDASCO SHIPPING COMPANY; f.k.a. HDS LINES; f.k.a. HDSL; f.k.a. HDSLINES CO.), Asseman Tower, Pasdaran Street, Tehran, Iran; No 60, Pasdaran Avenue, 7th Neyestan Street, Ehteshamiyeh Square, Tehran, Iran; website www.hdasco.com; Additional Sanctions Information—Subject to Secondary Sanctions; Registration Number 341417 (Iran) [IRAN].

Identified as meeting the definition of the term Government of Iran as set forth in section 7(d) of E.O. 13599 and section 560.304 of the ITSR, 31 CFR part 560.

227. DARYA CAPITAL ADMINISTRATION GMBH, Schottweg 5, Hamburg 22087, Germany; Additional Sanctions Information—Subject to Secondary Sanctions; Trade License No. HRB 96253 [IRAN].

Identified as meeting the definition of the term Government of Iran as set forth in section 7(d) of E.O. 13599 and section 560.304 of the ITSR, 31 CFR part 560.

228. OCEAN CAPITAL ADMINISTRATION GMBH, Schottweg 5, Hamburg 22087, Germany; Additional Sanctions Information—Subject to Secondary Sanctions; Trade License No. HRA 92501 [IRAN].

Identified as meeting the definition of the term Government of Iran as set forth in section 7(d) of E.O. 13599 and section 560.304 of the ITSR, 31 CFR part 560.

229. FIRST OCEAN GMBH & CO KG (a.k.a. FIRST OCEAN GMBH AND CO KG), Schottweg 5, Hamburg 22087, Germany; Additional Sanctions Information—Subject to Secondary Sanctions; Trade License No. HRA 102601 [IRAN].

Identified as meeting the definition of the term Government of Iran as set forth in section 7(d) of E.O. 13599 and section 560.304 of the ITSR, 31 CFR part 560.

230. FOURTH OCEAN GMBH & CO KG (a.k.a. FOURTH OCEAN GMBH AND CO KG), Schottweg 5, Hamburg 22087, Germany; Additional Sanctions Information—Subject to Secondary Sanctions; Trade License No. HRA102600 [IRAN].

Identified as meeting the definition of the term Government of Iran as set forth in section 7(d) of E.O. 13599 and section 560.304 of the ITSR, 31 CFR part 560.

231. TWELFTH OCEAN GMBH & CO. KG (a.k.a. TWELFTH OCEAN GMBH AND CO. KG), Schottweg 5, Hamburg 22087, Germany; Additional Sanctions Information—Subject to Secondary Sanctions; Trade License No. HRA 102506 [IRAN].

Identified as meeting the definition of the term Government of Iran as set forth in section 7(d) of E.O. 13599 and section 560.304 of the ITSR, 31 CFR part 560.

232. FIFTEENTH OCEAN GMBH & CO. KG (a.k.a. FIFTEENTH OCEAN GMBH AND CO. KG), Schottweg 5, Hamburg 22087, Germany; Additional Sanctions Information—Subject to Secondary Sanctions; Trade License No. HRA 104175 [IRAN].

Identified as meeting the definition of the term Government of Iran as set forth in section 7(d) of E.O. 13599 and section 560.304 of the ITSR, 31 CFR part 560.

233. HTTS HANSEATIC TRADE TRUST & SHIPPING GMBH (a.k.a. HTTS HANSEATIC TRADE TRUST AND SHIPPING GMBH), Schottweg 5-7, Hamburg 22087, Germany; Additional Sanctions Information—Subject to Secondary Sanctions; Trade License No. HRB 109492 [IRAN].

Identified as meeting the definition of the term Government of Iran as set forth in section 7(d) of E.O. 13599 and section 560.304 of the ITSR, 31 CFR part 560.

234. MARANER HOLDINGS LIMITED, Flat 1, 143, Tower Road, Sliema SLM1604, Malta; Additional Sanctions Information—Subject to Secondary Sanctions; Trade License No. C33482 (Malta) [IRAN].

Identified as meeting the definition of the term Government of Iran as set forth in section 7(d) of E.O. 13599 and section 560.304 of the ITSR, 31 CFR part 560.

235. HOOPAD DARYA SHIPPING AGENCY SERVICES (a.k.a. HOOPAD DARYA SHIPPING AGENCY COMPANY; f.k.a. SOUTH WAY SHIPPING AGENCY), No. 101, Shabnam Alley, Ghaem Magham Street, Tehran, Iran; Hoopad Darya Shipping Agency Building, B.I.K. Port Complex, Bandar Imam Khomeini, Iran; Hoopad Darya Shipping Agency Building, Imam Khomeini Blvd., Bandar Abbas, Iran; Flat No. 2, 2nd Floor, SSL Building, Coastal Blvd., Between City Hall and Post Office, Khorramshahr, Iran; Opposite to City Post Office, No. 2 Telecommunications Center, Bandar Assaluyeh, Iran; PO Box 1589673134, Tehran, Iran; website www.hdsac.net; Additional Sanctions Information—Subject to Secondary Sanctions; Registration Number 349706 (Iran) [IRAN].

Identified as meeting the definition of the term Government of Iran as set forth in section 7(d) of E.O. 13599 and section 560.304 of the ITSR, 31 CFR part 560.

236. RAHBARAN OMID DARYA SHIP MANAGEMENT CO. (a.k.a. RAHBARAN-E OMID-E DARYA SHIP MANAGEMENT; a.k.a. ROD SHIP MANAGEMENT CO; a.k.a. RODSM; f.k.a. SOROUSH SARZAMIN ASATIR SHIP MANAGEMENT CO.; f.k.a. SOROUSH SARZAMIN ASATIR SSA; f.k.a. SSA SHIP MANAGEMENT CO.), Unit 5, 9th Street 2, Ahmad Ghasir Avenue, PO Box 19635-1114, Tehran, Iran; No. 5, Shabnam Alley, Ghaem Magham Farahani Street, Shahid Motahari Avenue, Tehran, Iran; website www.rodsmc.com; Additional Sanctions Information—Subject to Secondary Sanctions; Registration Number 341563 (Iran) [IRAN].

Identified as meeting the definition of the term Government of Iran as set forth in section 7(d) of E.O. 13599 and section 560.304 of the ITSR, 31 CFR part 560.

237. PERSIA HORMOZ SHIP REPAIR YARD COMPANY PJS (a.k.a. PERSIA HORMOZ SHIP REPAIRS; a.k.a. PERSIA HORMOZ SHIPYARD), 37 Km, West Bandar Abbas Road, Bandar Abbas 791453859, Iran; website www.persiahormoz.com; Additional Sanctions Information—Subject to Secondary Sanctions [IRAN].

Identified as meeting the definition of the term Government of Iran as set forth in section 7(d) of E.O. 13599 and section 560.304 of the ITSR, 31 CFR part 560.

238. MARINE INFORMATION TECHNOLOGY DEVELOPMENT COMPANY (a.k.a. MARINE INFORMATION TECHNOLOGY DEVELOPMENT CORPORATION; a.k.a. MARINE TECHNOLOGY AND INFORMATION TECHNOLOGY DEVELOPMENT; a.k.a. MITDCO; a.k.a. “MITD”), 5th Floor, No. 523, Aseman Tower, Pasdaran St., Tehran, Iran; website www.mitdco.com; Additional Sanctions Information—Subject to Secondary Sanctions [IRAN].

Identified as meeting the definition of the term Government of Iran as set forth in section 7(d) of E.O. 13599 and section 560.304 of the ITSR, 31 CFR part 560.

239. FARADARYAY-E NIK-E GHESHM INVESTMENT (a.k.a. NIK QESHM FARA DARYA INVESTMENT COMPANY), Opposite Kimia Hotel 2, Sam & Zal Street, Qeshm, Hormozgan 7951189799, Iran; Additional Sanctions Information—Subject to Secondary Sanctions [IRAN].

Identified as meeting the definition of the term Government of Iran as set forth in section 7(d) of E.O. 13599 and section 560.304 of the ITSR, 31 CFR part 560.

240. IRITAL SHIPPING LINES COMPANY (a.k.a. IR-ITAL; a.k.a. IRITAL SHIPPING S.R.L.), Via Gerolamo Morone 6, Milano 20121, Italy; Additional Sanctions Information—Subject to Secondary Sanctions; Trade License No. GE0426505 (Italy) [IRAN].

Identified as meeting the definition of the term Government of Iran as set forth in section 7(d) of E.O. 13599 and section 560.304 of the ITSR, 31 CFR part 560.

241. BUSHEHR SHIPPING COMPANY LIMITED, 143/1 Tower Road, Sliema, Malta; Additional Sanctions Information—Subject to Secondary Sanctions; Trade License No. C 37422 (Malta) [IRAN].

Identified as meeting the definition of the term Government of Iran as set forth in section 7(d) of E.O. 13599 and section 560.304 of the ITSR, 31 CFR part 560.

242. KERMAN SHIPPING COMPANY LIMITED, 143/1 Tower Road, Sliema, Malta; Additional Sanctions Information—Subject to Secondary Sanctions; Trade License No. C 37423 (Malta) [IRAN].

Identified as meeting the definition of the term Government of Iran as set forth in section 7(d) of E.O. 13599 and section 560.304 of the ITSR, 31 CFR part 560.

243. ISLAMIC REPUBLIC OF IRAN—MIDDLE EAST SHIPPING LINES COMPANY, Next to CB hotel, Sharaf Building, Office No. 202, Dubai, United Arab Emirates; Additional Sanctions Information—Subject to Secondary Sanctions [IRAN].

Identified as meeting the definition of the term Government of Iran as set forth in section 7(d) of E.O. 13599 and section 560.304 of the ITSR, 31 CFR part 560.

244. SHIPPING WELFARE SERVICES INSTITUTE (a.k.a. IRISL CLUB; a.k.a. ISLAMIC REPUBLIC OF IRAN SHIPPING LINES COMFORT SERVICES; a.k.a. MARITIME WELFARE SERVICES INSTITUTE), Number 63, East Shahid Tajrlu Street, Shahid Tajrlu Square, Shian, Iran; website www.irislclub.com; Additional Sanctions Information—Subject to Secondary Sanctions [IRAN].

Identified as meeting the definition of the term Government of Iran as set forth in section 7(d) of E.O. 13599 and section 560.304 of the ITSR, 31 CFR part 560.

245. OGHYANOUS KHOROSHAN KISH (a.k.a. KHOROSHAN MARITIME COMPANY; a.k.a. OGHYANOUS-E KHOROUSHAN-E KISH SHIPPING LINES), Unit 5, 9th Street 2, Ahmad Ghasir Avenue, PO Box 19635-1114, Tehran, Iran; Additional Sanctions Information—Subject to Secondary Sanctions [IRAN].

Identified as meeting the definition of the term Government of Iran as set forth in section 7(d) of E.O. 13599 and section 560.304 of the ITSR, 31 CFR part 560.

246. WITSHIPPING MARITIME PTE LTD (a.k.a. HARDSEA AGENCIES; f.k.a. SINOSE MARITIME), Hoe Chiang Road 10, #15-02a, Central Business District 089315, Singapore; Additional Sanctions Information—Subject to Secondary Sanctions; Trade License No. 201131193Z (Singapore) [IRAN].

Identified as meeting the definition of the term Government of Iran as set forth in section 7(d) of E.O. 13599 and section 560.304 of the ITSR, 31 CFR part 560.

247. ESAIL SHIPPING LIMITED (a.k.a. E-SAIL SHIPPING COMPANY LTD; f.k.a. SANTEX LINES), Building 1088, Suite 1501, Pudong South Road (Shanghai Zhong Rong Plaza), Shanghai 200122, China; Additional Sanctions Information—Subject to Secondary Sanctions; Trade License No. 1429927 (Hong Kong) [IRAN].

Identified as meeting the definition of the term Government of Iran as set forth in section 7(d) of E.O. 13599 and section 560.304 of the ITSR, 31 CFR part 560.

248. ISLAMIC REPUBLIC OF IRAN—CHINA SHIPPING LINES, China; Additional Sanctions Information—Subject to Secondary Sanctions [IRAN].

Identified as meeting the definition of the term Government of Iran as set forth in section 7(d) of E.O. 13599 and section 560.304 of the ITSR, 31 CFR part 560.

249. PERSIAN GULF SABZ KARAFARINAN (a.k.a. PERSIAN GULF KHATAR-PAZIR INVESTMENT COMPANY), No. 17, Fifth Floor, 17th Alley, Vozara Street, Tehran, Iran; website www.persiangulffvc.com; Additional Sanctions Information—Subject to Secondary Sanctions [SDGT] [IFSR] (Linked To: TOSE-E MELLI GROUP INVESTMENT COMPANY).

Designated pursuant to section 1(c) of E.O. 13224 for being owned or controlled by Iran's TOSE-E MELLI GROUP INVESTMENT COMPANY, a person determined to be subject to E.O. 13224.

250. CEMENT INDUSTRY INVESTMENT AND DEVELOPMENT COMPANY, Number 20, W. Nahid Street, Africa Blvd., Tehran, Iran; website www.cidco.ir; Additional Sanctions Information—Subject to Secondary Sanctions; Registration Number 218006 (Iran) [SDGT] [IFSR] (Linked To: TOSE-E MELLI GROUP INVESTMENT COMPANY).

Designated pursuant to section 1(c) of E.O. 13224 for being owned or controlled by Iran's TOSE-E MELLI GROUP INVESTMENT COMPANY, a person determined to be subject to E.O. 13224.

251. SHOMAL CEMENT COMPANY, No. 269, Shahid Beheshti Street, Tehran, Iran; website www.shomalcement.com; Additional Sanctions Information—Subject to Secondary Sanctions [SDGT] [IFSR] (Linked To: CEMENT INDUSTRY INVESTMENT AND DEVELOPMENT COMPANY).

Designated pursuant to section 1(c) of E.O. 13224 for being owned or controlled by CEMENT INVESTMENT AND DEVELOPMENT COMPANY, a person determined to be subject to E.O. 13224.

252. BMIIC INTERNATIONAL GENERAL TRADING L.L.C., 705 International Business Tower, P.O. Box 181878, Dubai, United Arab Emirates; Additional Sanctions Information—Subject to Secondary Sanctions [SDGT] [IFSR] (Linked To: TOSE-E MELLI GROUP INVESTMENT COMPANY).

Designated pursuant to section 1(c) of E.O. 13224 for being owned or controlled by Iran's TOSE-E MELLI GROUP INVESTMENT COMPANY, a person determined to be subject to E.O. 13224.

Aircraft

The following aircraft have been identified pursuant to E.O. 13599 as property in which IRAN AIR, a person whose property and interests in property are blocked pursuant to E.O. 13599, has an interest:

1. EP-CFD; Aircraft Manufacture Date 19 Feb 1993; Aircraft Model F28; Aircraft Operator Iran Air; Aircraft Manufacturer's Serial Number (MSN) 11442; Additional Sanctions Information—Subject to Secondary Sanctions (aircraft) [IRAN] (Linked To: IRAN AIR).

2. EP-CFE; Aircraft Manufacture Date 06 Oct 1992; Aircraft Model F28; Aircraft Operator Iran Air; Aircraft Manufacturer's Serial Number (MSN) 11422; Additional Sanctions Information—Subject to Secondary Sanctions (aircraft) [IRAN] (Linked To: IRAN AIR).

3. EP-CFH; Aircraft Manufacture Date 24 Feb 1993; Aircraft Model F28; Aircraft Operator Iran Air; Aircraft Manufacturer's Serial Number (MSN) 11443; Additional Sanctions Information—Subject to Secondary Sanctions (aircraft) [IRAN] (Linked To: IRAN AIR).

4. EP-CFI; Aircraft Manufacture Date 22 Jan 1996; Aircraft Model F28; Aircraft Operator Iran Air; Aircraft Manufacturer's Serial Number (MSN) 11511; Additional Sanctions Information—Subject to Secondary Sanctions (aircraft) [IRAN] (Linked To: IRAN AIR).

5. EP-CFJ; Aircraft Manufacture Date 09 Jan 1996; Aircraft Model F28; Aircraft Operator Iran Air; Aircraft Manufacturer's Serial Number (MSN) 11516; Additional Sanctions Information—Subject to Secondary Sanctions (aircraft) [IRAN] (Linked To: IRAN AIR).

6. EP-CFK; Aircraft Manufacture Date 18 Feb 1996; Aircraft Model F28; Aircraft Operator Iran Air; Aircraft Manufacturer's Serial Number (MSN) 11518; Additional Sanctions Information—Subject to Secondary Sanctions (aircraft) [IRAN] (Linked To: IRAN AIR).

7. EP-CFL; Aircraft Manufacture Date 28 Jun 1991; Aircraft Model F28; Aircraft Operator Iran Air; Aircraft Manufacturer's Serial Number (MSN) 11343; Additional Sanctions Information—Subject to Secondary Sanctions (aircraft) [IRAN] (Linked To: IRAN AIR).

8. EP-CFM; Aircraft Manufacture Date 27 Apr 1992; Aircraft Model F28; Aircraft Operator Iran Air; Aircraft Manufacturer's Serial Number (MSN) 11394; Additional Sanctions Information—Subject to Secondary Sanctions (aircraft) [IRAN] (Linked To: IRAN AIR).

9. EP-CFO; Aircraft Manufacture Date 03 Apr 1992; Aircraft Model F28; Aircraft Operator Iran Air; Aircraft Manufacturer's Serial Number (MSN) 11389; Additional Sanctions Information—Subject to Secondary Sanctions (aircraft) [IRAN] (Linked To: IRAN AIR).

10. EP-CFP; Aircraft Manufacture Date 24 Jul 1992; Aircraft Model F28; Aircraft Operator Iran Air; Aircraft Manufacturer's Serial Number (MSN) 11409; Additional Sanctions Information—Subject to Secondary Sanctions (aircraft) [IRAN] (Linked To: IRAN AIR).

11. EP-CFQ; Aircraft Manufacture Date 02 Dec 1992; Aircraft Model F28; Aircraft Operator Iran Air; Aircraft Manufacturer's Serial Number (MSN) 11429; Additional Sanctions Information—Subject to Secondary Sanctions (aircraft) [IRAN] (Linked To: IRAN AIR).

12. EP-CFR; Aircraft Manufacture Date 31 Mar 1992; Aircraft Model F28; Aircraft Operator Iran Air; Aircraft Manufacturer's Serial Number (MSN) 11383; Additional Sanctions Information—Subject to Secondary Sanctions (aircraft) [IRAN] (Linked To: IRAN AIR).

13. EP-IAB; Aircraft Manufacture Date 22 Apr 1976; Aircraft Model B747; Aircraft Operator Iran Air; Aircraft Manufacturer's Serial Number (MSN) 20999; Additional Sanctions Information—Subject to Secondary Sanctions (aircraft) [IRAN] (Linked To: IRAN AIR).

14. EP-IAC; Aircraft Manufacture Date 16 May 1977; Aircraft Model B747; Aircraft Operator Iran Air; Aircraft Manufacturer's Serial Number (MSN) 21093; Additional Sanctions Information—Subject to Secondary Sanctions (aircraft) [IRAN] (Linked To: IRAN AIR).

15. EP-IAD; Aircraft Manufacture Date 26 Apr 1979; Aircraft Model B747; Aircraft Operator Iran Air; Aircraft Manufacturer's Serial Number (MSN) 21758; Additional Sanctions Information—Subject to Secondary Sanctions (aircraft) [IRAN] (Linked To: IRAN AIR).

16. EP-IAG; Aircraft Manufacture Date 21 Jul 1976; Aircraft Model B747; Aircraft Operator Iran Air; Aircraft Manufacturer's Serial Number (MSN) 21217; Additional Sanctions Information—Subject to Secondary Sanctions (aircraft) [IRAN] (Linked To: IRAN AIR).

17. EP-IAH; Aircraft Manufacture Date 22 Dec 1976; Aircraft Model B747; Aircraft Operator Iran Air; Aircraft Manufacturer's Serial Number (MSN) 21218; Additional Sanctions Information—Subject to Secondary Sanctions (aircraft) [IRAN] (Linked To: IRAN AIR).

18. EP-IAI; Aircraft Manufacture Date 01 Dec 1981; Aircraft Model B747; Aircraft Operator Iran Air; Aircraft Manufacturer's Serial Number (MSN) 22670; Additional Sanctions Information—Subject to Secondary Sanctions (aircraft) [IRAN] (Linked To: IRAN AIR).

19. EP-IBA; Aircraft Manufacture Date 21 Dec 1993; Aircraft Model A300; Aircraft Operator Iran Air; Aircraft Manufacturer's Serial Number (MSN) 723; Additional Sanctions Information—Subject to Secondary Sanctions (aircraft) [IRAN] (Linked To: IRAN AIR).

20. EP-IBB; Aircraft Manufacture Date 18 Jan 1994; Aircraft Model A300; Aircraft Operator Iran Air; Aircraft Manufacturer's Serial Number (MSN) 727; Additional Sanctions Information—Subject to Secondary Sanctions (aircraft) [IRAN] (Linked To: IRAN AIR).

21. EP-IBC; Aircraft Manufacture Date 11 Mar 1992; Aircraft Model A300; Aircraft Operator Iran Air; Aircraft Manufacturer's Serial Number (MSN) 632; Additional Sanctions Information—Subject to Secondary Sanctions (aircraft) [IRAN] (Linked To: IRAN AIR).

22. EP-IBD; Aircraft Manufacture Date Apr 1993; Aircraft Model A300; Aircraft Operator Iran Air; Aircraft Manufacturer's Serial Number (MSN) 696; Additional Sanctions Information—Subject to Secondary Sanctions (aircraft) [IRAN] (Linked To: IRAN AIR).

23. EP-IBG; Aircraft Manufacture Date 09 Aug 1984; Aircraft Model A300; Aircraft Operator Iran Air; Aircraft Manufacturer's Serial Number (MSN) 299; Additional Sanctions Information—Subject to Secondary Sanctions (aircraft) [IRAN] (Linked To: IRAN AIR).

24. EP-IBI; Aircraft Manufacture Date 09 Jun 1981; Aircraft Model A300; Aircraft Operator Iran Air; Aircraft Manufacturer's Serial Number (MSN) 151; Additional Sanctions Information—Subject to Secondary Sanctions (aircraft) [IRAN] (Linked To: IRAN AIR).

25. EP-IBJ; Aircraft Manufacture Date 18 May 1983; Aircraft Model A300; Aircraft Operator Iran Air; Aircraft Manufacturer's Serial Number (MSN) 256; Additional Sanctions Information—Subject to Secondary Sanctions (aircraft) [IRAN] (Linked To: IRAN AIR).

26. EP-IBK; Aircraft Manufacture Date 19 Feb 1993; Aircraft Model A310; Aircraft Operator Iran Air; Aircraft Manufacturer's Serial Number (MSN) 671; Additional Sanctions Information—Subject to Secondary Sanctions (aircraft) [IRAN] (Linked To: IRAN AIR).

27. EP-IBL; Aircraft Manufacture Date 02 May 1987; Aircraft Model A310; Aircraft Operator Iran Air; Aircraft Manufacturer's Serial Number (MSN) 436; Additional Sanctions Information—Subject to Secondary Sanctions (aircraft) [IRAN] (Linked To: IRAN AIR).

28. EP-IBN; Aircraft Manufacture Date 16 Apr 1985; Aircraft Model A310; Aircraft Operator Iran Air; Aircraft Manufacturer's Serial Number (MSN) 375; Additional Sanctions Information—Subject to Secondary Sanctions (aircraft) [IRAN] (Linked To: IRAN AIR).

29. EP-IBP; Aircraft Manufacture Date 06 Jan 1986; Aircraft Model A310; Aircraft Operator Iran Air; Aircraft Manufacturer's Serial Number (MSN) 370; Additional Sanctions Information—Subject to Secondary Sanctions (aircraft) [IRAN] (Linked To: IRAN AIR).

30. EP-IBQ; Aircraft Manufacture Date 20 Jan 1986; Aircraft Model A310; Aircraft Operator Iran Air; Aircraft Manufacturer's Serial Number (MSN) 389; Additional Sanctions Information—Subject to Secondary Sanctions (aircraft) [IRAN] (Linked To: IRAN AIR).

31. EP-IBS; Aircraft Manufacture Date 13 Feb 1980; Aircraft Model A300; Aircraft Operator Iran Air; Aircraft Manufacturer's Serial Number (MSN) 80; Additional Sanctions Information—Subject to Secondary Sanctions (aircraft) [IRAN] (Linked To: IRAN AIR).

32. EP-IBT; Aircraft Manufacture Date 09 Mar 1982; Aircraft Model A300; Aircraft Operator Iran Air; Aircraft Manufacturer's Serial Number (MSN) 185; Additional Sanctions Information—Subject to Secondary Sanctions (aircraft) [IRAN] (Linked To: IRAN AIR).

33. EP-IBZ; Aircraft Manufacture Date 13 Dec 1982; Aircraft Model A300; Aircraft Operator Iran Air; Aircraft Manufacturer's Serial Number (MSN) 226; Additional Sanctions Information—Subject to Secondary Sanctions (aircraft) [IRAN] (Linked To: IRAN AIR).

34. EP-ICD; Aircraft Manufacture Date 15 Sep 1988; Aircraft Model B747; Aircraft Operator Iran Air; Aircraft Manufacturer's Serial Number (MSN) 24134; Additional Sanctions Information—Subject to Secondary Sanctions (aircraft) [IRAN] (Linked To: IRAN AIR).

35. EP-ICE; Aircraft Manufacture Date 11 Mar 1981; Aircraft Model A300; Aircraft Operator Iran Air; Aircraft Manufacturer's Serial Number (MSN) 139; Additional Sanctions Information—Subject to Secondary Sanctions (aircraft) [IRAN] (Linked To: IRAN AIR).

36. EP-ICF; Aircraft Manufacture Date 14 Dec 1981; Aircraft Model A300; Aircraft Operator Iran Air; Aircraft Manufacturer's Serial Number (MSN) 173; Additional Sanctions Information—Subject to Secondary Sanctions (aircraft) [IRAN] (Linked To: IRAN AIR).

37. EP-IDA; Aircraft Manufacture Date 12 Jun 1990; Aircraft Model F28; Aircraft Operator Iran Air; Aircraft Manufacturer's Serial Number (MSN) 11292; Additional Sanctions Information—Subject to Secondary Sanctions (aircraft) [IRAN] (Linked To: IRAN AIR).

38. EP-IDD; Aircraft Manufacture Date 31 Oct 1990; Aircraft Model F28; Aircraft Operator Iran Air; Aircraft Manufacturer's Serial Number (MSN) 11294; Additional Sanctions Information—Subject to Secondary Sanctions (aircraft) [IRAN] (Linked To: IRAN AIR).

39. EP-IDF; Aircraft Manufacture Date 07 Nov 1990; Aircraft Model F28; Aircraft Operator Iran Air; Aircraft Manufacturer's Serial Number (MSN) 11298; Additional Sanctions Information—Subject to Secondary Sanctions (aircraft) [IRAN] (Linked To: IRAN AIR).

40. EP-IDG; Aircraft Manufacture Date 30 Jan 1991; Aircraft Model F28; Aircraft Operator Iran Air; Aircraft Manufacturer's Serial Number (MSN) 11302; Additional Sanctions Information—Subject to Secondary Sanctions (aircraft) [IRAN] (Linked To: IRAN AIR).

41. EP-IEB; Aircraft Manufacture Date 26 Jan 1996; Aircraft Model A320; Aircraft Operator Iran Air; Aircraft Manufacturer's Serial Number (MSN) 575; Additional Sanctions Information—Subject to Secondary Sanctions (aircraft) [IRAN] (Linked To: IRAN AIR).

42. EP-IEC; Aircraft Manufacture Date 18 Jun 1998; Aircraft Model A320; Aircraft Operator Iran Air; Aircraft Manufacturer's Serial Number (MSN) 857; Additional Sanctions Information—Subject to Secondary Sanctions (aircraft) [IRAN] (Linked To: IRAN AIR).

43. EP-IED; Aircraft Manufacture Date 18 Jun 1992; Aircraft Model A320; Aircraft Operator Iran Air; Aircraft Manufacturer's Serial Number (MSN) 345; Additional Sanctions Information—Subject to Secondary Sanctions (aircraft) [IRAN] (Linked To: IRAN AIR).

44. EP-IEE; Aircraft Manufacture Date 14 Feb 1992; Aircraft Model A320; Aircraft Operator Iran Air; Aircraft Manufacturer's Serial Number (MSN) 303; Additional Sanctions Information—Subject to Secondary Sanctions (aircraft) [IRAN] (Linked To: IRAN AIR).

45. EP-IEF; Aircraft Manufacture Date 05 Mar 1992; Aircraft Model A320; Aircraft Operator Iran Air; Aircraft Manufacturer's Serial Number (MSN) 312; Additional Sanctions Information—Subject to Secondary Sanctions (aircraft) [IRAN] (Linked To: IRAN AIR).

46. EP-IEG; Aircraft Manufacture Date 06 Jun 2003; Aircraft Model A320; Aircraft Operator Iran Air; Aircraft Manufacturer's Serial Number (MSN) 2054; Additional Sanctions Information—Subject to Secondary Sanctions (aircraft) [IRAN] (Linked To: IRAN AIR).

47. EP-IFA; Aircraft Manufacture Date 16 Nov 2016; Aircraft Model A321; Aircraft Operator Iran Air; Aircraft Manufacturer's Serial Number (MSN) 7418; Additional Sanctions Information—Subject to Secondary Sanctions (aircraft) [IRAN] (Linked To: IRAN AIR).

48. EP-IJA; Aircraft Manufacture Date 02 Jun 2014; Aircraft Model A330; Aircraft Operator Iran Air; Aircraft Manufacturer's Serial Number (MSN) 1540; Additional Sanctions Information—Subject to Secondary Sanctions (aircraft) [IRAN] (Linked To: IRAN AIR).

49. EP-IJB; Aircraft Manufacture Date 05 Nov 2014; Aircraft Model A330; Aircraft Operator Iran Air; Aircraft Manufacturer's Serial Number (MSN) 1586; Additional Sanctions Information—Subject to Secondary Sanctions (aircraft) [IRAN] (Linked To: IRAN AIR).

50. EP-IRR; Aircraft Manufacture Date 24 Jun 1974; Aircraft Model B727; Aircraft Operator Iran Air; Aircraft Manufacturer's Serial Number (MSN) 20946; Additional Sanctions Information—Subject to Secondary Sanctions (aircraft) [IRAN] (Linked To: IRAN AIR).

51. EP-IRS; Aircraft Manufacture Date 12 Sep 1974; Aircraft Model B727; Aircraft Operator Iran Air; Aircraft Manufacturer's Serial Number (MSN) 20947; Additional Sanctions Information—Subject to Secondary Sanctions (aircraft) [IRAN] (Linked To: IRAN AIR).

52. EP-IRT; Aircraft Manufacture Date 03 Mar 1975; Aircraft Model B727; Aircraft Operator Iran Air; Aircraft Manufacturer's Serial Number (MSN) 21078; Additional Sanctions Information—Subject to Secondary Sanctions (aircraft) [IRAN] (Linked To: IRAN AIR).

53. EP-ITA; Aircraft Manufacture Date 05 Jan 2017; Aircraft Model ATR-72; Aircraft Operator Iran Air; Aircraft Manufacturer's Serial Number (MSN) 1386; Additional Sanctions Information—Subject to Secondary Sanctions (aircraft) [IRAN] (Linked To: IRAN AIR).

54. EP-ITB; Aircraft Manufacture Date 17 Jan 2017; Aircraft Model ATR-72; Aircraft Operator Iran Air; Aircraft Manufacturer's Serial Number (MSN) 1389; Additional Sanctions Information—Subject to Secondary Sanctions (aircraft) [IRAN] (Linked To: IRAN AIR).

55. EP-ITC; Aircraft Manufacture Date 11 Jan 2017; Aircraft Model ATR-72; Aircraft Operator Iran Air; Aircraft Manufacturer's Serial Number (MSN) 1390; Additional Sanctions Information—Subject to Secondary Sanctions (aircraft) [IRAN] (Linked To: IRAN AIR).

56. EP-ITD; Aircraft Manufacture Date 28 Dec 2016; Aircraft Model ATR-72; Aircraft Operator Iran Air; Aircraft Manufacturer's Serial Number (MSN) 1391; Additional Sanctions Information—Subject to Secondary Sanctions (aircraft) [IRAN] (Linked To: IRAN AIR).

57. EP-ITE; Aircraft Manufacture Date 27 Jul 2017; Aircraft Model ATR-72; Aircraft Operator Iran Air; Aircraft Manufacturer's Serial Number (MSN) 1424; Additional Sanctions Information—Subject to Secondary Sanctions (aircraft) [IRAN] (Linked To: IRAN AIR).

58. EP-ITF; Aircraft Manufacture Date 04 Sep 2017; Aircraft Model ATR-72; Aircraft Operator Iran Air; Aircraft Manufacturer's Serial Number (MSN) 1431; Additional Sanctions Information—Subject to Secondary Sanctions (aircraft) [IRAN] (Linked To: IRAN AIR).

59. EP-ITG; Aircraft Manufacture Date 20 Dec 2017; Aircraft Model ATR-72; Aircraft Operator Iran Air; Aircraft Manufacturer's Serial Number (MSN) 1477; Additional Sanctions Information—Subject to Secondary Sanctions (aircraft) [IRAN] (Linked To: IRAN AIR).

60. EP-ITH; Aircraft Manufacture Date 11 Dec 2017; Aircraft Model ATR-72; Aircraft Operator Iran Air; Aircraft Manufacturer's Serial Number (MSN) 1478; Additional Sanctions Information—Subject to Secondary Sanctions (aircraft) [IRAN] (Linked To: IRAN AIR).

61. EP-ITI; Aircraft Manufacture Date 22 Mar 2018; Aircraft Model ATR-72; Aircraft Operator Iran Air; Aircraft Manufacturer's Serial Number (MSN) 1489; Additional Sanctions Information—Subject to Secondary Sanctions (aircraft) [IRAN] (Linked To: IRAN AIR).

62. EP-ITJ; Aircraft Manufacture Date 06 Apr 2018; Aircraft Model ATR-72; Aircraft Operator Iran Air; Aircraft Manufacturer's Serial Number (MSN) 1494; Additional Sanctions Information—Subject to Secondary Sanctions (aircraft) [IRAN] (Linked To: IRAN AIR).

63. EP-ITK; Aircraft Manufacture Date 19 Jun 2018; Aircraft Model ATR-72; Aircraft Operator Iran Air; Aircraft Manufacturer's Serial Number (MSN) 1503; Additional Sanctions Information—Subject to Secondary Sanctions (aircraft) [IRAN] (Linked To: IRAN AIR).

64. EP-ITL; Aircraft Manufacture Date 24 May 2018; Aircraft Model ATR-72; Aircraft Operator Iran Air; Aircraft Manufacturer's Serial Number (MSN) 1504; Additional Sanctions Information—Subject to Secondary Sanctions (aircraft) [IRAN] (Linked To: IRAN AIR).

65. EP-ITM; Aircraft Manufacture Date 03 Jul 2018; Aircraft Model ATR-72; Aircraft Operator Iran Air; Aircraft Manufacturer's Serial Number (MSN) 1510; Additional Sanctions Information—Subject to Secondary Sanctions (aircraft) [IRAN] (Linked To: IRAN AIR).

66. UR-BXI; Aircraft Manufacture Date Jun 1993; Aircraft Model DC-9; Aircraft Operator Iran Air; Aircraft Manufacturer's Serial Number (MSN) 53170; Additional Sanctions Information—Subject to Secondary Sanctions (aircraft) [IRAN] (Linked To: IRAN AIR).

67. UR-CBD; Aircraft Manufacture Date Mar 1989; Aircraft Model DC-9; Aircraft Operator Iran Air; Aircraft Manufacturer's Serial Number (MSN) 49510; Additional Sanctions Information—Subject to Secondary Sanctions (aircraft) [IRAN] (Linked To: IRAN AIR).

Vessels

The following vessels have been identified pursuant to E.O. 13599 as property in which the ISLAMIC REPUBLIC OF IRAN SHIPPING LINES, a person whose property and interests in property are blocked pursuant to E.O. 13599, has an interest:

1. AAJ Crew/Supply Vessel Iran flag; Additional Sanctions Information—Subject to Secondary Sanctions; Vessel Registration Identification IMO 8984484 (vessel) [IRAN] (Linked To: ISLAMIC REPUBLIC OF IRAN SHIPPING LINES).

2. AYNAZ Tug Iran flag; Additional Sanctions Information—Subject to Secondary Sanctions; Vessel Registration Identification IMO 9683570 (vessel) [IRAN] (Linked To: ISLAMIC REPUBLIC OF IRAN SHIPPING LINES).

3. BRELYAN Passenger Iran flag; Additional Sanctions Information—Subject to Secondary Sanctions; Other Vessel Type Roll-on Roll-off; Vessel Registration Identification IMO 9138056 (vessel) [IRAN] (Linked To: ISLAMIC REPUBLIC OF IRAN SHIPPING LINES).

4. FIROUZEH Passenger Iran flag; Additional Sanctions Information—Subject to Secondary Sanctions; Vessel Registration Identification IMO 9103099 (vessel) [IRAN] (Linked To: ISLAMIC REPUBLIC OF IRAN SHIPPING LINES).

5. IRAN HORMUZ 25 (a.k.a. HAYAN) Roll-on Roll-off Iran flag; Additional Sanctions Information—Subject to Secondary Sanctions; Other Vessel Type General Cargo; Vessel Registration Identification IMO 8422072 (vessel) [IRAN] (Linked To: ISLAMIC REPUBLIC OF IRAN SHIPPING LINES).

6. HORMUZ 2 Passenger Iran flag; Additional Sanctions Information—Subject to Secondary Sanctions; Vessel Registration Identification IMO 7904580 (vessel) [IRAN] (Linked To: ISLAMIC REPUBLIC OF IRAN SHIPPING LINES).

7. IRAN HORMUZ 12 (a.k.a. IRAN HORMOZ 12) Passenger Iran flag; Additional Sanctions Information—Subject to Secondary Sanctions; Other Vessel Type Roll-on Roll-off; Vessel Registration Identification IMO 9005596 (vessel) [IRAN] (Linked To: ISLAMIC REPUBLIC OF IRAN SHIPPING LINES).

8. IRAN HORMUZ 14 (a.k.a. IRAN HORMOZ 14) Passenger Iran flag; Additional Sanctions Information—Subject to Secondary Sanctions; Other Vessel Type Roll-on Roll-off; Vessel Registration Identification IMO 9020778 (vessel) [IRAN] (Linked To: ISLAMIC REPUBLIC OF IRAN SHIPPING LINES).

9. IRAN SHAHED General Cargo Iran flag; Additional Sanctions Information—Subject to Secondary Sanctions; Vessel Registration Identification IMO 9184691 (vessel) [IRAN] (Linked To: ISLAMIC REPUBLIC OF IRAN SHIPPING LINES).

10. NEGEEN Passenger Iran flag; Additional Sanctions Information—Subject to Secondary Sanctions; Vessel Registration Identification IMO 9071519 (vessel) [IRAN] (Linked To: ISLAMIC REPUBLIC OF IRAN SHIPPING LINES).

11. IRAN SHALAMCHEH (a.k.a. IR.SHALAMCHE; a.k.a. SEPEHR SAM) General Cargo Iran flag; Additional Sanctions Information—Subject to Secondary Sanctions; Vessel Registration Identification IMO 8820925 (vessel) [IRAN] (Linked To: ISLAMIC REPUBLIC OF IRAN SHIPPING LINES).

12. TABAN 1 Container Ship Iran flag; Additional Sanctions Information—Subject to Secondary Sanctions; Vessel Registration Identification IMO 9420368 (vessel) [IRAN] (Linked To: ISLAMIC REPUBLIC OF IRAN SHIPPING LINES).

13. SHAYAN 1 Container Ship Iran flag; Additional Sanctions Information—Subject to Secondary Sanctions; Vessel Registration Identification IMO 9420356 (vessel) [IRAN] (Linked To: ISLAMIC REPUBLIC OF IRAN SHIPPING LINES).

14. YARAN Container Ship Iran flag; Additional Sanctions Information—Subject to Secondary Sanctions; Vessel Registration Identification IMO 9420370 (vessel) [IRAN] (Linked To: ISLAMIC REPUBLIC OF IRAN SHIPPING LINES).

15. ZOMOROUD Passenger Iran flag; Additional Sanctions Information—Subject to Secondary Sanctions; Other Vessel Type Roll-on Roll-off; Vessel Registration Identification IMO 9138044 (vessel) [IRAN] (Linked To: ISLAMIC REPUBLIC OF IRAN SHIPPING LINES).

16. HAMD Bunkering Tanker Iran flag; Additional Sanctions Information—Subject to Secondary Sanctions; Vessel Registration Identification IMO 9036052 (vessel) [IRAN] (Linked To: ISLAMIC REPUBLIC OF IRAN SHIPPING LINES).

17. CANREACH (f.k.a. HAMOUN) Container Ship Hong Kong flag; Additional Sanctions Information—Subject to Secondary Sanctions; Vessel Registration Identification IMO 9820271 (vessel) [IRAN] (Linked To: ISLAMIC REPUBLIC OF IRAN SHIPPING LINES).

18. HYUNDAI MIPO 2655 (a.k.a. YARD NO.2655 HYUNDAI M.D.) Products Tanker Iran flag; Additional Sanctions Information—Subject to Secondary Sanctions; Vessel Registration Identification IMO 9820312 (vessel) [IRAN] (Linked To: ISLAMIC REPUBLIC OF IRAN SHIPPING LINES).

19. HYUNDAI MIPO 2656 (a.k.a. YARD NO.2656 HYUNDAI M.D.) Products Tanker Iran flag; Additional Sanctions Information—Subject to Secondary Sanctions; Vessel Registration Identification IMO 9820324 (vessel) [IRAN] (Linked To: ISLAMIC REPUBLIC OF IRAN SHIPPING LINES).

20. IRAN HORMUZ 22 Passenger Iran flag; Additional Sanctions Information—Subject to Secondary Sanctions; Other Vessel Type Landing Craft; Vessel Registration Identification IMO 8314275 (vessel) [IRAN] (Linked To: ISLAMIC REPUBLIC OF IRAN SHIPPING LINES).

21. IRAN PARAK Bunkering Tanker Iran flag; Additional Sanctions Information—Subject to Secondary Sanctions; Vessel Registration Identification IMO 8322064 (vessel) [IRAN] (Linked To: ISLAMIC REPUBLIC OF IRAN SHIPPING LINES).

22. IRAN SHALAK Bunkering Tanker Iran flag; Additional Sanctions Information—Subject to Secondary Sanctions; Vessel Registration Identification IMO 8319940 (vessel) [IRAN] (Linked To: ISLAMIC REPUBLIC OF IRAN SHIPPING LINES).

23. IRAN YOUSHAT Bunkering Tanker Iran flag; Additional Sanctions Information—Subject to Secondary Sanctions; Vessel Registration Identification IMO 8319952 (vessel) [IRAN] (Linked To: ISLAMIC REPUBLIC OF IRAN SHIPPING LINES).

24. HYUNDAI MIPO 2657 (a.k.a. YARD NO.2657 HYUNDAI M.D.) Tanker Iran flag; Additional Sanctions Information—Subject to Secondary Sanctions; Vessel Registration Identification IMO 9820336 (vessel) [IRAN] (Linked To: ISLAMIC REPUBLIC OF IRAN SHIPPING LINES).

25. IRAN CHARAK Bunkering Tanker Iran flag; Additional Sanctions Information—Subject to Secondary Sanctions; Vessel Registration Identification IMO 8322076 (vessel) [IRAN] (Linked To: ISLAMIC REPUBLIC OF IRAN SHIPPING LINES).

26. KASHAN Container Ship Iran flag; Additional Sanctions Information—Subject to Secondary Sanctions; Vessel Registration Identification IMO 9270696 (vessel) [IRAN] (Linked To: ISLAMIC REPUBLIC OF IRAN SHIPPING LINES).

27. SOBHAN Bunkering Tanker Iran flag; Additional Sanctions Information—Subject to Secondary Sanctions; Vessel Registration Identification IMO 9036935 (vessel) [IRAN] (Linked To: ISLAMIC REPUBLIC OF IRAN SHIPPING LINES).

28. AMINA Bulk Carrier Iran flag; Additional Sanctions Information—Subject to Secondary Sanctions; Vessel Registration Identification IMO 9305192 (vessel) [IRAN] (Linked To: ISLAMIC REPUBLIC OF IRAN SHIPPING LINES).

29. AREZOO General Cargo Iran flag; Additional Sanctions Information—Subject to Secondary Sanctions; Vessel Registration Identification IMO 9165786 (vessel) [IRAN] (Linked To: ISLAMIC REPUBLIC OF IRAN SHIPPING LINES).

30. ARSHAM Bulk Carrier Iran flag; Additional Sanctions Information—Subject to Secondary Sanctions; Vessel Registration Identification IMO 9386500 (vessel) [IRAN] (Linked To: ISLAMIC REPUBLIC OF IRAN SHIPPING LINES).

31. BAVAND Bulk Carrier Iran flag; Additional Sanctions Information—Subject to Secondary Sanctions; Vessel Registration Identification IMO 9387798 (vessel) [IRAN] (Linked To: ISLAMIC REPUBLIC OF IRAN SHIPPING LINES).

32. BEHSHAD General Cargo Iran flag; Additional Sanctions Information—Subject to Secondary Sanctions; Vessel Registration Identification IMO 9167289 (vessel) [IRAN] (Linked To: ISLAMIC REPUBLIC OF IRAN SHIPPING LINES).

33. BEHTA Container Ship Iran flag; Additional Sanctions Information—Subject to Secondary Sanctions; Vessel Registration Identification IMO 9349590 (vessel) [IRAN] (Linked To: ISLAMIC REPUBLIC OF IRAN SHIPPING LINES).

34. DARYABAR Bulk Carrier Iran flag; Additional Sanctions Information—Subject to Secondary Sanctions; Vessel Registration Identification IMO 9369710 (vessel) [IRAN] (Linked To: ISLAMIC REPUBLIC OF IRAN SHIPPING LINES).

35. DELRUBA Bulk Carrier Iran flag; Additional Sanctions Information—Subject to Secondary Sanctions; Vessel Registration Identification IMO 9305207 (vessel) [IRAN] (Linked To: ISLAMIC REPUBLIC OF IRAN SHIPPING LINES).

36. GANJ Bulk Carrier Iran flag; Additional Sanctions Information—Subject to Secondary Sanctions; Vessel Registration Identification IMO 9305219 (vessel) [IRAN] (Linked To: ISLAMIC REPUBLIC OF IRAN SHIPPING LINES).

37. PARISAN Bulk Carrier Iran flag; Additional Sanctions Information—Subject to Secondary Sanctions; Vessel Registration Identification IMO 9465851 (vessel) [IRAN] (Linked To: ISLAMIC REPUBLIC OF IRAN SHIPPING LINES).

38. PARSHAD Bulk Carrier Iran flag; Additional Sanctions Information—Subject to Secondary Sanctions; Vessel Registration Identification IMO 9387786 (vessel) [IRAN] (Linked To: ISLAMIC REPUBLIC OF IRAN SHIPPING LINES).

39. SHAHRAZ Container Ship Iran flag; Additional Sanctions Information—Subject to Secondary Sanctions; Vessel Registration Identification IMO 9349576 (vessel) [IRAN] (Linked To: ISLAMIC REPUBLIC OF IRAN SHIPPING LINES).

40. TABUK Crude/Oil Products Tanker Togo flag; Additional Sanctions Information—Subject to Secondary Sanctions; Vessel Registration Identification IMO 8917467 (vessel) [IRAN] (Linked To: ISLAMIC REPUBLIC OF IRAN SHIPPING LINES).

41. AVANG Bulk Carrier Iran flag; Additional Sanctions Information—Subject to Secondary Sanctions; Vessel Registration Identification IMO 9465746 (vessel) [IRAN] (Linked To: ISLAMIC REPUBLIC OF IRAN SHIPPING LINES).

42. BASKAR Bulk Carrier Iran flag; Additional Sanctions Information—Subject to Secondary Sanctions; Vessel Registration Identification IMO 9405942 (vessel) [IRAN] (Linked To: ISLAMIC REPUBLIC OF IRAN SHIPPING LINES).

43. CASPIA Chemical/Products Tanker Panama flag; Additional Sanctions Information—Subject to Secondary Sanctions; Vessel Registration Identification IMO 9125126 (vessel) [IRAN] (Linked To: ISLAMIC REPUBLIC OF IRAN SHIPPING LINES).

44. DELICE Chemical/Products Tanker Panama flag; Additional Sanctions Information—Subject to Secondary Sanctions; Vessel Registration Identification IMO 9125138 (vessel) [IRAN] (Linked To: ISLAMIC REPUBLIC OF IRAN SHIPPING LINES).

45. DELNAVAZ Bulk Carrier Iran flag; Additional Sanctions Information—Subject to Secondary Sanctions; Vessel Registration Identification IMO 9387803 (vessel) [IRAN] (Linked To: ISLAMIC REPUBLIC OF IRAN SHIPPING LINES).

46. DEVREZ Chemical/Products Tanker Panama flag; Additional Sanctions Information—Subject to Secondary Sanctions; Vessel Registration Identification IMO 9120994 (vessel) [IRAN] (Linked To: ISLAMIC REPUBLIC OF IRAN SHIPPING LINES).

47. KIAZAND Bulk Carrier Iran flag; Additional Sanctions Information—Subject to Secondary Sanctions; Vessel Registration Identification IMO 9465758 (vessel) [IRAN] (Linked To: ISLAMIC REPUBLIC OF IRAN SHIPPING LINES).

48. NEGAR General Cargo Iran flag; Additional Sanctions Information—Subject to Secondary Sanctions; Vessel Registration Identification IMO 9165839 (vessel) [IRAN] (Linked To: ISLAMIC REPUBLIC OF IRAN SHIPPING LINES).

49. NOOR 1 Bulk Carrier Iran flag; Additional Sanctions Information—Subject to Secondary Sanctions; Vessel Registration Identification IMO 9506320 (vessel) [IRAN] (Linked To: ISLAMIC REPUBLIC OF IRAN SHIPPING LINES).

50. TERMEH Bulk Carrier Iran flag; Additional Sanctions Information—Subject to Secondary Sanctions; Vessel Registration Identification IMO 9213399 (vessel) [IRAN] (Linked To: ISLAMIC REPUBLIC OF IRAN SHIPPING LINES).

51. WARTA Bulk Carrier Iran flag; Additional Sanctions Information—Subject to Secondary Sanctions; Vessel Registration Identification IMO 9465849 (vessel) [IRAN] (Linked To: ISLAMIC REPUBLIC OF IRAN SHIPPING LINES).

52. ARTARIA Bulk Carrier Iran flag; Additional Sanctions Information—Subject to Secondary Sanctions; Vessel Registration Identification IMO 9226944 (vessel) [IRAN] (Linked To: ISLAMIC REPUBLIC OF IRAN SHIPPING LINES).

53. ARTMAN Bulk Carrier Iran flag; Additional Sanctions Information—Subject to Secondary Sanctions; Vessel Registration Identification IMO 9405930 (vessel) [IRAN] (Linked To: ISLAMIC REPUBLIC OF IRAN SHIPPING LINES).

54. MENA Crude/Oil Products Tanker Togo flag; Additional Sanctions Information—Subject to Secondary Sanctions; Vessel Registration Identification IMO 8909472 (vessel) [IRAN] (Linked To: ISLAMIC REPUBLIC OF IRAN SHIPPING LINES).

55. PARSHAN General Cargo Iran flag; Additional Sanctions Information—Subject to Secondary Sanctions; Vessel Registration Identification IMO 9051648 (vessel) [IRAN] (Linked To: ISLAMIC REPUBLIC OF IRAN SHIPPING LINES).

56. PERARIN Container Ship Iran flag; Additional Sanctions Information—Subject to Secondary Sanctions; Vessel Registration Identification IMO 9209350 (vessel) [IRAN] (Linked To: ISLAMIC REPUBLIC OF IRAN SHIPPING LINES).

57. SARVIN Container Ship Iran flag; Additional Sanctions Information—Subject to Secondary Sanctions; Vessel Registration Identification IMO 9209348 (vessel) [IRAN] (Linked To: ISLAMIC REPUBLIC OF IRAN SHIPPING LINES).

58. SAVIZ General Cargo Iran flag; Additional Sanctions Information—Subject to Secondary Sanctions; Vessel Registration Identification IMO 9167253 (vessel) [IRAN] (Linked To: ISLAMIC REPUBLIC OF IRAN SHIPPING LINES).

59. SHABDIS Container Ship Iran flag; Additional Sanctions Information—Subject to Secondary Sanctions; Vessel Registration Identification IMO 9349588 (vessel) [IRAN] (Linked To: ISLAMIC REPUBLIC OF IRAN SHIPPING LINES).

60. ZARDIS Container Ship Iran flag; Additional Sanctions Information—Subject to Secondary Sanctions; Vessel Registration Identification IMO 9349679 (vessel) [IRAN] (Linked To: ISLAMIC REPUBLIC OF IRAN SHIPPING LINES).

61. ARVIN Bulk Carrier Iran flag; Additional Sanctions Information—Subject to Secondary Sanctions; Vessel Registration Identification IMO 9193202 (vessel) [IRAN] (Linked To: ISLAMIC REPUBLIC OF IRAN SHIPPING LINES).

62. BAHJAT Bulk Carrier Iran flag; Additional Sanctions Information—Subject to Secondary Sanctions; Vessel Registration Identification IMO 9405954 (vessel) [IRAN] (Linked To: ISLAMIC REPUBLIC OF IRAN SHIPPING LINES).

63. BATIS Bulk Carrier Iran flag; Additional Sanctions Information—Subject to Secondary Sanctions; Vessel Registration Identification IMO 9465760 (vessel) [IRAN] (Linked To: ISLAMIC REPUBLIC OF IRAN SHIPPING LINES).

64. GOLBON Container Ship Iran flag; Additional Sanctions Information—Subject to Secondary Sanctions; Vessel Registration Identification IMO 9283033 (vessel) [IRAN] (Linked To: ISLAMIC REPUBLIC OF IRAN SHIPPING LINES).

65. HAMGAM Bulk Carrier Iran flag; Additional Sanctions Information—Subject to Secondary Sanctions; Vessel Registration Identification IMO 9226956 (vessel) [IRAN] (Linked To: ISLAMIC REPUBLIC OF IRAN SHIPPING LINES).

66. KHURAN Products Tanker Togo flag; Additional Sanctions Information—Subject to Secondary Sanctions; Vessel Registration Identification IMO 9032666 (vessel) [IRAN] (Linked To: ISLAMIC REPUBLIC OF IRAN SHIPPING LINES).

67. MIAMI PRIDE Bulk Carrier Togo flag; Additional Sanctions Information—Subject to Secondary Sanctions; Vessel Registration Identification IMO 9274941 (vessel) [IRAN] (Linked To: ISLAMIC REPUBLIC OF IRAN SHIPPING LINES).

68. OURA Bulk Carrier Iran flag; Additional Sanctions Information—Subject to Secondary Sanctions; Vessel Registration Identification IMO 9387815 (vessel) [IRAN] (Linked To: ISLAMIC REPUBLIC OF IRAN SHIPPING LINES).

69. GOODREACH (f.k.a. RADIN) Container Ship Hong Kong flag; Additional Sanctions Information—Subject to Secondary Sanctions; Vessel Registration Identification IMO 9820257 (vessel) [IRAN] (Linked To: ISLAMIC REPUBLIC OF IRAN SHIPPING LINES).

70. TENREACH (f.k.a. RAYEN) Container Ship Hong Kong flag; Additional Sanctions Information—Subject to Secondary Sanctions; Vessel Registration Identification IMO 9820245 (vessel) [IRAN] (Linked To: ISLAMIC REPUBLIC OF IRAN SHIPPING LINES).

71. ROSHAK Bulk Carrier Iran flag; Additional Sanctions Information—Subject to Secondary Sanctions; Vessel Registration Identification IMO 9405966 (vessel) [IRAN] (Linked To: ISLAMIC REPUBLIC OF IRAN SHIPPING LINES).

72. SHAMIM Container Ship Iran flag; Additional Sanctions Information—Subject to Secondary Sanctions; Vessel Registration Identification IMO 9270658 (vessel) [IRAN] (Linked To: ISLAMIC REPUBLIC OF IRAN SHIPPING LINES).

73. ABBA General Cargo Iran flag; Additional Sanctions Information—Subject to Secondary Sanctions; Vessel Registration Identification IMO 9051624 (vessel) [IRAN] (Linked To: ISLAMIC REPUBLIC OF IRAN SHIPPING LINES).

74. ABTIN 1 Container Ship Iran flag; Additional Sanctions Information—Subject to Secondary Sanctions; Vessel Registration Identification IMO 9379636 (vessel) [IRAN] (Linked To: ISLAMIC REPUBLIC OF IRAN SHIPPING LINES).

75. ABYAN Container Ship Iran flag; Additional Sanctions Information—Subject to Secondary Sanctions; Vessel Registration Identification IMO 9349667 (vessel) [IRAN] (Linked To: ISLAMIC REPUBLIC OF IRAN SHIPPING LINES).

76. ANDIA Bulk Carrier Iran flag; Additional Sanctions Information—Subject to Secondary Sanctions; Vessel Registration Identification IMO 9193197 (vessel) [IRAN] (Linked To: ISLAMIC REPUBLIC OF IRAN SHIPPING LINES).

77. ARDAVAN Bulk Carrier Iran flag; Additional Sanctions Information—Subject to Secondary Sanctions; Vessel Registration Identification IMO 9465863 (vessel) [IRAN] (Linked To: ISLAMIC REPUBLIC OF IRAN SHIPPING LINES).

78. ARTAVAND Bulk Carrier Iran flag; Additional Sanctions Information—Subject to Secondary Sanctions; Vessel Registration Identification IMO 9193214 (vessel) [IRAN] (Linked To: ISLAMIC REPUBLIC OF IRAN SHIPPING LINES).

79. FANREACH (f.k.a. BARZIN) Container Ship Hong Kong flag; Additional Sanctions Information—Subject to Secondary Sanctions; Vessel Registration Identification IMO 9820269 (vessel) [IRAN] (Linked To: ISLAMIC REPUBLIC OF IRAN SHIPPING LINES).

80. BEHDOKHT Bulk Carrier Iran flag; Additional Sanctions Information—Subject to Secondary Sanctions; Vessel Registration Identification IMO 9405978 (vessel) [IRAN] (Linked To: ISLAMIC REPUBLIC OF IRAN SHIPPING LINES).

81. SHIBA Container Ship Iran flag; Additional Sanctions Information—Subject to Secondary Sanctions; Vessel Registration Identification IMO 9270646 (vessel) [IRAN] (Linked To: ISLAMIC REPUBLIC OF IRAN SHIPPING LINES).

82. SANIA General Cargo Iran flag; Additional Sanctions Information—Subject to Secondary Sanctions; Vessel Registration Identification IMO 9367994 (vessel) [IRAN] (Linked To: ISLAMIC REPUBLIC OF IRAN SHIPPING LINES).

83. SABRINA General Cargo Iran flag; Additional Sanctions Information—Subject to Secondary Sanctions; Vessel Registration Identification IMO 8215742 (vessel) [IRAN] (Linked To: ISLAMIC REPUBLIC OF IRAN SHIPPING LINES).

84. PARMIS General Cargo Iran flag; Additional Sanctions Information—Subject to Secondary Sanctions; Vessel Registration Identification IMO 9245316 (vessel) [IRAN] (Linked To: ISLAMIC REPUBLIC OF IRAN SHIPPING LINES).

85. PATRIS General Cargo Iran flag; Additional Sanctions Information—Subject to Secondary Sanctions; Vessel Registration Identification IMO 9137210 (vessel) [IRAN] (Linked To: ISLAMIC REPUBLIC OF IRAN SHIPPING LINES).

86. DORITA General Cargo Iran flag; Additional Sanctions Information—Subject to Secondary Sanctions; Vessel Registration Identification IMO 8605234 (vessel) [IRAN] (Linked To: ISLAMIC REPUBLIC OF IRAN SHIPPING LINES).

87. KASMA General Cargo Iran flag; Additional Sanctions Information—Subject to Secondary Sanctions; Vessel Registration Identification IMO 8721351 (vessel) [IRAN] (Linked To: ISLAMIC REPUBLIC OF IRAN SHIPPING LINES).

88. GILDA General Cargo Iran flag; Additional Sanctions Information—Subject to Secondary Sanctions; Vessel Registration Identification IMO 9367982 (vessel) [IRAN] (Linked To: ISLAMIC REPUBLIC OF IRAN SHIPPING LINES).

89. KADOS General Cargo Iran flag; Additional Sanctions Information—Subject to Secondary Sanctions; Vessel Registration Identification IMO 9137258 (vessel) [IRAN] (Linked To: ISLAMIC REPUBLIC OF IRAN SHIPPING LINES).

90. NARDIS General Cargo Iran flag; Additional Sanctions Information—Subject to Secondary Sanctions; Vessel Registration Identification IMO 9137246 (vessel) [IRAN] (Linked To: ISLAMIC REPUBLIC OF IRAN SHIPPING LINES).

91. PARAND General Cargo Iran flag; Additional Sanctions Information—Subject to Secondary Sanctions; Vessel Registration Identification IMO 9118551 (vessel) [IRAN] (Linked To: ISLAMIC REPUBLIC OF IRAN SHIPPING LINES).

92. PARIN General Cargo Iran flag; Additional Sanctions Information—Subject to Secondary Sanctions; Vessel Registration Identification IMO 9076478 (vessel) [IRAN] (Linked To: ISLAMIC REPUBLIC OF IRAN SHIPPING LINES).

93. SARINA General Cargo Iran flag; Additional Sanctions Information—Subject to Secondary Sanctions; Vessel Registration Identification IMO 8203608 (vessel) [IRAN] (Linked To: ISLAMIC REPUBLIC OF IRAN SHIPPING LINES).

94. SARIR General Cargo Iran flag; Additional Sanctions Information—Subject to Secondary Sanctions; Vessel Registration Identification IMO 9368003 (vessel) [IRAN] (Linked To: ISLAMIC REPUBLIC OF IRAN SHIPPING LINES).

95. SOMIA General Cargo Iran flag; Additional Sanctions Information—Subject to Secondary Sanctions; Vessel Registration Identification IMO 9368015 (vessel) [IRAN] (Linked To: ISLAMIC REPUBLIC OF IRAN SHIPPING LINES).

96. TARADIS General Cargo Iran flag; Additional Sanctions Information—Subject to Secondary Sanctions; Vessel Registration Identification IMO 9245304 (vessel) [IRAN] (Linked To: ISLAMIC REPUBLIC OF IRAN SHIPPING LINES).

97. VIANA General Cargo Iran flag; Additional Sanctions Information—Subject to Secondary Sanctions; Vessel Registration Identification IMO 9010723 (vessel) [IRAN] (Linked To: ISLAMIC REPUBLIC OF IRAN SHIPPING LINES).

98. VISTA General Cargo Iran flag; Additional Sanctions Information—Subject to Secondary Sanctions; Vessel Registration Identification IMO 9010711 (vessel) [IRAN] (Linked To: ISLAMIC REPUBLIC OF IRAN SHIPPING LINES).

99. ARTABAZ Container Ship Iran flag; Additional Sanctions Information—Subject to Secondary Sanctions; Vessel Registration Identification IMO 9283007 (vessel) [IRAN] (Linked To: ISLAMIC REPUBLIC OF IRAN SHIPPING LINES).

100. ARTAM Container Ship Iran flag; Additional Sanctions Information—Subject to Secondary Sanctions; Vessel Registration Identification IMO 9284154 (vessel) [IRAN] (Linked To: ISLAMIC REPUBLIC OF IRAN SHIPPING LINES).

101. AYSAN General Cargo Iran flag; Additional Sanctions Information—Subject to Secondary Sanctions; Vessel Registration Identification IMO 9165803 (vessel) [IRAN] (Linked To: ISLAMIC REPUBLIC OF IRAN SHIPPING LINES).

102. GOLAFRUZ Bulk Carrier Iran flag; Additional Sanctions Information—Subject to Secondary Sanctions; Vessel Registration Identification IMO 9323833 (vessel) [IRAN] (Linked To: ISLAMIC REPUBLIC OF IRAN SHIPPING LINES).

103. MAHNAM Bulk Carrier Iran flag; Additional Sanctions Information—Subject to Secondary Sanctions; Vessel Registration Identification IMO 9213387 (vessel) [IRAN] (Linked To: ISLAMIC REPUBLIC OF IRAN SHIPPING LINES).

104. TOUSKA Container Ship Iran flag; Additional Sanctions Information—Subject to Secondary Sanctions; Vessel Registration Identification IMO 9328900 (vessel) [IRAN] (Linked To: ISLAMIC REPUBLIC OF IRAN SHIPPING LINES).

105. PARNIA General Cargo Iran flag; Additional Sanctions Information—Subject to Secondary Sanctions; Vessel Registration Identification IMO 9167265 (vessel) [IRAN] (Linked To: ISLAMIC REPUBLIC OF IRAN SHIPPING LINES).

106. ARTENOS Container Ship Iran flag; Additional Sanctions Information—Subject to Secondary Sanctions; Vessel Registration Identification IMO 9283021 (vessel) [IRAN] (Linked To: ISLAMIC REPUBLIC OF IRAN SHIPPING LINES).

107. BEHNAVAZ Container Ship Iran flag; Additional Sanctions Information—Subject to Secondary Sanctions; Vessel Registration Identification IMO 9346548 (vessel) [IRAN] (Linked To: ISLAMIC REPUBLIC OF IRAN SHIPPING LINES).

108. ELYANA General Cargo Iran flag; Additional Sanctions Information—Subject to Secondary Sanctions; Vessel Registration Identification IMO 9165827 (vessel) [IRAN] (Linked To: ISLAMIC REPUBLIC OF IRAN SHIPPING LINES).

109. NESHAT General Cargo Iran flag; Additional Sanctions Information—Subject to Secondary Sanctions; Vessel Registration Identification IMO 9167277 (vessel) [IRAN] (Linked To: ISLAMIC REPUBLIC OF IRAN SHIPPING LINES).

110. SHABGOUN Container Ship Iran flag; Additional Sanctions Information—Subject to Secondary Sanctions; Vessel Registration Identification IMO 9346524 (vessel) [IRAN] (Linked To: ISLAMIC REPUBLIC OF IRAN SHIPPING LINES).

111. SHAHR E KORD Container Ship Iran flag; Additional Sanctions Information—Subject to Secondary Sanctions; Vessel Registration Identification IMO 9270684 (vessel) [IRAN] (Linked To: ISLAMIC REPUBLIC OF IRAN SHIPPING LINES).

112. ALVAN General Cargo Iran flag; Additional Sanctions Information—Subject to Secondary Sanctions; Vessel Registration Identification IMO 9165798 (vessel) [IRAN] (Linked To: ISLAMIC REPUBLIC OF IRAN SHIPPING LINES).

113. ARIES Bulk Carrier Iran flag; Additional Sanctions Information—Subject to Secondary Sanctions; Vessel Registration Identification IMO 9369722 (vessel) [IRAN] (Linked To: ISLAMIC REPUBLIC OF IRAN SHIPPING LINES).

114. ARTIN Bulk Carrier Iran flag; Additional Sanctions Information—Subject to Secondary Sanctions; Vessel Registration Identification IMO 9305221 (vessel) [IRAN] (Linked To: ISLAMIC REPUBLIC OF IRAN SHIPPING LINES).

115. ARZIN Container Ship Iran flag; Additional Sanctions Information—Subject to Secondary Sanctions; Vessel Registration Identification IMO 9284142 (vessel) [IRAN] (Linked To: ISLAMIC REPUBLIC OF IRAN SHIPPING LINES).

116. AZARGOUN Container Ship Iran flag; Additional Sanctions Information—Subject to Secondary Sanctions; Vessel Registration Identification IMO 9283019 (vessel) [IRAN] (Linked To: ISLAMIC REPUBLIC OF IRAN SHIPPING LINES).

117. BASHT Container Ship Iran flag; Additional Sanctions Information—Subject to Secondary Sanctions; Vessel Registration Identification IMO 9346536 (vessel) [IRAN] (Linked To: ISLAMIC REPUBLIC OF IRAN SHIPPING LINES).

118. BEHDAD General Cargo Iran flag; Additional Sanctions Information—Subject to Secondary Sanctions; Vessel Registration Identification IMO 9051636 (vessel) [IRAN] (Linked To: ISLAMIC REPUBLIC OF IRAN SHIPPING LINES).

119. GOLSAN General Cargo Iran flag; Additional Sanctions Information—Subject to Secondary Sanctions; Vessel Registration Identification IMO 9165815 (vessel) [IRAN] (Linked To: ISLAMIC REPUBLIC OF IRAN SHIPPING LINES).

120. GOLSAR Bulk Carrier Iran flag; Additional Sanctions Information—Subject to Secondary Sanctions; Vessel Registration Identification IMO 9193185 (vessel) [IRAN] (Linked To: ISLAMIC REPUBLIC OF IRAN SHIPPING LINES).

121. JAIRAN General Cargo Iran flag; Additional Sanctions Information—Subject to Secondary Sanctions; Vessel Registration Identification IMO 9167291 (vessel) [IRAN] (Linked To: ISLAMIC REPUBLIC OF IRAN SHIPPING LINES).

The following vessels have been identified pursuant to E.O. 13599 as property in which the NATIONAL IRANIAN TANKER COMPANY, a person whose property and interests in property are blocked pursuant to E.O. 13599, has an interest.

122. FAXON Chemical/Products Tanker Panama flag; Additional Sanctions Information—Subject to Secondary Sanctions; Vessel Registration Identification IMO 9283758 (vessel) [IRAN] (Linked To: NATIONAL IRANIAN TANKER COMPANY).

123. DERYA Crude Oil Tanker Panama flag; Additional Sanctions Information—Subject to Secondary Sanctions; Vessel Registration Identification IMO 9569700 (vessel) [IRAN] (Linked To: NATIONAL IRANIAN TANKER COMPANY).

124. DIONA Crude Oil Tanker Panama flag; Additional Sanctions Information—Subject to Secondary Sanctions; Vessel Registration Identification IMO 9569695 (vessel) [IRAN] (Linked To: NATIONAL IRANIAN TANKER COMPANY).

125. DUNE Crude Oil Tanker Panama flag; Additional Sanctions Information—Subject to Secondary Sanctions; Vessel Registration Identification IMO 9569712 (vessel) [IRAN] (Linked To: NATIONAL IRANIAN TANKER COMPANY).

The following individuals, entities, and vessels previously appeared on the List of Persons Identified as Blocked Solely Pursuant to E.O. 13599 (E.O. 13599 List). Based on the President's decision to cease U.S. participation in the Joint Comprehensive Plan of Action of July 14, 2015, these individuals, entities, and vessels, which continue to be blocked pursuant to E.O. 13599, were transferred from the E.O. 13599 List and placed on OFAC's List of Specially Designated Nationals and Blocked Persons on November 5, 2018, and the E.O. 13599 List was removed.

1. AA ENERGY FZCO, United Arab Emirates; Additional Sanctions Information—Subject to Secondary Sanctions [IRAN].

2. APAMA (f.k.a. ABELIA; f.k.a. ASTARA; f.k.a. JUPITER) (9HDS9) Crude/Oil Products Tanker 99,087DWT 56,068GRT Iran flag; Former Vessel Flag Tuvalu; alt. Former Vessel Flag Malta; Additional Sanctions Information—Subject to Secondary Sanctions; Vessel Registration Identification IMO 9187631; MMSI 256845000 (vessel) [IRAN] (Linked To: NATIONAL IRANIAN TANKER COMPANY).

3. ARNICA (f.k.a. ALERT; f.k.a. ASTANEH; f.k.a. NEPTUNE; f.k.a. SEAPRIDE) (T2ES4) Crude/Oil Products Tanker 99,144DWT 56,068GRT Iran flag; Former Vessel Flag Malta; alt. Former Vessel Flag Tuvalu; alt. Former Vessel Flag Tanzania; Additional Sanctions Information—Subject to Secondary Sanctions; Vessel Registration Identification IMO 9187643; MMSI 572467210 (vessel) [IRAN] (Linked To: NATIONAL IRANIAN TANKER COMPANY).

4. AMBER (f.k.a. FREEDOM; f.k.a. HARAZ) (5IM 597) Crude Oil Tanker 317,356DWT 163,660GRT Panama flag; Former Vessel Flag Cyprus; alt. Former Vessel Flag Tanzania; Additional Sanctions Information—Subject to Secondary Sanctions; Vessel Registration Identification IMO 9357406; MMSI 677049700 (vessel) [IRAN] (Linked To: NATIONAL IRANIAN TANKER COMPANY).

5. AMIN INVESTMENT BANK (a.k.a. AMINIB), No. 51 Ghobadiyan Street, Valiasr Street, Tehran 1968917173, Iran; website http://www.aminib.com [IRAN].

6. ARASH SHIPPING ENTERPRISES LIMITED, Diagoras House, 7th Floor, 16 Panteli Katelari Street, Nicosia 1097, Cyprus; Additional Sanctions Information—Subject to Secondary Sanctions; Telephone (357)(22660766); Fax (357)(22678777) [IRAN] (Linked To: NATIONAL IRANIAN TANKER COMPANY).

7. ARTA SHIPPING ENTERPRISES LIMITED, Diagoras House, 7th Floor, 16 Panteli Katelari Street, Nicosia 1097, Cyprus; Additional Sanctions Information—Subject to Secondary Sanctions; Telephone (357)(22660766); Fax (357)(22678777) [IRAN] (Linked To: NATIONAL IRANIAN TANKER COMPANY).

8. ASAN SHIPPING ENTERPRISE LIMITED, 85 St. John Street, Valletta VLT 1165, Malta; Additional Sanctions Information—Subject to Secondary Sanctions; Telephone (356)(21241817); Fax (356)(25990640) [IRAN] (Linked To: NATIONAL IRANIAN TANKER COMPANY).

9. ASCOTEC HOLDING GMBH (f.k.a. AHWAZ STEEL COMMERCIAL & TECHNICAL SERVICE GMBH ASCOTEC; f.k.a. AHWAZ STEEL COMMERCIAL AND TECHNICAL SERVICE GMBH ASCOTEC; a.k.a. ASCOTEC GMBH), Tersteegen Strasse 10, Dusseldorf 40474, Germany; Additional Sanctions Information—Subject to Secondary Sanctions; Registration ID HRB 26136 (Germany); all offices worldwide [IRAN].

10. ASCOTEC JAPAN K.K., 8th Floor, Shiba East Building, 2-3-9 Shiba, Minato-ku, Tokyo 105-0014, Japan; Additional Sanctions Information—Subject to Secondary Sanctions; all offices worldwide [IRAN].

11. ASCOTEC MINERAL & MACHINERY GMBH (a.k.a. ASCOTEC MINERAL AND MACHINERY GMBH; f.k.a. BREYELLER KALTBAND GMBH), Tersteegenstr. 10, Dusseldorf 40474, Germany; Additional Sanctions Information—Subject to Secondary Sanctions; Registration ID HRB 55668 (Germany); all offices worldwide [IRAN].

12. ASCOTEC SCIENCE & TECHNOLOGY GMBH (a.k.a. ASCOTEC SCIENCE AND TECHNOLOGY GMBH), Tersteegenstrasse 10, Dusseldorf D 40474, Germany; Additional Sanctions Information—Subject to Secondary Sanctions; Registration ID HRB 58745 (Germany); all offices worldwide [IRAN].

13. ASCOTEC STEEL TRADING GMBH (a.k.a. ASCOTEC STEEL), Tersteegenstr. 10, Dusseldorf 40474, Germany; Georg-Glock-Str. 3, Dusseldorf 40474, Germany; Additional Sanctions Information—Subject to Secondary Sanctions; Registration ID HRB 48319 (Germany); all offices worldwide [IRAN].

14. ASIA ENERGY GENERAL TRADING (LLC), Suite 703, Twin Tower, Baniyas Street, Deira, Dubai, United Arab Emirates; Additional Sanctions Information—Subject to Secondary Sanctions [IRAN].

15. ATLANTIC (f.k.a. SEAGULL) Crude Oil Tanker Liberia flag; Additional Sanctions Information—Subject to Secondary Sanctions; Vessel Registration Identification IMO 9107655 (vessel) [IRAN].

16. STARLA (f.k.a. ATLANTIS) (5IM316) Crude Oil Tanker Panama flag (NITC); Former Vessel Flag Tanzania; Additional Sanctions Information—Subject to Secondary Sanctions; Vessel Registration Identification IMO 9569621 (vessel) [IRAN] (Linked To: NATIONAL IRANIAN TANKER COMPANY).

17. AURA (f.k.a. OCEAN PERFORMER) Crude Oil Tanker Mongolia flag; Former Vessel Flag Liberia; Additional Sanctions Information—Subject to Secondary Sanctions; Vessel Registration Identification IMO 9013749 (vessel) [IRAN].

18. BADR (EQJU) Iran flag; Additional Sanctions Information—Subject to Secondary Sanctions; Vessel Registration Identification IMO 8407345 (vessel) [IRAN] (Linked To: NATIONAL IRANIAN TANKER COMPANY).

19. BAHADORI, Masoud; nationality Iran; Additional Sanctions Information—Subject to Secondary Sanctions; Passport T12828814 (Iran); Managing Director, Petro Suisse Intertrade Company (individual) [IRAN].

20. BANDAR IMAM PETROCHEMICAL COMPANY, North Kargar Street, Tehran, Iran; Mahshahr, Bandar Imam, Khuzestan Province, Iran; Additional Sanctions Information—Subject to Secondary Sanctions [IRAN].

21. BANEH (EQKF) Landing Craft 640DWT 478GRT Iran flag; Additional Sanctions Information—Subject to Secondary Sanctions; Vessel Registration Identification IMO 8508462; MMSI 422141000 (vessel) [IRAN] (Linked To: NATIONAL IRANIAN TANKER COMPANY).

22. BANK KESHAVARZI IRAN (a.k.a. AGRICULTURAL BANK OF IRAN; a.k.a. BANK KESHAVARZI), PO Box 14155-6395, 129 Patrice Lumumba St, Jalal-al-Ahmad Expressway, Tehran 14454, Iran; all offices worldwide [IRAN].

23. BANK MARKAZI JOMHOURI ISLAMI IRAN (a.k.a. BANK MARKAZI IRAN; a.k.a. CENTRAL BANK OF IRAN; a.k.a. CENTRAL BANK OF THE ISLAMIC REPUBLIC OF IRAN), PO Box 15875/7177, 144 Mirdamad Blvd., Tehran, Iran; 213 Ferdowsi Avenue, Tehran 11365, Iran; Additional Sanctions Information—Subject to Secondary Sanctions [IRAN].

24. BANK MASKAN (a.k.a. HOUSING BANK (OF IRAN)), PO Box 11365/5699, No 247 3rd Floor Fedowsi Ave, Cross Sarhang Sakhaei St, Tehran, Iran; all offices worldwide [IRAN].

25. BANK REFAH KARGARAN (a.k.a. BANK REFAH; a.k.a. WORKERS' WELFARE BANK (OF IRAN)), No. 40 North Shiraz Street, Mollasadra Ave, Vanak Sq, Tehran 19917, Iran; all offices worldwide [IRAN].

26. BANK-E SHAHR, Sepahod Gharani, Corner of Khosro St., No. 147, Tehran, Iran [IRAN].

27. BAZARGAN, Farzad; DOB 03 Jun 1956; Additional Sanctions Information—Subject to Secondary Sanctions; Passport D14855558 (Iran); alt. Passport Y21130717 (Iran); Managing Director, Hong Kong Intertrade Company (individual) [IRAN].

28. BEHSAZ KASHANE TEHRAN CONSTRUCTION CO. (a.k.a. BEHSAZ KASHANEH CO.), No. 40, East Street Journal, North Shiraz Street, Sadra Avenue, Tehran, Iran; website http://www.behsazco.ir; Additional Sanctions Information—Subject to Secondary Sanctions [IRAN].

29. BICAS (f.k.a. GLAROS) Crude Oil Tanker Liberia flag; Additional Sanctions Information—Subject to Secondary Sanctions; Vessel Registration Identification IMO 9077850 (vessel) [IRAN].

30. BIMEH IRAN INSURANCE COMPANY (U.K.) LIMITED (a.k.a. BIUK), 4/5 Fenchurch Buildings, London EC3M 5HN, United Kingdom; Additional Sanctions Information—Subject to Secondary Sanctions; UK Company Number 01223433 (United Kingdom); all offices worldwide [IRAN].

31. BLUE TANKER SHIPPING SA, Care of Sambouk Shipping FCZ, Office 101, 1st Floor, FITCO Building No 3, Inside Fujairah Port, PO Box 50044, Fujairah, United Arab Emirates; Majuro MH, Marshall Islands; Liberia; Additional Sanctions Information—Subject to Secondary Sanctions [IRAN].

32. BOU ALI SINA PETROCHEMICAL COMPANY (a.k.a. BUALI SINA PETROCHEMICAL COMPANY), No. 17, 1st Floor, Daman Afshar St., Vanak Sq., Vali-e-Asr Ave, Tehran 19697, Iran; Petrochemical Special Economic Zone (PETZONE), Iran; Additional Sanctions Information—Subject to Secondary Sanctions [IRAN].

33. BREYELLER STAHL TECHNOLOGY GMBH & CO. KG (a.k.a. BREYELLER STAHL TECHNOLOGY GMBH AND CO. KG; f.k.a. ROETZEL-STAHL GMBH & CO. KG; f.k.a. ROETZEL-STAHL GMBH AND CO. KG), Josefstrasse 82, Nettetal 41334, Germany; Additional Sanctions Information—Subject to Secondary Sanctions; Registration ID HRA 4528 (Germany); all offices worldwide [IRAN].

34. BRIGHT (f.k.a. ZAP) Crude Oil Tanker Mongolia flag; Former Vessel Flag Liberia; Additional Sanctions Information—Subject to Secondary Sanctions; Vessel Registration Identification IMO 9005235 (vessel) [IRAN].

35. CAMBIS, Dimitris (a.k.a. KAMPIS, Dimitrios Alexandros; a.k.a. “KLIMT, Gustav”); DOB 14 Oct 1963; Additional Sanctions Information—Subject to Secondary Sanctions (individual) [IRAN].

36. CARIBO (f.k.a. NEREYDA) Crude Oil Tanker Panama flag; Additional Sanctions Information—Subject to Secondary Sanctions; Vessel Registration Identification IMO 9011246 (vessel) [IRAN].

37. CASPIAN MARITIME LIMITED, Fortuna Court, Block B, 284 Archbishop Makarios II Avenue, Limassol 3105, Cyprus; Additional Sanctions Information—Subject to Secondary Sanctions; Telephone (357)(25800000); Fax (357)(25588055) [IRAN] (Linked To: NATIONAL IRANIAN TANKER COMPANY).

38. COMMERCIAL PARS OIL CO., 9th Floor, No. 346, Mirdamad Avenue, Tehran, Iran; Additional Sanctions Information—Subject to Secondary Sanctions [IRAN].

39. HILDA I (f.k.a. COURAGE; f.k.a. HOMA) (5IM 596) Crude Oil Tanker 317,367DWT 163,660GRT Panama flag; Former Vessel Flag Cyprus; alt. Former Vessel Flag Tanzania; Additional Sanctions Information—Subject to Secondary Sanctions; Vessel Registration Identification IMO 9357389; MMSI 677049600 (vessel) [IRAN] (Linked To: NATIONAL IRANIAN TANKER COMPANY).

40. CREDIT INSTITUTION FOR DEVELOPMENT, 53 Saanee, Jahan-e Koodak, Crossroads Africa St., Tehran, Iran [IRAN].

41. CYLINDER SYSTEM L.T.D. (a.k.a. CILINDER SISTEM D.O.O.; a.k.a. CILINDER SISTEM D.O.O. ZA PROIZVODNJU I USLUGE), Dr. Mile Budaka 1, Slavonski Brod 35000, Croatia; 1 Mile Budaka, Slavonski Brod 35000, Croatia; website http://www.csc-sb.hr; Additional Sanctions Information—Subject to Secondary Sanctions; Registration ID 050038884 (Croatia); Tax ID No. 27694384517 (Croatia) [IRAN].

42. DORE (f.k.a. COMPANION; f.k.a. DAL LAKE; f.k.a. DAVAR) (5IM 593) Crude Oil Tanker 317,850DWT 164,241GRT Panama flag; Former Vessel Flag Cyprus; alt. Former Vessel Flag Tanzania; Additional Sanctions Information—Subject to Secondary Sanctions; Vessel Registration Identification IMO 9357717; MMSI 677049300 (vessel) [IRAN] (Linked To: NATIONAL IRANIAN TANKER COMPANY).

43. DIAMOND II (f.k.a. DAMAVAND) (9HEG9) Crude Oil Tanker 297,013DWT 160,576GRT Panama flag; Former Vessel Flag Malta; Additional Sanctions Information—Subject to Secondary Sanctions; Vessel Registration Identification IMO 9218478; MMSI 256865000 (vessel) [IRAN] (Linked To: NATIONAL IRANIAN TANKER COMPANY).

44. DANESH SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

45. DEEP SEA (f.k.a. DARAB) (9HEE9) Crude Oil Tanker 296,803DWT 160,576GRT Panama flag; Former Vessel Flag Malta; Additional Sanctions Information—Subject to Secondary Sanctions; Vessel Registration Identification IMO 9218492; MMSI 256862000 (vessel) [IRAN] (Linked To: NATIONAL IRANIAN TANKER COMPANY).

46. DAVAR SHIPPING CO LTD, Diagoras House, 7th Floor, 16 Panteli Katelari Street, Nicosia 1097, Cyprus; Additional Sanctions Information—Subject to Secondary Sanctions; Telephone (357)(22660766); Fax (357)(22678777) [IRAN] (Linked To: NATIONAL IRANIAN TANKER COMPANY).

47. DOVER (f.k.a. DAYLAM) (9HEU9) Crude Oil Tanker 299,500DWT 160,576GRT Panama flag; Former Vessel Flag Malta; Additional Sanctions Information—Subject to Secondary Sanctions; Vessel Registration Identification IMO 9218466; MMSI 256872000 (vessel) [IRAN] (Linked To: NATIONAL IRANIAN TANKER COMPANY).

48. DREAM II (f.k.a. DANESH; f.k.a. DECESIVE; f.k.a. LEADERSHIP) (5IM 592) Crude Oil Tanker 319,988DWT 164,241GRT Panama flag; Former Vessel Flag Cyprus; alt. Former Vessel Flag Tanzania; Additional Sanctions Information—Subject to Secondary Sanctions; Vessel Registration Identification IMO 9356593; MMSI 677049200 (vessel) [IRAN] (Linked To: NATIONAL IRANIAN TANKER COMPANY).

49. DEVON (f.k.a. DELVAR) (9HEF9) Crude Oil Tanker 299,500DWT 160,576GRT None Identified flag; Former Vessel Flag Malta; Additional Sanctions Information—Subject to Secondary Sanctions; Vessel Registration Identification IMO 9218454; MMSI 256864000 (vessel) [IRAN] (Linked To: NATIONAL IRANIAN TANKER COMPANY).

50. DANIEL (f.k.a. DEMOS) (5IM656) Crude Oil Tanker Panama flag (NITC); Former Vessel Flag Tanzania; Additional Sanctions Information—Subject to Secondary Sanctions; Vessel Registration Identification IMO 9569683 (vessel) [IRAN] (Linked To: NATIONAL IRANIAN TANKER COMPANY).

51. DOWNY (f.k.a. DENA) (9HED9) Crude Oil Tanker 296,894DWT 160,576GRT Panama flag; Former Vessel Flag Malta; Additional Sanctions Information—Subject to Secondary Sanctions; Vessel Registration Identification IMO 9218480; MMSI 256861000 (vessel) [IRAN] (Linked To: NATIONAL IRANIAN TANKER COMPANY).

52. DENA TANKERS FZE, Free Zone, P.O. Box 5232, Fujairah, United Arab Emirates; Additional Sanctions Information—Subject to Secondary Sanctions [IRAN] (Linked To: NATIONAL IRANIAN TANKER COMPANY).

53. DESTINY (f.k.a. ULYSSES 1) Crude Oil Tanker Panama flag; Former Vessel Flag Liberia; alt. Former Vessel Flag Mongolia; Additional Sanctions Information—Subject to Secondary Sanctions; Vessel Registration Identification IMO 9177155 (vessel) [IRAN].

54. SNOW (f.k.a. DOJRAN; f.k.a. RAINBOW; f.k.a. SOUVENIR; a.k.a. YARD NO. 1221 SHANGHAI WAIGAOQIAO) Crude Oil Tanker 318,000DWT 165,000GRT Panama flag; Former Vessel Flag Malta; alt. Former Vessel Flag Tuvalu; alt. Former Vessel Flag Tanzania; Additional Sanctions Information—Subject to Secondary Sanctions; Vessel Registration Identification IMO 9569619 (vessel) [IRAN] (Linked To: NATIONAL IRANIAN TANKER COMPANY).

55. HORSE (f.k.a. DOVE; f.k.a. HONAR; f.k.a. JANUS; f.k.a. VICTORY) (T2EA4) Crude Oil Tanker 317,367DWT 163,660GRT Panama flag; Former Vessel Flag Cyprus; alt. Former Vessel Flag Tuvalu; alt. Former Vessel Flag Tanzania; Additional Sanctions Information—Subject to Secondary Sanctions; Vessel Registration Identification IMO 9362061; MMSI 209511000 (vessel) [IRAN] (Linked To: NATIONAL IRANIAN TANKER COMPANY).

56. EGHTESAD NOVIN BANK (a.k.a. BANK-E EGHTESAD NOVIN; a.k.a. EN BANK PJSC), Vali Asr Street, Above Vanak Circle, across Niayesh, Esfandiari Blvd., No. 24, Tehran, Iran; SWIFT/BIC BEGNIRTH [IRAN].

57. EXECUTION OF IMAM KHOMEINI'S ORDER (a.k.a. EIKO; a.k.a. SETAD; a.k.a. SETAD EJRAEI EMAM; a.k.a. SETAD-E EJRAEI-E FARMAN-E HAZRAT-E EMAM; a.k.a. SETAD-E FARMAN-EJRAEI-YE EMAM), Khaled Stamboli St., Tehran, Iran; Additional Sanctions Information—Subject to Secondary Sanctions [IRAN].

58. FOREST (f.k.a. FAEZ; f.k.a. FIANGA; f.k.a. MAESTRO; f.k.a. SATEEN) (T2DM4) Chemical/Products Tanker 35,124DWT 25,214GRT Panama flag; Former Vessel Flag Malta; alt. Former Vessel Flag Tuvalu; alt. Former Vessel Flag Tanzania; Additional Sanctions Information—Subject to Secondary Sanctions; Vessel Registration Identification IMO 9283760; MMSI 572438210 (vessel) [IRAN] (Linked To: NATIONAL IRANIAN TANKER COMPANY).

59. STREAM (f.k.a. FORTUN; f.k.a. SONATA; a.k.a. YARD NO. 1222 SHANGHAI WAIGAOQIAO) Crude Oil Tanker 318,000DWT 165,000GRT Panama flag; Former Vessel Flag Malta; Additional Sanctions Information—Subject to Secondary Sanctions; Vessel Registration Identification IMO 9569633 (vessel) [IRAN] (Linked To: NATIONAL IRANIAN TANKER COMPANY).

60. GARBIN NAVIGATION LTD, Care of Sambouk Shipping FCZ, Office 101, 1st Floor, FITCO Building No 3, Inside Fujairah Port, PO Box 50044, Fujairah, United Arab Emirates; 80 Broad Street, Monrovia, Liberia; Additional Sanctions Information—Subject to Secondary Sanctions [IRAN].

61. GHADIR INVESTMENT COMPANY, 341 West Mirdamad Boulevard, Tehran, Iran; P.O. Box 19696, Tehran, Iran; website http://www.ghadir-invest.com; Additional Sanctions Information—Subject to Secondary Sanctions [IRAN].

62. GHAED BASSIR PETROCHEMICAL PRODUCTS COMPANY (a.k.a. GHAED BASSIR), No. 15, Palizvani (7th) Street, Gandhi (South) Avenue, Tehran 1517655711, Iran; Km 10 of Khomayen Road, Golpayegan, Iran; website http://www.gbpc.net; Additional Sanctions Information—Subject to Secondary Sanctions [IRAN].

63. GHALEBANI, Ahmad (a.k.a. GHALEHBANI, Ahmad; a.k.a. QALEHBANI, Ahmad); DOB 01 Jan 1953 to 31 Dec 1954; Additional Sanctions Information—Subject to Secondary Sanctions; Passport H20676140 (Iran); Managing Director, National Iranian Oil Company; Director, Hong Kong Intertrade Company; Director, Petro Suisse Intertrade Company (individual) [IRAN].

64. GHARZOLHASANEH RESALAT BANK, Beside the No. 1 Baghestan Alley, Saadat Abad Ave., Kaj Sq., Tehran, Iran; All offices worldwide [IRAN].

65. GOLDEN RESOURCES TRADING COMPANY L.L.C. (a.k.a. “GRTC”), 9th Floor, Office No. 905, Khalid Al Attar Tower 1, Sheikh Zayed Road, After Crown Plaza Hotel, Al Wasl Area, Dubai, United Arab Emirates; Postal Box 34489, Dubai, United Arab Emirates; Postal Box 14358, Dubai, United Arab Emirates; Additional Sanctions Information—Subject to Secondary Sanctions [IRAN].

66. GRACE BAY SHIPPING INC, Care of Sambouk Shipping FCZ, 1st Floor, FITCO Building No 3, Inside Fujairah Port, PO Box 50044, Fujairah, United Arab Emirates; Trust Company Complex, Ajeltake Road, Ajeltake Island, Majuro MH96960, Marshall Islands; Additional Sanctions Information—Subject to Secondary Sanctions [IRAN].

67. HADI SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

68. HENNA (f.k.a. HALISTIC; f.k.a. HAMOON; f.k.a. LENA; f.k.a. TAMAR) (T2EQ4) Crude Oil Tanker 299,242DWT 160,930GRT Panama flag; Former Vessel Flag Malta; alt. Former Vessel Flag Tuvalu; alt. Former Vessel Flag Tanzania; Additional Sanctions Information—Subject to Secondary Sanctions; Vessel Registration Identification IMO 9212929; MMSI 572465210 (vessel) [IRAN] (Linked To: NATIONAL IRANIAN TANKER COMPANY).

69. HAPPINESS I (f.k.a. HAPPINESS; f.k.a. HENGAM; f.k.a. LOYAL; f.k.a. TULAR) (T2ER4) Crude Oil Tanker 299,214DWT 160,930GRT Panama flag; Former Vessel Flag Malta; alt. Former Vessel Flag Tuvalu; alt. Former Vessel Flag Tanzania; Additional Sanctions Information—Subject to Secondary Sanctions; Vessel Registration Identification IMO 9212905; MMSI 256875000 (vessel) [IRAN] (Linked To: NATIONAL IRANIAN TANKER COMPANY).

70. HARAZ SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

71. HATEF SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

72. HEKMAT IRANIAN BANK (a.k.a. BANK-E HEKMAT IRANIAN), Argentine Circle, beginning of Africa St., Corner of 37th St., (Dara Cul-de-sac), No. 26, Tehran, Iran [IRAN].

73. HERCULES INTERNATIONAL SHIP, Care of Sambouk Shipping FCZ, Office 101, 1st Floor, FITCO Building No 3, Inside Fujairah Port, PO Box 50044, Fujairah, United Arab Emirates; 80 Broad Street, Monrovia, Liberia; Additional Sanctions Information—Subject to Secondary Sanctions [IRAN].

74. HERMIS SHIPPING SA, Care of Sambouk Shipping FCZ, Office 101, 1st Floor, FITCO Building No 3, Inside Fujairah Port, PO Box 50044, Fujairah, United Arab Emirates; Panama City, Panama; Monrovia, Liberia; Additional Sanctions Information—Subject to Secondary Sanctions [IRAN].

75. HIRMAND SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

76. HODA SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

77. HOMA SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

78. HONAR SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

79. HELM (f.k.a. HIRMAND; f.k.a. HONESTY; f.k.a. MILLIONAIRE) (T2DZ4) Crude Oil Tanker 317,356DWT 163,660GRT Panama flag; Former Vessel Flag Cyprus; alt. Former Vessel Flag Tuvalu; alt. Former Vessel Flag Tanzania; Additional Sanctions Information—Subject to Secondary Sanctions; Vessel Registration Identification IMO 9357391; MMSI 572450210 (vessel) [IRAN] (Linked To: NATIONAL IRANIAN TANKER COMPANY).

80. HONG KONG INTERTRADE COMPANY, Hong Kong; Additional Sanctions Information—Subject to Secondary Sanctions [IRAN].

81. HALTI (f.k.a. HORIZON; f.k.a. HORMOZ; f.k.a. SCORPIAN) (9HEK9) Crude Oil Tanker 299,261DWT 160,930GRT Panama flag; Former Vessel Flag Tuvalu; alt. Former Vessel Flag Tanzania; Additional Sanctions Information—Subject to Secondary Sanctions; Vessel Registration Identification IMO 9212890; MMSI 256870000 (vessel) [IRAN] (Linked To: NATIONAL IRANIAN TANKER COMPANY).

82. HORMOZ OIL REFINING COMPANY, Next to the Current Bandar Abbas Refinery, Bandar Abbas City, Iran; Additional Sanctions Information—Subject to Secondary Sanctions [IRAN].

83. HUMANITY (f.k.a. OCEAN NYMPH) Crude Oil Tanker Panama flag; Former Vessel Flag Panama; alt. Former Vessel Flag Mongolia; Additional Sanctions Information—Subject to Secondary Sanctions; Vessel Registration Identification IMO 9180281 (vessel) [IRAN].

84. HEDY (f.k.a. HUWAYZEH) (9HEJ9) Crude Oil Tanker 299,242DWT 160,930GRT Panama flag; Former Vessel Flag Malta; Additional Sanctions Information—Subject to Secondary Sanctions; Vessel Registration Identification IMO 9212888; MMSI 256869000 (vessel) [IRAN] (Linked To: NATIONAL IRANIAN TANKER COMPANY).

85. HERBY (f.k.a. EXPLORER; f.k.a. HODA; f.k.a. HYDRA; f.k.a. PRECIOUS) (T2EH4) Crude Oil Tanker 317,356DWT 163,660GRT Panama flag; Former Vessel Flag Cyprus; alt. Former Vessel Flag Tuvalu; alt. Former Vessel Flag Tanzania; Additional Sanctions Information—Subject to Secondary Sanctions; Vessel Registration Identification IMO 9362059; MMSI 572458210 (vessel) [IRAN] (Linked To: NATIONAL IRANIAN TANKER COMPANY).

86. IFIC HOLDING AG (a.k.a. IHAG), Koenigsallee 60 D, Dusseldorf 40212, Germany; Additional Sanctions Information—Subject to Secondary Sanctions; Registration ID HRB 48032 (Germany); all offices worldwide [IRAN].

87. IHAG TRADING GMBH, Koenigsallee 60 D, Dusseldorf 40212, Germany; Additional Sanctions Information—Subject to Secondary Sanctions; Registration ID HRB 37918 (Germany); all offices worldwide [IRAN].

88. IMICO NEKA 455 (a.k.a. YARD NO. 455 IRAN MARINE) Shuttle Tanker 63,000DWT 40,800GRT Iran flag; Additional Sanctions Information—Subject to Secondary Sanctions; Vessel Registration Identification IMO 9404546 (vessel) [IRAN] (Linked To: NATIONAL IRANIAN TANKER COMPANY).

89. IMICO NEKA 456 (a.k.a. YARD NO. 456 IRAN MARINE) Shuttle Tanker 63,000DWT 40,800GRT Iran flag; Additional Sanctions Information—Subject to Secondary Sanctions; Vessel Registration Identification IMO 9404558 (vessel) [IRAN] (Linked To: NATIONAL IRANIAN TANKER COMPANY).

90. IMICO NEKA 457 (a.k.a. YARD NO. 457 IRAN MARINE) Shuttle Tanker 63,000DWT 40,800GRT Iran flag; Additional Sanctions Information—Subject to Secondary Sanctions; Vessel Registration Identification IMO 9404560 (vessel) [IRAN] (Linked To: NATIONAL IRANIAN TANKER COMPANY).

91. IMPIRE SHIPPING COMPANY (a.k.a. IMPIRE SHIPPING; a.k.a. IMPIRE SHIPPING LIMITED), Greece; Additional Sanctions Information—Subject to Secondary Sanctions [IRAN].

92. INDUSTRIAL DEVELOPMENT AND RENOVATION ORGANIZATION OF IRAN (a.k.a. IDRO; a.k.a. IRAN DEVELOPMENT & RENOVATION ORGANIZATION COMPANY; a.k.a. IRAN DEVELOPMENT AND RENOVATION ORGANIZATION COMPANY; a.k.a. SAWZEMANE GOSTARESH VA NOWSAZI SANAYE IRAN), Vali Asr Building, Jam e Jam Street, Vali Asr Avenue, Tehran 15815-3377, Iran; Additional Sanctions Information—Subject to Secondary Sanctions; all offices worldwide [IRAN].

93. DINO I (f.k.a. INFINITY) (5IM411) Crude Oil Tanker Panama flag (NITC); Former Vessel Flag Tanzania; Additional Sanctions Information—Subject to Secondary Sanctions; Vessel Registration Identification IMO 9569671 (vessel) [IRAN] (Linked To: NATIONAL IRANIAN TANKER COMPANY).

94. INTRA CHEM TRADING GMBH (a.k.a. INTRA-CHEM TRADING CO. (GMBH)), Schottweg 3, Hamburg 22087, Germany; Additional Sanctions Information—Subject to Secondary Sanctions; Registration ID HRB48416 (Germany); all offices worldwide [IRAN].

95. IRAN & SHARGH COMPANY (a.k.a. IRAN AND EAST COMPANY; a.k.a. IRAN AND SHARGH COMPANY; a.k.a. IRANOSHARGH COMPANY; a.k.a. SHERKAT-E IRAN VA SHARGH), 827, North of Seyedkhandan Bridge, Shariati Street, P.O. Box 13185-1445, Tehran 16616, Iran; No. 41, Next to 23rd Alley, South Gandi St., Vanak Square, Tehran 15179, Iran; website http://www.iranoshargh.com; Additional Sanctions Information—Subject to Secondary Sanctions [IRAN].

96. IRAN & SHARGH LEASING COMPANY (a.k.a. IRAN AND EAST LEASING COMPANY; a.k.a. IRAN AND SHARGH LEASING COMPANY; a.k.a. SHERKAT-E LIZING-E IRAN VA SHARGH), 1st Floor, No. 33, Shahid Atefi Alley, Opposite Mellat Park, Vali-e-Asr Street, Tehran 1967933759, Iran; website http://www.isleasingco.com; Additional Sanctions Information—Subject to Secondary Sanctions [IRAN].

97. IRAN FAHIM Chemical/Products Tanker 34,900DWT 26,561GRT Iran flag; Additional Sanctions Information—Subject to Secondary Sanctions; Vessel Registration Identification IMO 9286140 (vessel) [IRAN] (Linked To: NATIONAL IRANIAN TANKER COMPANY).

98. IRAN FALAGH Chemical/Products Tanker 34,900DWT 25,000GRT Iran flag; Additional Sanctions Information—Subject to Secondary Sanctions; Vessel Registration Identification IMO 9286152 (vessel) [IRAN] (Linked To: NATIONAL IRANIAN TANKER COMPANY).

99. FORTUNE (f.k.a. IRAN FAZEL) (9BAC) Chemical/Products Tanker 35,155DWT 25,214GRT Panama flag; Former Vessel Flag Iran; Additional Sanctions Information—Subject to Secondary Sanctions; Vessel Registration Identification IMO 9283746; MMSI 422303000 (vessel) [IRAN] (Linked To: NATIONAL IRANIAN TANKER COMPANY).

100. IRAN FOREIGN INVESTMENT COMPANY (a.k.a. IFIC), No. 4, Saba Blvd., Africa Blvd., Tehran 19177, Iran; P.O. Box 19395-6947, Tehran, Iran; Additional Sanctions Information—Subject to Secondary Sanctions; all offices worldwide [IRAN].

101. IRAN INSURANCE COMPANY (a.k.a. BIMEH IRAN), 107 Dr Fatemi Avenue, Tehran 14155/6363, Iran; Abdolaziz-Al-Masaeed Building, Sheikh Maktoom St., Deira, P.O. Box 2004, Dubai, United Arab Emirates; P.O. Box 1867, Al Ain, Abu Dhabi, United Arab Emirates; P.O. Box 3281, Abu Dhabi, United Arab Emirates; P.O. Box 1666, Sharjah, United Arab Emirates; P.O. Box 849, Ras-Al-Khaimah, United Arab Emirates; P.O. Box 417, Muscat 113, Oman; P.O. Box 676, Salalah 211, Oman; P.O. Box 995, Manama, Bahrain; Al-Lami Center, Ali-Bin-Abi Taleb St. Sharafia, P.O. Box 11210, Jeddah 21453, Saudi Arabia; Al Alia Center, Salaheddine Rd., Al Malaz, P.O. Box 21944, Riyadh 11485, Saudi Arabia; Al Rajhi Bldg., 3rd Floor, Suite 23, Dhahran St., P.O. Box 1305, Dammam 31431, Saudi Arabia; Additional Sanctions Information—Subject to Secondary Sanctions; all offices worldwide [IRAN].

102. IRAN PETROCHEMICAL COMMERCIAL COMPANY (a.k.a. PETROCHEMICAL COMMERCIAL COMPANY; a.k.a. SHERKATE BASARGANI PETROCHEMIE (SAHAMI KHASS); a.k.a. SHERKATE BAZARGANI PETRCHEMIE; a.k.a. “IPCC”; a.k.a. “PCC”), No. 1339, Vali Nejad Alley, Vali-e-Asr St., Vanak Sq., Tehran, Iran; INONU CAD. SUMER Sok., Zitas Bloklari C.2 Bloc D.H, Kozyatagi, Kadikoy, Istanbul, Turkey; Topcu Ibrahim Sokak No: 13 D: 7 Icerenkoy-Kadikoy, Istanbul, Turkey; 99-A, Maker Tower F, 9th Floor, Cuffe Parade, Colabe, Mumbai 400 005, India; No. 1014, Doosan We've Pavilion, 58, Soosong-Dong, Jongno-Gu, Seoul, Korea, South; Office No. 707, No. 10, Chao Waidajie, Chao Tang District, Beijing 100020, China; Additional Sanctions Information—Subject to Secondary Sanctions; all offices worldwide [IRAN].

103. IRAN ZAMIN BANK (a.k.a. BANK-E IRAN ZAMIN), Seyyed Jamal-oldin Asadabadi St., Corner of 68th St., No. 472, Tehran, Iran [IRAN].

104. IRANIAN MINES AND MINING INDUSTRIES DEVELOPMENT AND RENOVATION ORGANIZATION (a.k.a. IMIDRO; a.k.a. IRAN MINING INDUSTRIES DEVELOPMENT AND RENOVATION ORGANIZATION; a.k.a. IRANIAN MINES AND MINERAL INDUSTRIES DEVELOPMENT AND RENOVATION), No. 39, Sepahbod Gharani Avenue, Ferdousi Square, Tehran, Iran; Additional Sanctions Information—Subject to Secondary Sanctions; all offices worldwide [IRAN].

105. IRANIAN OIL COMPANY (U.K.) LIMITED (a.k.a. IOC UK LTD), Riverside House, Riverside Drive, Aberdeen AB11 7LH, United Kingdom; Additional Sanctions Information—Subject to Secondary Sanctions; UK Company Number 01019769 (United Kingdom); all offices worldwide [IRAN].

106. IRASCO S.R.L. (a.k.a. IRASCO ITALY), Via Di Francia 3, Genoa 16149, Italy; Additional Sanctions Information—Subject to Secondary Sanctions; Registration ID GE 348075 (Italy); all offices worldwide [IRAN].

107. ISLAMIC REGIONAL COOPERATION BANK (a.k.a. BANK-E TAAWON MANTAGHEEY-E ESLAMI; a.k.a. REGIONAL COOPERATION OF THE ISLAMIC BANK FOR DEVELOPMENT & INVESTMENT), Building No. 59, District 929, Street No. 17, Arsat Al-Hindia, Al Masbah, Baghdad, Iraq; Tohid Street, Before Tohid Circle, No. 33, Upper Level of Eghtesad-e Novin Bank, Tehran 1419913464, Iran; SWIFT/BIC RCDFIQBA [IRAN].

108. JASHNSAZ, Seifollah (a.k.a. JASHN SAZ, Seifollah; a.k.a. JASHNSAZ, Seyfollah); DOB 22 Mar 1958; POB Behbahan, Iran; nationality Iran; Additional Sanctions Information—Subject to Secondary Sanctions; Passport R17589399 (Iran); alt. Passport T23700825 (Iran); Chairman & Director, Naftiran Intertrade Co. (NICO) Sarl; Chairman & Director, Naft Iran Intertrade Company Ltd.; Director, Hong Kong Intertrade Company; Chairman of the Board of Directors, Iranian Oil Company (U.K.) Limited; Chairman & Director, Petro Suisse Intertrade Company (individual) [IRAN].

109. JUPITER SEAWAYS SHIPPING, Care of Sambouk Shipping FCZ, Office 101, 1st Floor, FITCO Building No 3, Inside Fujairah Port, PO Box 50044, Fujairah, United Arab Emirates; 80 Broad Street, Monrovia, Liberia; Additional Sanctions Information—Subject to Secondary Sanctions [IRAN].

110. DAN (f.k.a. JUSTICE) Crude Oil Tanker Panama flag; Additional Sanctions Information—Subject to Secondary Sanctions; Vessel Registration Identification IMO 9357729 (vessel) [IRAN] (Linked To: NATIONAL IRANIAN TANKER COMPANY).

111. KAFOLATBANK (a.k.a. CJSC KAFOLATBANK), Apartment 4/1, Academics Rajabovs Street, Dushanbe, Tajikistan; SWIFT/BIC KACJTJ22; All offices worldwide [IRAN].

112. KALA LIMITED (a.k.a. KALA NAFT LONDON LTD), NIOC House, 4 Victoria Street, Westminster, London SW1H 0NE, United Kingdom; Additional Sanctions Information—Subject to Secondary Sanctions; UK Company Number 01517853 (United Kingdom); all offices worldwide [IRAN].

113. KALA PENSION TRUST LIMITED, C/O Kala Limited, N.I.O.C. House, 4 Victoria Street, London SW1H 0NE, United Kingdom; Additional Sanctions Information—Subject to Secondary Sanctions; UK Company Number 01573317 (United Kingdom); all offices worldwide [IRAN].

114. KARAFARIN BANK (a.k.a. BANK-E KARAFARIN), Zafar St. No. 315, Between Vali Asr and Jordan, Tehran, Iran; SWIFT/BIC KBIDIRTH [IRAN].

115. KASB INTERNATIONAL LLC (a.k.a. FIRST FURAT TRADING LLC), 10th Floor, Citi Bank Building, Oud Metha Road, Oud Metha, Dubai, United Arab Emirates; Additional Sanctions Information—Subject to Secondary Sanctions; Telephone Number: (971) (4) (3248000) [IRAN].

116. KHAVARMIANEH BANK (a.k.a. MIDDLE EAST BANK), No. 22, Second Floor Sabounchi St., Shahid Beheshti Ave., Tehran, Iran; SWIFT/BIC KHMIIRTH; All offices worldwide [IRAN].

117. KISH INTERNATIONAL BANK (a.k.a. KISH INTERNATIONAL BANK OFFSHORE COMPANY PJS), NBO-9, Andisheh Blvd., Sanayi Street, Kish Island, Iran; All offices worldwide [IRAN].

118. KONING MARINE CORP, Care of Sambouk Shipping FCZ, Office 101, 1st Floor, FITCO Building No 3, Inside Fujairah Port, PO Box 50044, Fujairah, United Arab Emirates; 80 Broad Street, Monrovia, Liberia; Additional Sanctions Information—Subject to Secondary Sanctions [IRAN].

119. MACHINE SAZI ARAK CO. LTD. (a.k.a. MACHINE SAZI ARAK COMPANY P J S C; a.k.a. MACHINE SAZI ARAK SSA; a.k.a. MASHIN SAZI ARAK; a.k.a. “MSA”), P.O. Box 148, Arak 351138, Iran; Arak, Km 4 Tehran Road, Arak, Markazi Province, Iran; No. 1, Northern Kargar Street, Tehran 14136, Iran; Additional Sanctions Information—Subject to Secondary Sanctions; all offices worldwide [IRAN].

120. MAHAB GHODSS CONSULTING ENGINEERING COMPANY (a.k.a. MAHAB GHODSS CONSULTING ENGINEERING CO.; a.k.a. MAHAB GHODSS CONSULTING ENGINEERS SSK; a.k.a. MAHAB QODS ENGINEERING CONSULTING CO.), No. 17, Dastgerdy Avenue, Takharestan Alley, 19395-6875, Tehran 1918781185, Iran; 16 Takharestan Alley, Dastgerdy Avenue, P.O. Box 19395-6875, Tehran 19187 81185, Iran; Additional Sanctions Information—Subject to Secondary Sanctions; Registration ID 48962 (Iran) issued 1983; all offices worldwide [IRAN].

121. BELEMA LIGHT CRUDE (f.k.a. MAHARLIKA; f.k.a. NOOR) (9HES9) Crude Oil Tanker 298,732DWT 156,809GRT Panama flag; Former Vessel Flag Malta; alt. Former Vessel Flag Tuvalu; alt. Former Vessel Flag Tanzania; Additional Sanctions Information—Subject to Secondary Sanctions; Vessel Registration Identification IMO 9079066; MMSI 256882000 (vessel) [IRAN] (Linked To: NATIONAL IRANIAN TANKER COMPANY).

122. HUGE (f.k.a. GLORY; f.k.a. HATEF; f.k.a. MAJESTIC) (T2EG4) Crude Oil Tanker 317,367DWT 163,660GRT Panama flag; Former Vessel Flag Cyprus; alt. Former Vessel Flag Tuvalu; alt. Former Vessel Flag Tanzania; Additional Sanctions Information—Subject to Secondary Sanctions; Vessel Registration Identification IMO 9357183; MMSI 212256000 (vessel) [IRAN] (Linked To: NATIONAL IRANIAN TANKER COMPANY).

123. HASNA (f.k.a. HARSIN; f.k.a. MARINA; f.k.a. VALOR) (5IM600) Crude Oil Tanker 299,229DWT 160,930GRT Panama flag; Former Vessel Flag Malta; alt. Former Vessel Flag Tanzania; Additional Sanctions Information—Subject to Secondary Sanctions; Vessel Registration Identification IMO 9212917; MMSI 677050000 (vessel) [IRAN] (Linked To: NATIONAL IRANIAN TANKER COMPANY).

124. MARIVAN (EQKH) Bunkering Tanker 640DWT 478GRT Iran flag; Additional Sanctions Information—Subject to Secondary Sanctions; Vessel Registration Identification IMO 8517243; MMSI 422143000 (vessel) [IRAN] (Linked To: NATIONAL IRANIAN TANKER COMPANY).

125. MARJAN PETROCHEMICAL COMPANY (a.k.a. MARJAN METHANOL COMPANY), Ground Floor, No. 39, Meftah/Garmsar West Alley, Shiraz (South) Street, Molla Sadra Avenue, Tehran, Iran; Post Office Box 19935-561, Tehran, Iran; Additional Sanctions Information—Subject to Secondary Sanctions [IRAN].

126. MCS ENGINEERING (a.k.a. EFFICIENT PROVIDER SERVICES GMBH), Karlstrasse 21, Dinslaken, Nordrhein-Westfalen 46535, Germany; Additional Sanctions Information—Subject to Secondary Sanctions [IRAN].

127. MCS INTERNATIONAL GMBH (a.k.a. MANNESMAN CYLINDER SYSTEMS; a.k.a. MCS TECHNOLOGIES GMBH), Karlstrasse 23-25, Dinslaken, Nordrhein-Westfalen 46535, Germany; website http://www.mcs-tch.com; Additional Sanctions Information—Subject to Secondary Sanctions [IRAN].

128. MEHR IRAN CREDIT UNION BANK (a.k.a. BANK-E GHARZOLHASANEH MEHR IRAN; a.k.a. GHARZOLHASANEH MEHR IRAN BANK), Taleghani St., No.204, Before the intersection of Mofateh, across from the former U.S. embassy, Tehran, Iran [IRAN].

129. MEHRAN SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

130. MELLAT INSURANCE COMPANY, No. 48, Haghani Street, Vanak Square, Before Jahan-Kodak Cross, Tehran 1517973913, Iran; No. 40, Shahid Haghani Express Way, Vanak Square, Tehran, Iran; No. 9, Niloofar Street, Sharabyani Avenue, Taavon Boulevard, Shahr-e-Ziba, Tehran, Iran; 72 Hillview Court, Woking, Surrey GU22 7QW, United Kingdom; No. 697 Saeeidi Alley, Crossroads College, Enghelab St., Tehran, Iran; website http://www.mellatinsurance.com; Additional Sanctions Information—Subject to Secondary Sanctions [IRAN].

131. MERSAD SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

132. METAL & MINERAL TRADE S.A.R.L. (a.k.a. METAL & MINERAL TRADE (MMT); a.k.a. METAL AND MINERAL TRADE (MMT); a.k.a. METAL AND MINERAL TRADE S.A.R.L.; a.k.a. MMT LUXEMBURG; a.k.a. MMT SARL), 11b, Boulevard Joseph II L-1840, Luxembourg; Additional Sanctions Information—Subject to Secondary Sanctions; Registration ID B 59411 (Luxembourg); all offices worldwide [IRAN].

133. MINAB SHIPPING COMPANY LIMITED (f.k.a. MIGHAT SHIPPING COMPANY LIMITED), Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

134. MINES AND METALS ENGINEERING GMBH (a.k.a. “M.M.E.”), Georg-Glock-Str. 3, Dusseldorf 40474, Germany; Additional Sanctions Information—Subject to Secondary Sanctions; Registration ID HRB 34095 (Germany); all offices worldwide [IRAN].

135. MOBIN PETROCHEMICAL COMPANY, South Pars Special Economic Energy Zone, Postal Box: 75391-418, Assaluyeh, Bushehr, Iran; PO Box, Mashhad, Iran; Additional Sanctions Information—Subject to Secondary Sanctions [IRAN].

136. MODABER (a.k.a. MODABER INVESTMENT COMPANY; a.k.a. TADBIR INDUSTRIAL HOLDING COMPANY); Additional Sanctions Information—Subject to Secondary Sanctions [IRAN].

137. MOHADDES, Seyed Mahmoud; DOB 07 Jun 1957; citizen Iran; Additional Sanctions Information—Subject to Secondary Sanctions; Managing Director, Iranian Oil Company (U.K.) Ltd. (individual) [IRAN].

138. MOINIE, Mohammad; DOB 04 Jan 1956; POB Brojerd, Iran; citizen United Kingdom; Additional Sanctions Information—Subject to Secondary Sanctions; Passport 301762718 (United Kingdom); Commercial Director, Naftiran Intertrade Company Sarl (individual) [IRAN].

139. MONSOON SHIPPING LTD, Care of Sambouk Shipping FCZ, Office 101, 1st Floor, FITCO Building No 3, Inside Fujairah Port, PO Box 50044, Fujairah, United Arab Emirates; Valletta, Malta; Trust Company Complex, Ajeltake Road, Ajeltake Island, Majuro MH96960, Marshall Islands; Additional Sanctions Information—Subject to Secondary Sanctions [IRAN].

140. MSP KALA NAFT CO. TEHRAN (a.k.a. KALA NAFT CO SSK; a.k.a. KALA NAFT COMPANY LTD; a.k.a. KALA NAFT TEHRAN; a.k.a. KALA NAFT TEHRAN COMPANY; a.k.a. KALAYEH NAFT CO; a.k.a. M.S.P.-KALA; a.k.a. MANUFACTURING SUPPORT & PROCUREMENT CO.-KALA NAFT; a.k.a. MANUFACTURING SUPPORT AND PROCUREMENT (M.S.P.) KALA NAFT CO. TEHRAN; a.k.a. MANUFACTURING, SUPPORT AND PROCUREMENT KALA NAFT COMPANY; a.k.a. MSP KALA NAFT TEHRAN COMPANY; a.k.a. MSP KALANAFT; a.k.a. MSP-KALANAFT COMPANY; a.k.a. SHERKAT SAHAMI KHASS KALA NAFT; a.k.a. SHERKAT SAHAMI KHASS POSHTIBANI VA TEHIYEH KALAYE NAFT TEHRAN; a.k.a. SHERKATE POSHTIBANI SAKHT VA TAHEIH KALAIE NAFTE TEHRAN), 242 Sepahbod Gharani Street, Karim Khan Zand Bridge, Corner Kalantari Street, 8th Floor, P.O. Box 15815-1775/15815-3446, Tehran 15988, Iran; Building No. 226, Corner of Shahid Kalantari Street, Sepahbod Gharani Avenue, Karimkhan Avenue, Tehran 1598844815, Iran; No. 242, Shahid Kalantari St., Near Karimkhan Bridge, Sepahbod Gharani Avenue, Tehran, Iran; Head Office Tehran, Sepahbod Gharani Ave., P.O. Box 15815/1775 15815/3446, Tehran, Iran; P.O. Box 2965, Sharjah, United Arab Emirates; 333 7th Ave SW #1102, Calgary, AB T2P 2Z1, Canada; Chekhov St., 24.2, AP 57, Moscow, Russia; Room No. 704—No. 10 Chao Waidajie Chao Yang District, Beijing 10020, China; Sanaee Ave., P.O. Box 79417-76349, N.I.O.C., Kish, Iran; 10th Floor, Sadaf Tower, Kish Island, Iran; Additional Sanctions Information—Subject to Secondary Sanctions; all offices worldwide [IRAN].

141. N.I.T.C. REPRESENTATIVE OFFICE (a.k.a. NATIONAL IRANIAN TANKER COMPANY), Droogdokweg 71, Rotterdam 3089 JN, Netherlands; Email Address nitcrdam@tiscali.net; Additional Sanctions Information—Subject to Secondary Sanctions; Telephone +31 010-4951863; Telephone +31 10-4360037; Fax +31 10-4364096 [IRAN] (Linked To: NATIONAL IRANIAN TANKER COMPANY).

142. NAFTIRAN INTERTRADE CO. (NICO) LIMITED (a.k.a. NAFT IRAN INTERTRADE COMPANY LTD; a.k.a. NAFTIRAN INTERTRADE COMPANY (NICO); a.k.a. NAFTIRAN INTERTRADE COMPANY LTD; a.k.a. NICO), 41, 1st Floor, International House, The Parade, St Helier JE2 3QQ, Jersey; Petro Pars Building, Saadat Abad Ave, No 35, Farhang Blvd., Tehran, Iran; Additional Sanctions Information—Subject to Secondary Sanctions; all offices worldwide [IRAN] (Linked To: NIOC INTERNATIONAL AFFAIRS (LONDON) LIMITED).

143. NAFTIRAN INTERTRADE CO. (NICO) SARL (a.k.a. NICO), 6, Avenue de la Tour-Haldimand, Pully, VD 1009, Switzerland; Additional Sanctions Information—Subject to Secondary Sanctions; all offices worldwide [IRAN].

144. NAFTIRAN TRADING SERVICES CO. (NTS) LIMITED, 47 Queen Anne Street, London W1G 9JG, United Kingdom; 6th Floor NIOC Ho, 4 Victoria St, London SW1H 0NE, United Kingdom; Additional Sanctions Information—Subject to Secondary Sanctions; UK Company Number 02600121 (United Kingdom); all offices worldwide [IRAN].

145. NAINITAL (f.k.a. MIDSEA; f.k.a. MOTION; f.k.a. NAJM) (T2DR4) Crude Oil Tanker 298,731DWT 156,809GRT None Identified flag; Former Vessel Flag Malta; alt. Former Vessel Flag Tuvalu; alt. Former Vessel Flag Tanzania; Additional Sanctions Information—Subject to Secondary Sanctions; Vessel Registration Identification IMO 9079092; MMSI 572442210 (vessel) [IRAN] (Linked To: NATIONAL IRANIAN TANKER COMPANY).

146. NAVARZ (f.k.a. ELITE; f.k.a. NAPOLI; f.k.a. NOAH; f.k.a. VOYAGER) (T2DQ4) Crude Oil Tanker 298,731DWT 156,809GRT Panama flag; Former Vessel Flag Malta; alt. Former Vessel Flag Tuvalu; alt. Former Vessel Flag Tanzania; Additional Sanctions Information—Subject to Secondary Sanctions; Vessel Registration Identification IMO 9079078; MMSI 572441210 (vessel) [IRAN] (Linked To: NATIONAL IRANIAN TANKER COMPANY).

147. NATIONAL IRANIAN OIL COMPANY (a.k.a. NIOC), Hafez Crossing, Taleghani Avenue, P.O. Box 1863 and 2501, Tehran, Iran; National Iranian Oil Company Building, Taleghani Avenue, Hafez Street, Tehran, Iran; website www.nioc.ir; Additional Sanctions Information—Subject to Secondary Sanctions; all offices worldwide [IRAN] [IFCA].

148. NATIONAL IRANIAN OIL COMPANY PTE LTD, 7 Temasek Boulevard #07-02, Suntec Tower One 038987, Singapore; Additional Sanctions Information—Subject to Secondary Sanctions; Registration ID 199004388C (Singapore); all offices worldwide [IRAN].

149. NATIONAL IRANIAN TANKER COMPANY (a.k.a. NITC), NITC Building, 67-88, Shahid Atefi Street, Africa Avenue, Tehran, Iran; website www.nitc.co.ir; Email Address info@nitc.co.ir; alt. Email Address administrator@nitc.co.ir; Additional Sanctions Information—Subject to Secondary Sanctions; Telephone (98)(21)(66153220); Telephone (98)(21)(23803202); Telephone (98)(21)(23803303); Telephone (98)(21)(66153224); Telephone (98)(21)(23802230); Telephone (98)(9121115315); Telephone (98)(9128091642); Telephone (98)(9127389031); Fax (98)(21)(22224537); Fax (98)(21)(23803318); Fax (98)(21)(22013392); Fax (98)(21)(22058763) [IRAN] [IFCA].

150. NATIONAL IRANIAN TANKER COMPANY LLC (a.k.a. NATIONAL IRANIAN TANKER COMPANY LLC SHARJAH BRANCH; a.k.a. NITC SHARJAH), Al Wahda Street, Street No. 4, Sharjah, United Arab Emirates; P.O. Box 3267, Sharjah, United Arab Emirates; website http://nitcsharjah.com/index.html; Additional Sanctions Information—Subject to Secondary Sanctions; Telephone +97165030600; Telephone + 97165749996; Telephone +971506262258; Fax +97165394666; Fax +97165746661 [IRAN] (Linked To: NATIONAL IRANIAN TANKER COMPANY).

151. NATIONAL PETROCHEMICAL COMPANY (a.k.a. “NPC”), No. 104, North Sheikh Bahaei Blvd., Molla Sadra Ave., Tehran, Iran; Additional Sanctions Information—Subject to Secondary Sanctions; all offices worldwide [IRAN].

152. NASHA (f.k.a. NATIVE LAND; f.k.a. NESA; f.k.a. OCEANIC; f.k.a. TRUTH) (T2DP4) Crude Oil Tanker 298,732DWT 156,809GRT Panama flag; Former Vessel Flag Malta; alt. Former Vessel Flag Tuvalu; alt. Former Vessel Flag Tanzania; Additional Sanctions Information—Subject to Secondary Sanctions; Vessel Registration Identification IMO 9079107; MMSI 572440210 (vessel) [IRAN] (Linked To: NATIONAL IRANIAN TANKER COMPANY).

153. NICO ENGINEERING LIMITED, 41, 1st Floor, International House, The Parade, St. Helier JE2 3QQ, Jersey; Additional Sanctions Information—Subject to Secondary Sanctions; Registration ID 75797 (Jersey); all offices worldwide [IRAN].

154. NIKOUSOKHAN, Mahmoud; DOB 01 Jan 1961 to 31 Dec 1962; nationality Iran; Additional Sanctions Information—Subject to Secondary Sanctions; Passport U14624657 (Iran); Finance Director, National Iranian Oil Company; Director, Hong Kong Intertrade Company; Director, Petro Suisse Intertrade Company (individual) [IRAN].

155. NIOC INTERNATIONAL AFFAIRS (LONDON) LIMITED, NIOC House, 4 Victoria Street, London SW1H 0NE, United Kingdom; Additional Sanctions Information—Subject to Secondary Sanctions; UK Company Number 02772297 (United Kingdom); all offices worldwide [IRAN].

156. NOOR ENERGY (MALAYSIA) LTD., Labuan, Malaysia; Additional Sanctions Information—Subject to Secondary Sanctions; Company Number LL08318 [IRAN].

157. NOURI PETROCHEMICAL COMPANY (a.k.a. BORZUYEH PETROCHEMICAL COMPANY; a.k.a. NOURI PETROCHEMICAL COMPLEX), Pars Special Economic Energy Zone, Assaluyeh Port, Bushehr, Iran; Additional Sanctions Information—Subject to Secondary Sanctions [IRAN].

158. NPC INTERNATIONAL LIMITED (a.k.a. N P C INTERNATIONAL LTD; a.k.a. NPC INTERNATIONAL COMPANY), 5th Floor NIOC House, 4 Victoria Street, London SW1H 0NE, United Kingdom; Additional Sanctions Information—Subject to Secondary Sanctions; UK Company Number 02696754 (United Kingdom); all offices worldwide [IRAN].

159. NYOS (f.k.a. BRAWNY; f.k.a. MARIGOLD; f.k.a. NABI) (T2DS4) Crude Oil Tanker 298,731DWT 156,809GRT None Identified flag; Former Vessel Flag Malta; alt. Former Vessel Flag Tuvalu; alt. Former Vessel Flag Tanzania; Additional Sanctions Information—Subject to Secondary Sanctions; Vessel Registration Identification IMO 9079080; MMSI 572443210 (vessel) [IRAN] (Linked To: NATIONAL IRANIAN TANKER COMPANY).

160. OIL INDUSTRY INVESTMENT COMPANY (a.k.a. “O.I.I.C.”), No. 83, Sepahbod Gharani Street, Tehran, Iran; website http://www.oiic-ir.com; Additional Sanctions Information—Subject to Secondary Sanctions [IRAN].

161. OMID REY CIVIL & CONSTRUCTION COMPANY (a.k.a. OMID DEVELOPMENT AND CONSTRUCTION; a.k.a. OMID REY CIVIL AND CONSTRUCTION COMPANY; a.k.a. OMID REY RENOVATION AND DEVELOPMENT CO.); website http://www.omidrey.com; Additional Sanctions Information—Subject to Secondary Sanctions [IRAN].

162. ONE CLASS PROPERTIES (PTY) LTD. (a.k.a. ONE CLASS INCORPORATED), Cape Town, South Africa; Additional Sanctions Information—Subject to Secondary Sanctions [IRAN].

163. ONE VISION INVESTMENTS 5 (PTY) LTD. (a.k.a. ONE VISION 5), 3rd Floor, Tygervalley Chambers, Bellville, Cape Town 7530, South Africa; Canal Walk, P.O. Box 17, Century City, Milnerton 7446, South Africa; Additional Sanctions Information—Subject to Secondary Sanctions; Registration ID 2002/022757/07 (South Africa) [IRAN].

164. ONERBANK ZAO (a.k.a. EFTEKHAR BANK; a.k.a. HONOR BANK; a.k.a. HONORBANK; a.k.a. HONORBANK ZAO; a.k.a. ONER BANK; a.k.a. ONERBANK; a.k.a. ONER-BANK), Ulitsa Klary Tsetkin 51, Minsk 220004, Belarus; SWIFT/BIC HNRBBY2X; Registration ID 807000227 (Belarus) issued 16 Oct 2009; all offices worldwide [IRAN].

165. FELICITY (f.k.a. LEYCOTHEA; f.k.a. ORIENTAL) Crude Oil Tanker Panama flag; Former Vessel Flag Panama; Additional Sanctions Information—Subject to Secondary Sanctions; Vessel Registration Identification IMO 9183934 (vessel) [IRAN] (Linked To: NATIONAL IRANIAN TANKER COMPANY).

166. P.C.C. (SINGAPORE) PRIVATE LIMITED (a.k.a. P.C.C. SINGAPORE BRANCH; a.k.a. PCC SINGAPORE PTE LTD), 78 Shenton Way, #08-02 079120, Singapore; 78 Shenton Way, 26-02A Lippo Centre 079120, Singapore; Additional Sanctions Information—Subject to Secondary Sanctions; Registration ID 199708410K (Singapore); all offices worldwide [IRAN].

167. PARDIS INVESTMENT COMPANY (a.k.a. SHERKAT-E SARMAYEGOZARI-E PARDIS), Iran; Unit D4 and C4, 4th Floor, Building 29 Africa, Corner of 25th Street, Africa Boulevard, Tehran, Iran; Additional Sanctions Information—Subject to Secondary Sanctions [IRAN].

168. PARS MCS (a.k.a. PARS MCS CO.; a.k.a. PARS MCS COMPANY), 2nd Floor, No. 4, Sasan Dead End, Afriqa Avenue, After Esfandiar, Crossroads, Tehran, Iran; No. 5 Sasan Alley, Atefi Sharghi St., Afrigha Boulevard, Tehran, Iran; Oshtorjan Industrial Zone, Zob-e Ahan Highway, Isafahan, Iran; website http://www.parsmcs.com; Additional Sanctions Information—Subject to Secondary Sanctions [IRAN].

169. PARS OIL AND GAS COMPANY (a.k.a. POGC), No. 133, Side of Parvin Etesami Alley, opposite Sazman Ab—Dr. Fatemi Avenue, Tehran, Iran; No. 1 Parvin Etesami Street, Fatemi Avenue, Tehran, Iran; Additional Sanctions Information—Subject to Secondary Sanctions [IRAN].

170. PARS OIL CO. (a.k.a. PARS OIL; a.k.a. SHERKAT NAFT PARS SAHAMI AAM), Iran; No. 346, Pars Oil Company Building, Modarres Highway, East Mirdamad Boulevard, Tehran 1549944511, Iran; Postal Box 14155-1473, Tehran 159944511, Iran; website http://www.parsoilco.com; Additional Sanctions Information—Subject to Secondary Sanctions [IRAN].

171. PARS PETROCHEMICAL COMPANY, Pars Special Economic Energy Zone, PO Box 163-75391, Assaluyeh, Bushehr, Iran; Additional Sanctions Information—Subject to Secondary Sanctions [IRAN].

172. PARS PETROCHEMICAL SHIPPING COMPANY, 1st Floor, No. 19, Shenasa Street, Vali E Asr Avenue, Tehran, Iran; website www.parsshipping.com; Additional Sanctions Information—Subject to Secondary Sanctions [IRAN] (Linked To: NATIONAL IRANIAN TANKER COMPANY).

173. PARSAEI, Reza; DOB 09 Aug 1963; citizen Iran; Additional Sanctions Information—Subject to Secondary Sanctions; Director, NIOC International Affairs (London) Ltd. (individual) [IRAN].

174. PASARGAD BANK (a.k.a. BANK-E PASARGAD), Valiasr St., Mirdamad St., No. 430, Tehran, Iran; SWIFT/BIC BKBPIRTH [IRAN].

175. PERSIA OIL & GAS INDUSTRY DEVELOPMENT CO. (a.k.a. PERSIA OIL AND GAS INDUSTRY DEVELOPMENT CO.; a.k.a. TOSE SANAT-E NAFT VA GAS PERSIA), 7th Floor, No. 346, Mirdamad Avenue, Tehran, Iran; Ground Floor, No. 14, Saba Street, Africa Boulevard, Tehran, Iran; website http://www.pogidc.com; Additional Sanctions Information—Subject to Secondary Sanctions [IRAN].

176. PETRO ENERGY INTERTRADE COMPANY, Dubai, United Arab Emirates; Additional Sanctions Information—Subject to Secondary Sanctions [IRAN].

177. PETRO ROYAL FZE, United Arab Emirates; Additional Sanctions Information—Subject to Secondary Sanctions [IRAN].

178. PETRO SUISSE INTERTRADE COMPANY SA, 6 Avenue de la Tour-Haldimand, Pully 1009, Switzerland; Additional Sanctions Information—Subject to Secondary Sanctions [IRAN].

179. PETROCHEMICAL COMMERCIAL COMPANY (U.K.) LIMITED (a.k.a. PCC (UK); a.k.a. PCC UK; a.k.a. PCC UK LTD), 4 Victoria Street, London SW1H 0NE, United Kingdom; Additional Sanctions Information—Subject to Secondary Sanctions; UK Company Number 02647333 (United Kingdom); all offices worldwide [IRAN].

180. PETROCHEMICAL COMMERCIAL COMPANY FZE (a.k.a. PCC FZE), 1703, 17th Floor, Dubai World Trade Center Tower, Sheikh Zayed Road, Dubai, United Arab Emirates; Office No. 99-A, Maker Tower “F” 9th Floor Cutte Pavade, Colabe, Mumbai 700005, India; Additional Sanctions Information—Subject to Secondary Sanctions; all offices worldwide [IRAN].

181. PETROCHEMICAL COMMERCIAL COMPANY INTERNATIONAL (a.k.a. PETROCHEMICAL COMMERCIAL COMPANY INTERNATIONAL LIMITED; a.k.a. PETROCHEMICAL COMMERCIAL COMPANY INTERNATIONAL LTD; a.k.a. PETROCHEMICAL TRADING COMPANY LIMITED; a.k.a. “PCCI”), 41, 1st Floor, International House, The Parade, St. Helier JE2 3QQ, Jersey; Ave. 54, Yimpash Business Center, No. 506, 507, Ashkhabad 744036, Turkmenistan; P.O. Box 261539, Jebel Ali, Dubai, United Arab Emirates; No. 21 End of 9th St, Gandi Ave, Tehran, Iran; 21, Africa Boulevard, Tehran, Iran; Additional Sanctions Information—Subject to Secondary Sanctions; Registration ID 77283 (Jersey); all offices worldwide [IRAN].

182. PETROIRAN DEVELOPMENT COMPANY (PEDCO) LIMITED (a.k.a. PETRO IRAN DEVELOPMENT COMPANY; a.k.a. “PEDCO”), 41, 1st Floor, International House, The Parade, St. Helier JE2 3QQ, Jersey; National Iranian Oil Company—PEDCO, P.O. Box 2965, Al Bathaa Tower, 9th Floor, Apt. 905, Al Buhaira Corniche, Sharjah, United Arab Emirates; P.O. Box 15875-6731, Tehran, Iran; No. 22, 7th Lane, Khalid Eslamboli Street, Shahid Beheshti Avenue, Tehran, Iran; No. 102, Next to Shahid Amir Soheil Tabrizian Alley, Shahid Dastgerdi (Ex Zafar) Street, Shariati Street, Tehran 19199/45111, Iran; Kish Harbour, Bazargan Ferdos Warehouses, Kish Island, Iran; Additional Sanctions Information—Subject to Secondary Sanctions; Registration ID 67493 (Jersey); all offices worldwide [IRAN].

183. PETROPARS INTERNATIONAL FZE (a.k.a. PPI FZE), P.O. Box 72146, Dubai, United Arab Emirates; Additional Sanctions Information—Subject to Secondary Sanctions; all offices worldwide [IRAN].

184. PETROPARS LTD. (a.k.a. PETROPARS LIMITED; a.k.a. “PPL”), No. 35, Farhang Blvd., Saadat Abad, Tehran, Iran; Calle La Guairita, Centro Profesional Eurobuilding, Piso 8, Oficina 8E, Chuao, Caracas 1060, Venezuela; P.O. Box 3136, Road Town, Tortola, Virgin Islands, British; Additional Sanctions Information—Subject to Secondary Sanctions; all offices worldwide [IRAN].

185. PETROPARS UK LIMITED, 47 Queen Anne Street, London W1G 9JG, United Kingdom; Additional Sanctions Information—Subject to Secondary Sanctions; UK Company Number 03503060 (United Kingdom); all offices worldwide [IRAN].

186. POLINEX GENERAL TRADING LLC, Health Care City, Umm Hurair Rd., Oud Mehta Offices, Block A, 4th Floor 420, Dubai, United Arab Emirates; Additional Sanctions Information—Subject to Secondary Sanctions [IRAN].

187. POLYNAR COMPANY, No. 58, St. 14, Qanbarzadeh Avenue, Resalat Highway, Tehran, Iran; website http://www.polynar.com; Additional Sanctions Information—Subject to Secondary Sanctions [IRAN].

188. POURANSARI, Hashem; nationality Iran; Additional Sanctions Information—Subject to Secondary Sanctions; Passport B19488852 (Iran); Managing Director, Asia Energy General Trading (individual) [IRAN].

189. PROTON PETROCHEMICALS SHIPPING LIMITED (a.k.a. PROTON SHIPPING CO; a.k.a. “PSC”), Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

190. REY INVESTMENT COMPANY, 2nd and 3rd Floors, No. 14, Saba Boulevard, After Esfandiar Crossroad, Africa Boulevard, Tehran 1918973657, Iran; website http://www.rey-co.com; Additional Sanctions Information—Subject to Secondary Sanctions [IRAN].

191. REY NIRU ENGINEERING COMPANY (a.k.a. REY NIROO ENGINEERING COMPANY); website http://www.reyniroo.com; Additional Sanctions Information—Subject to Secondary Sanctions [IRAN].

192. REYCO GMBH. (a.k.a. REYCO GMBH GERMANY), Karlstrasse 19, Dinslaken, Nordrhein-Westfalen 46535, Germany; Additional Sanctions Information—Subject to Secondary Sanctions [IRAN].

193. RISHMAK PRODUCTIVE & EXPORTS COMPANY (a.k.a. RISHMAK COMPANY; a.k.a. RISHMAK EXPORT AND MANUFACTURING P.J.S.; a.k.a. RISHMAK PRODUCTION AND EXPORT COMPANY; a.k.a. RISHMAK PRODUCTIVE AND EXPORTS COMPANY; a.k.a. SHERKAT-E TOLID VA SADERAT-E RISHMAK), Rishmak Cross Rd., 3rd Km. of Amir Kabir Road, Shiraz 71365, Iran; Additional Sanctions Information—Subject to Secondary Sanctions [IRAN].

194. ROYAL ARYA CO. (a.k.a. ARIA ROYAL CONSTRUCTION COMPANY), Iran; Additional Sanctions Information—Subject to Secondary Sanctions [IRAN].

195. SILVIA I (f.k.a. MAGNOLIA; f.k.a. SABRINA; f.k.a. SARVESTAN) (5IM590) Crude Oil Tanker 159,711DWT 81,479GRT Panama flag; Former Vessel Flag Malta; alt. Former Vessel Flag Tanzania; Additional Sanctions Information—Subject to Secondary Sanctions; Vessel Registration Identification IMO 9172052; MMSI 677049000 (vessel) [IRAN] (Linked To: NATIONAL IRANIAN TANKER COMPANY).

196. SADAF PETROCHEMICAL ASSALUYEH COMPANY (a.k.a. SADAF ASALUYEH CO.; a.k.a. SADAF CHEMICAL ASALUYEH COMPANY; a.k.a. SADAF PETROCHEMICAL ASSALUYEH INVESTMENT SERVICE), Assaluyeh, Iran; South Pars Special Economy/Energy Zone, Iran; Additional Sanctions Information—Subject to Secondary Sanctions [IRAN].

197. SERENA (f.k.a. SALALEH; f.k.a. SONGBIRD; a.k.a. YARD NO. 1224 SHANGHAI WAIGAOQIAO) Crude Oil Tanker 318,000DWT 165,000GRT Panama flag; Former Vessel Flag Malta; Additional Sanctions Information—Subject to Secondary Sanctions; Vessel Registration Identification IMO 9569645 (vessel) [IRAN] (Linked To: NATIONAL IRANIAN TANKER COMPANY).

198. SAMAN BANK (a.k.a. BANK-E SAMAN), Vali Asr. St. No. 3, Before Vey Park intersection, corner of Tarakesh Dooz St., Tehran, Iran; SWIFT/BIC SABCIRTH [IRAN].

199. SAMAN SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

200. SAMBOUK SHIPPING FZC, FITCO Building No. 3, Office 101, 1st Floor, P.O. Box 50044, Fujairah, United Arab Emirates; Office 1202, Crystal Plaza, PO Box 50044, Buhaira Corniche, Sharjah, United Arab Emirates; Additional Sanctions Information—Subject to Secondary Sanctions [IRAN].

201. SANCHI (f.k.a. GARDENIA; f.k.a. SEAHORSE; f.k.a. SEPID) (T2EF4) Crude Oil Tanker 164,154DWT 85,462GRT None Identified flag; Former Vessel Flag Malta; alt. Former Vessel Flag Tuvalu; alt. Former Vessel Flag Tanzania; Additional Sanctions Information—Subject to Secondary Sanctions; Vessel Registration Identification IMO 9356608; MMSI 572455210 (vessel) [IRAN] (Linked To: NATIONAL IRANIAN TANKER COMPANY).

202. SARDASHT (EQKG) Landing Craft 640DWT 478GRT Iran flag; Additional Sanctions Information—Subject to Secondary Sanctions; Vessel Registration Identification IMO 8517231; MMSI 422142000 (vessel) [IRAN] (Linked To: NATIONAL IRANIAN TANKER COMPANY).

203. SARMAYEH BANK (a.k.a. BANK-E SARMAYEH), Sepahod Gharani No. 24, Corner of Arak St., Tehran, Iran [IRAN].

204. SARV SHIPPING COMPANY LIMITED, 198 Old Bakery Street, Valletta VLT 1455, Malta; Additional Sanctions Information—Subject to Secondary Sanctions; Telephone (356)(21241232) [IRAN] (Linked To: NATIONAL IRANIAN TANKER COMPANY).

205. SEPID SHIPPING COMPANY LIMITED, 198 Old Bakery Street, Valletta VLT 1455, Malta; Additional Sanctions Information—Subject to Secondary Sanctions; Telephone (356)(21241232) [IRAN] (Linked To: NATIONAL IRANIAN TANKER COMPANY).

206. SEYYEDI, Seyed Nasser Mohammad; DOB 21 Apr 1963; citizen Iran; Additional Sanctions Information—Subject to Secondary Sanctions; Passport B14354139 (Iran); alt. Passport L18507193 (Iran); alt. Passport X95321252 (Iran); Managing Director, Sima General Trading (individual) [IRAN].

207. SHAHID TONDGOOYAN PETROCHEMICAL COMPANY (a.k.a. SHAHID TONDGUYAN PETROCHEMICAL COMPANY), Petrochemical Special Economic Zone (PETZONE), Iran; Additional Sanctions Information—Subject to Secondary Sanctions [IRAN].

208. SHAZAND PETROCHEMICAL COMPANY (a.k.a. AR.P.C.; a.k.a. ARAK PETROCHEMICAL COMPANY; a.k.a. SHAZAND PETROCHEMICAL CORPORATION), No. 68, Taban St., Vali Asr Ave., Tehran, Iran; Additional Sanctions Information—Subject to Secondary Sanctions [IRAN].

209. ARTAVIL (f.k.a. ABADAN; f.k.a. ALPHA; f.k.a. SHONA) (T2EU4) Crude/Oil Products Tanker 99,144DWT 56,068GRT Iran flag; Former Vessel Flag Malta; alt. Former Vessel Flag Tuvalu; alt. Former Vessel Flag None Identified; alt. Former Vessel Flag Tanzania; Additional Sanctions Information—Subject to Secondary Sanctions; Vessel Registration Identification IMO 9187629; MMSI 572469210 (vessel) [IRAN] (Linked To: NATIONAL IRANIAN TANKER COMPANY).

210. ARGO I (f.k.a. AMOL; a.k.a. ARGO 1; f.k.a. CASTOR; f.k.a. CHRISTINA; f.k.a. SILVER CLOUD) (T2EM4) Crude/Oil Products Tanker 99,094DWT 56,068GRT Panama flag; Former Vessel Flag Malta; alt. Former Vessel Flag Tuvalu; alt. Former Vessel Flag Tanzania; Additional Sanctions Information—Subject to Secondary Sanctions; Vessel Registration Identification IMO 9187667; MMSI 256843000 (vessel) [IRAN] (Linked To: NATIONAL IRANIAN TANKER COMPANY).

211. SIMA GENERAL TRADING CO FZE (a.k.a. SIMA GENERAL TRADING & INDUSTRIALS FOR BUILDING MATERIAL CO FZE), Office No. 703 Office Tower, Twin Tower, Baniyas Rd., Deira, P.O. Box 49754, Dubai, United Arab Emirates; Additional Sanctions Information—Subject to Secondary Sanctions [IRAN].

212. SIMA SHIPPING COMPANY LIMITED, 198 Old Bakery Street, Valletta VLT 1455, Malta; Additional Sanctions Information—Subject to Secondary Sanctions; Telephone (356)(21241232) [IRAN] (Linked To: NATIONAL IRANIAN TANKER COMPANY).

213. SINA SHIPPING COMPANY LIMITED, 198 Old Bakery Street, Valletta VLT 1455, Malta; Additional Sanctions Information—Subject to Secondary Sanctions; Telephone (356)(21241232) [IRAN] (Linked To: NATIONAL IRANIAN TANKER COMPANY).

214. DORENA (f.k.a. SKYLINE) (5IM632) Crude Oil Tanker Panama flag (NITC); Former Vessel Flag Tanzania; Additional Sanctions Information—Subject to Secondary Sanctions; Vessel Registration Identification IMO 9569669 (vessel) [IRAN] (Linked To: NATIONAL IRANIAN TANKER COMPANY).

215. SEA CLIFF (f.k.a. SMOOTH; a.k.a. YARD NO. 1225 SHANGHAI WAIGAOQIAO) Crude Oil Tanker 318,000DWT 165,000GRT Panama flag; Former Vessel Flag Malta; Additional Sanctions Information—Subject to Secondary Sanctions; Vessel Registration Identification IMO 9569657 (vessel) [IRAN] (Linked To: NATIONAL IRANIAN TANKER COMPANY).

216. STARK I (f.k.a. CLOVE; f.k.a. SEMNAN; f.k.a. SPARROW) (5IM 595) Crude Oil Tanker 159,681DWT 81,479GRT Panama flag; Former Vessel Flag Malta; alt. Former Vessel Flag Tanzania; Additional Sanctions Information—Subject to Secondary Sanctions; Vessel Registration Identification IMO 9171450; MMSI 677049500 (vessel) [IRAN] (Linked To: NATIONAL IRANIAN TANKER COMPANY).

217. SALINA (f.k.a. BLACKSTONE; f.k.a. SARV; f.k.a. SPLENDOUR) (9HNZ9) Crude Oil Tanker 163,870DWT 85,462GRT Panama flag; Former Vessel Flag Malta; alt. Former Vessel Flag Tuvalu; alt. Former Vessel Flag Seychelles; Additional Sanctions Information—Subject to Secondary Sanctions; Vessel Registration Identification IMO 9357377; MMSI 249257000 (vessel) [IRAN] (Linked To: NATIONAL IRANIAN TANKER COMPANY).

218. SABITI (f.k.a. LANTANA; f.k.a. SANANDAJ; f.k.a. SPOTLESS) (5IM591) Crude Oil Tanker 159,681DWT 81,479GRT Panama flag; Former Vessel Flag Malta; alt. Former Vessel Flag Tanzania; Additional Sanctions Information—Subject to Secondary Sanctions; Vessel Registration Identification IMO 9172040; MMSI 677049100 (vessel) [IRAN] (Linked To: NATIONAL IRANIAN TANKER COMPANY).

219. SANA (f.k.a. BAIKAL; f.k.a. BLOSSOM; f.k.a. SIMA; f.k.a. SUCCESS) (T2DY4) Crude Oil Tanker 164,154DWT 85,462GRT Panama flag; Former Vessel Flag Malta; alt. Former Vessel Flag Tuvalu; alt. Former Vessel Flag Tanzania; Additional Sanctions Information—Subject to Secondary Sanctions; Vessel Registration Identification IMO 9357353; MMSI 572449210 (vessel) [IRAN] (Linked To: NATIONAL IRANIAN TANKER COMPANY).

220. ARK (f.k.a. ABADEH; f.k.a. CRYSTAL; f.k.a. SUNDIAL) (9HDQ9) Crude/Oil Products Tanker 99,030DWT 56,068GRT Panama flag; Former Vessel Flag Malta; alt. Former Vessel Flag Tanzania; Additional Sanctions Information—Subject to Secondary Sanctions; Vessel Registration Identification IMO 9187655; MMSI 256842000 (vessel) [IRAN] (Linked To: NATIONAL IRANIAN TANKER COMPANY).

221. SONIA I (f.k.a. AZALEA; f.k.a. SINA; f.k.a. SUNEAST) (9HNY9) Crude Oil Tanker 164,154DWT 85,462GRT Panama flag; Former Vessel Flag Malta; alt. Former Vessel Flag Tuvalu; alt. Former Vessel Flag None Identified; alt. Former Vessel Flag Seychelles; Additional Sanctions Information—Subject to Secondary Sanctions; Vessel Registration Identification IMO 9357365; MMSI 249256000 (vessel) [IRAN] (Linked To: NATIONAL IRANIAN TANKER COMPANY).

222. MARIA III (f.k.a. SUNRISE) LPG Tanker Panama flag (NITC); Additional Sanctions Information—Subject to Secondary Sanctions; Vessel Registration Identification IMO 9615092 (vessel) [IRAN] (Linked To: NATIONAL IRANIAN TANKER COMPANY).

223. SEA STAR III (f.k.a. CARNATION; f.k.a. SAFE; a.k.a. SEASTAR III; f.k.a. SUNSHINE; a.k.a. YARD NO. 1220 SHANGHAI WAIGAOQIAO) Crude Oil Tanker 318,000DWT 165,000GRT Panama flag; Former Vessel Flag Tuvalu; alt. Former Vessel Flag Malta; alt. Former Vessel Flag Tanzania; Additional Sanctions Information—Subject to Secondary Sanctions; Vessel Registration Identification IMO 9569205 (vessel) [IRAN] (Linked To: NATIONAL IRANIAN TANKER COMPANY).

224. SINOPA (f.k.a. DAISY; f.k.a. SUPERIOR; f.k.a. SUSANGIRD) (5IM584) Crude Oil Tanker 159,681DWT 81,479GRT Panama flag; Former Vessel Flag Malta; alt. Former Vessel Flag Tanzania; Additional Sanctions Information—Subject to Secondary Sanctions; Vessel Registration Identification IMO 9172038; MMSI 677048400 (vessel) [IRAN] (Linked To: NATIONAL IRANIAN TANKER COMPANY).

225. SOL (f.k.a. CAMELLIA; f.k.a. SAVEH; f.k.a. SWALLOW) (5IM 594) Crude Oil Tanker 159,758DWT 81,479GRT Panama flag; Former Vessel Flag Malta; alt. Former Vessel Flag Tanzania; Additional Sanctions Information—Subject to Secondary Sanctions; Vessel Registration Identification IMO 9171462; MMSI 677049400 (vessel) [IRAN] (Linked To: NATIONAL IRANIAN TANKER COMPANY).

226. SWISS MANAGEMENT SERVICES SARL, 28C, Route de Denges, Lonay 1027, Switzerland; Additional Sanctions Information—Subject to Secondary Sanctions [IRAN].

227. SYNERGY GENERAL TRADING FZE, Sharjah—Saif Zone, Sharjah Airport International Free Zone, United Arab Emirates; Additional Sanctions Information—Subject to Secondary Sanctions [IRAN].

228. TABATABAEI, Seyyed Mohammad Ali Khatibi; DOB 27 Sep 1955; citizen Iran; Additional Sanctions Information—Subject to Secondary Sanctions; Director, NIOC International Affairs (London) Ltd.; Director of International Affairs, NIOC (individual) [IRAN].

229. TABRIZ PETROCHEMICAL COMPANY, Off Km 8, Azarshahr Road, Kojuvar Road, Tabriz, Iran; Additional Sanctions Information—Subject to Secondary Sanctions [IRAN].

230. TADBIR BROKERAGE COMPANY (a.k.a. SHERKAT-E KARGOZARI-E TADBIRGARAN-E FARDA; a.k.a. TADBIRGARAN FARDA BROKERAGE COMPANY; a.k.a. TADBIRGARAN-E FARDA BROKERAGE COMPANY; a.k.a. TADBIRGARANE FARDA MERCANTILE EXCHANGE CO.), Unit C2, 2nd Floor, Building No. 29, Corner of 25th Street, After Jahan Koudak, Cross Road Africa Street, Tehran 15179, Iran; website http://www.tadbirbroker.com; Additional Sanctions Information—Subject to Secondary Sanctions [IRAN].

231. TADBIR CONSTRUCTION DEVELOPMENT COMPANY (a.k.a. GORUH-E TOSE-E SAKHTEMAN-E TADBIR; a.k.a. TADBIR BUILDING EXPANSION GROUP; a.k.a. TADBIR HOUSING DEVELOPMENT GROUP), Block 1, Mehr Passage, 4th Street, Iran Zamin Boulevard, Shahrak Qods, Tehran, Iran; Additional Sanctions Information—Subject to Secondary Sanctions [IRAN].

232. TADBIR ECONOMIC DEVELOPMENT GROUP (a.k.a. TADBIR GROUP), 16 Avenue Bucharest, Tehran, Iran; Additional Sanctions Information—Subject to Secondary Sanctions [IRAN].

233. TADBIR ENERGY DEVELOPMENT GROUP CO., 6th Floor, Mirdamad Avenue, No. 346, Tehran, Iran; website http://www.tadbirenergy.com; Additional Sanctions Information—Subject to Secondary Sanctions [IRAN].

234. TADBIR INVESTMENT COMPANY, Tehran, Iran; Additional Sanctions Information—Subject to Secondary Sanctions [IRAN].

235. TAT BANK (a.k.a. BANK-E TAT), Shahid Ahmad Ghasir (Bocharest), Shahid Ahmadian (15th) St., No. 1, Tehran, Iran; No. 1 Ahmadian Street, Bokharest Avenue, Tehran, Iran; SWIFT/BIC TATBIRTH [IRAN].

236. TC SHIPPING COMPANY LIMITED, Diagoras House, 7th Floor, 16 Panteli Katelari Street, Nicosia 1097, Cyprus; Additional Sanctions Information—Subject to Secondary Sanctions; Telephone (357)(22660766); Fax (357)(22668608) [IRAN] (Linked To: NATIONAL IRANIAN TANKER COMPANY).

237. TOLOU (EQOD) Crew/Supply Vessel 250DWT 178GRT Iran flag; Additional Sanctions Information—Subject to Secondary Sanctions; Vessel Registration Identification IMO 8318178 (vessel) [IRAN] (Linked To: NATIONAL IRANIAN TANKER COMPANY).

238. TOSEE EQTESAD AYANDEHSAZAN COMPANY (a.k.a. TEACO; a.k.a. TOSEE EGHTESAD AYANDEHSAZAN COMPANY), 39 Gandhi Avenue, Tehran 1517883115, Iran; Additional Sanctions Information—Subject to Secondary Sanctions [IRAN].

239. TOSEE TAAVON BANK (a.k.a. BANK-E TOSE'E TA'AVON; a.k.a. COOPERATIVE DEVELOPMENT BANK), Mirdamad Blvd., North East Corner of Mirdamad Bridge, No. 271, Tehran, Iran [IRAN].

240. TOURISM BANK (a.k.a. BANK-E GARDESHGARI), Vali Asr St., above Vey Park, Shahid Fiazi St., No. 51, first floor, Tehran, Iran [IRAN].

241. VALFAJR2 (EQOX) Tug 650DWT 419GRT Iran flag; Additional Sanctions Information—Subject to Secondary Sanctions; Vessel Registration Identification IMO 8400103 (vessel) [IRAN] (Linked To: NATIONAL IRANIAN TANKER COMPANY).

242. WEST SUN TRADE GMBH (a.k.a. WEST SUN TRADE), Winterhuder Weg 8, Hamburg 22085, Germany; Arak Machine Mfg. Bldg., 2nd Floor, opp. of College Economy, Northern Kargar Ave., Tehran 14136, Iran; Mundsburger Damm 16, Hamburg 22087, Germany; Additional Sanctions Information—Subject to Secondary Sanctions; Registration ID HRB 45757 (Germany); all offices worldwide [IRAN].

243. YAGHOUB (EQOE) Platform Supply Ship 950DWT 1,019GRT Iran flag; Additional Sanctions Information—Subject to Secondary Sanctions; Vessel Registration Identification IMO 8316168; MMSI 422150000 (vessel) [IRAN] (Linked To: NATIONAL IRANIAN TANKER COMPANY).

244. YANGZHOU DAYANG DY905 (a.k.a. YARD NO. DY905 YANGZHOU D.) LPG Tanker 11,750DWT 8,750GRT Iran flag; Additional Sanctions Information—Subject to Secondary Sanctions; Vessel Registration Identification IMO 9575424 (vessel) [IRAN] (Linked To: NATIONAL IRANIAN TANKER COMPANY).

245. YOUNES (EQYY) Platform Supply Ship Iran flag; Additional Sanctions Information—Subject to Secondary Sanctions; Vessel Registration Identification IMO 8212465 (vessel) [IRAN] (Linked To: NATIONAL IRANIAN TANKER COMPANY).

246. YOUSEF (EQOG) Offshore Tug/Supply Ship 1,050DWT 584GRT Iran flag; Additional Sanctions Information—Subject to Secondary Sanctions; Vessel Registration Identification IMO 8316106; MMSI 422144000 (vessel) [IRAN] (Linked To: NATIONAL IRANIAN TANKER COMPANY).

247. ZARIN RAFSANJAN CEMENT COMPANY (a.k.a. RAFSANJAN CEMENT COMPANY; a.k.a. ZARRIN RAFSANJAN CEMENT COMPANY), 2nd Floor, No. 67, North Sindokht Street, West Dr. Fatemi Avenue, Tehran 1411953943, Iran; website http://www.zarrincement.com; Additional Sanctions Information—Subject to Secondary Sanctions [IRAN].

248. HERO II (f.k.a. HADI; f.k.a. PIONEER; f.k.a. ZEUS) (T2EJ4) Crude Oil Tanker 317,355DWT 163,650GRT Panama flag; Former Vessel Flag Cyprus; alt. Former Vessel Flag Tuvalu; Additional Sanctions Information—Subject to Secondary Sanctions; Vessel Registration Identification IMO 9362073; MMSI 572459210 (vessel) [IRAN] (Linked To: NATIONAL IRANIAN TANKER COMPANY).

249. ZIRACCHIAN ZADEH, Mahmoud; DOB 24 Jul 1959; citizen Iran; Additional Sanctions Information—Subject to Secondary Sanctions; Director, Iranian Oil Company (U.K.) Ltd. (individual) [IRAN].

Dated: March 26, 2020.
Andrea M. Gacki,
Director, Office of Foreign Assets Control, U.S. Department of the Treasury.

[FR Doc. 2020-06652 Filed 3-31-20; 8:45 am]

BILLING CODE 4810-AL-P